ENVIRONMENTAL PROTECTION AGENCY

40 CFR Part 52

[NV 126-NBK; FRL-9634-9]

Approval and Promulgation of Implementation Plans; State of Nevada; Revised Format for Materials Incorporated by Reference

AGENCY: Environmental Protection Agency (EPA).

ACTION: Final rule; notice of administrative change.

SUMMARY: EPA is revising the format for materials submitted by the State of Nevada that are incorporated by reference (IBR) into the Nevada State Implementation Plan (SIP). The regulations affected by this format change have all been previously submitted by the State of Nevada and approved by EPA. This format revision will primarily affect the “Identification of plan” section, as well as the format of the SIP materials that will be available for public inspection at the National Archives and Records Administration (NARA), the Air and Radiation Docket and Information Center located at EPA Headquarters in Washington, DC, and the EPA Regional Office. EPA is also adding a table in the “Identification of plan” section which summarizes the approval actions that EPA has taken on the non-regulatory and quasi-regulatory portions of the Nevada SIP.

DATES: Effective Date: This rule is effective on March 13, 2012.

ADDRESSES: SIP materials which are incorporated by reference into 40 CFR part 52 are available for inspection at the following locations:

Air Division, U.S. Environmental Protection Agency, Region IX, 75 Hawthorne Street, San Francisco, CA 94105-3901;

Air and Radiation Docket and Information Center, EPA Headquarters Library, Infoterra Room (Room Number 3334), EPA West Building, 1301 Constitution Ave. NW., Washington, DC 20460; and

National Archives and Records Administration.

If you wish to obtain materials from a docket in the EPA Headquarters Library, please call the Office of Air and Radiation (OAR) Docket/Telephone number: 202-566-1742. For information on the availability of this material at NARA, call 202-741-6030, or go to: http://www.archives.federal-register/cfr/ibr-locations.html.

FOR FURTHER INFORMATION CONTACT: Cynthia G. Allen, EPA Region IX, (415) 947-4120, allen.cynthia@epa.gov.

SUPPLEMENTARY INFORMATION: Throughout this document, wherever “we”, “us” or “our” are used, we mean EPA. Information is organized as follows:

Table of Contents

I. Background

A. What a SIP Is

B. How EPA Enforces SIPs

C. How the State and EPA Update the SIP

D. How EPA Compiles the SIPs

E. How EPA Organizes the SIP Compilation

F. Where You Can Find a Copy of the SIP Compilation

G. The Format of the New Identification of Plan Section

H. When a SIP Revision Becomes Federally Enforceable

I. The Historical Record of SIP Revision Approvals

II. What EPA Is Doing in This Action

III. Statutory and Executive Order Reviews

I. Background

A. What a SIP Is

Each State has a SIP containing the control measures and strategies used to attain and maintain the national ambient air quality standards (NAAQS). The SIP is extensive, containing such elements as air pollution control regulations, emission inventories, monitoring network, attainment demonstrations, and enforcement mechanisms.

B. How EPA Enforces SIPs

Each state must formally adopt the control measures and strategies in the SIP after the public has had an opportunity to comment on them. They are then submitted to EPA as SIP revisions upon which EPA must formally act. Once these control measures and strategies are approved by EPA, after notice and comment, they are incorporated into the Federally approved SIP and are identified in part 52 (Approval and Promulgation of Implementation Plans), title 40 of the Code of Federal Regulations (40 CFR part 52). The actual state regulations approved by EPA are not reproduced in their entirety in 40 CFR part 52, but are “incorporated by reference” (IBR'd) which means that EPA has approved a given state regulation with a specific effective date. This format allows both EPA and the public to know which measures are contained in a given SIP and ensures that the state is enforcing the regulations. It also allows EPA and the public to take enforcement action, should a state not enforce its SIP-approved regulations.

C. How the State and EPA Updates the SIP

The SIP is a living document which the state can revise as necessary to address the unique air pollution problems in the state. Therefore, EPA must, from time to time, take action on SIP revisions containing new and/or revised regulations in order to make them part of the SIP. On May 22, 1997 (62 FR 27968), EPA revised the procedures for IBR'ing Federally-approved SIPs, as a result of consultations between EPA and the Office of the Federal Register (OFR).

EPA began the process of developing: (1) A revised SIP document for each state that would be IBR'd under the provisions of title 1 CFR part 51; (2) a revised mechanism for announcing EPA approval of revisions to an applicable SIP and updating both the IBR document and the CFR; and (3) a revised format of the “Identification of Plan” sections for each applicable subpart to reflect these revised IBR procedures. The description of the revised SIP document, IBR procedures, and “Identification of Plan” format are discussed in further detail in the May 22, 1997, Federal Register document.

D. How EPA Compiles the SIPs

The Federally-approved regulations, source-specific permits, and nonregulatory provisions (entirely or portions of) submitted by each state agency have been compiled by EPA into a “SIP compilation.” The SIP compilation contains the updated regulations, source-specific permits, and nonregulatory provisions approved by EPA through previous rulemaking actions in the Federal Register.

E. How EPA Organizes the SIP Compilation

Each compilation contains three parts. Part one contains the regulations, part two contains the source-specific requirements that have been approved as part of the SIP, and part three contains nonregulatory provisions that have been EPA approved. Each part consists of a table of identifying information for each SIP-approved regulation, each SIP-approved source-specific permit, and each nonregulatory SIP provision. In this action, EPA is publishing the tables summarizing the applicable SIP requirements for Nevada. The EPA Regional Offices have the primary responsibility for updating the compilations and ensuring their accuracy.

F. Where You Can Find a Copy of the SIP Compilation

EPA Region IX developed and will maintain the compilation for Nevada. A copy of the full text of Nevada's regulatory and source-specific SIP compilation will also be maintained at NARA and EPA's Air Docket and Information Center.

G. The Format of the New Identification of Plan Section

In order to better serve the public, EPA revised the organization of the “Identification of Plan” section and included additional information to clarify the enforceable elements of the SIP. The revised Identification of Plan section contains five subsections:

1. Purpose and scope.

2. Incorporation by reference.

3. EPA-approved regulations.

4. EPA-approved source-specific permits.

5. EPA-approved nonregulatory and quasi-regulatory provisions such as air quality attainment plans, rate of progress plans, maintenance plans, monitoring networks, and small business assistance programs.

H. When a SIP Revision Becomes Federally Enforceable

All revisions to the applicable SIP become Federally enforceable as of the effective date of the revisions to paragraphs (c), (d), or (e) of the applicable Identification of Plan section found in each subpart of 40 CFR part 52.

I. The Historical Record of SIP Revision Approvals

To facilitate enforcement of previously approved SIP provisions and provide a smooth transition to the new SIP processing system, EPA retains the original Identification of Plan section, previously appearing in the CFR as the first or second section of part 52 for each state subpart. After an initial two-year period, EPA will review its experience with the new system and enforceability of previously approved SIP measures and will decide whether or not to retain the Identification of Plan appendices for some further period.

II. What EPA Is Doing in This Action

Today's rule constitutes a “housekeeping” exercise to ensure that all revisions to the state programs that have occurred are accurately reflected in 40 CFR part 52. State SIP revisions are controlled by EPA regulations at 40 CFR part 51. When EPA receives a formal SIP revision request, the Agency must publish the proposed revision in the Federal Register and provide for public comment before approval.

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved state programs. Under section 553 of the APA, an agency may find good cause where procedures are “impractical, unnecessary, or contrary to the public interest.” Public comment is “unnecessary” and “contrary to the public interest” since the codification only reflects existing law. Immediate notice in the CFR benefits the public by removing outdated citations.

III. Statutory and Executive Order Reviews

A. General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the SUPPLEMENTARY INFORMATION section above, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal government and Indian tribes, or on the distribution of power and responsibilities between the Federal government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (63 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.). EPA's compliance with these statutes and Executive Orders for the underlying rules are discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's action simply codifies provisions which are already in effect as a matter of law in Federal and approved State programs. 5 U.S.C. 802(2). As stated previously, EPA has made such a good cause finding, including the reasons therefore, and established an effective of March 13, 2012. EPA will submit a report containing this rule and other required information to the U.S. Senate, the U.S. House of Representatives, and the Comptroller General of the United States prior to publication of the rule in the Federal Register. The change in format to the “Identification of plan” section for the State of Arizona are not a `major rule' as defined by 5 U.S.C. 804(2).

C. Petitions for Judicial Review

EPA has also determined that the provisions of section 307(b)(1) of the Clean Air Act pertaining to petitions for judicial review are not applicable to this action. Prior EPA rulemaking actions for each individual component of the Nevada SIP compilations had previously afforded interested parties the opportunity to file a petition for judicial review in the United States Court of Appeals for the appropriate circuit within 60 days of such rulemaking action. Thus, EPA sees no need in this action to reopen the 60-day period for filing such petitions for judicial review for these “Identification of plan” reorganization actions for Nevada.

List of Subjects in 40 CFR Part 52

Environmental protection, Air pollution control, Carbon monoxide, Incorporation by reference, Intergovernmental relations, Nitrogen dioxide, Ozone, Particulate matter, Reporting and recordkeeping requirements, Sulfur dioxide, Volatile organic compounds.

Dated: September 28, 2011.
Keith Takata,
Acting Regional Administrator Region IX.

Part 52, chapter I, title 40 of the Code of Federal Regulations is amended as follows:

PART 52—[AMENDED]

1. The authority citation for part 52 continues to read as follows:

Authority: 42 U.S.C. 7401 et seq.

Subpart DD—State of Nevada

§ 52.1470 [Redesignated as § 52.1490]

2. Section 52.1470 is redesignated as § 52.1490.

3. New § 52.1470 is added to read as follows:

§ 52.1470 Identification of plan.

(a) Purpose and scope. This section sets forth the applicable State implementation plan for the State of Nevada under section 110 of the Clean Air Act, 42 U.S.C. 7401-7671q and 40 CFR part 51 to meet national ambient air quality standards.

(b) Incorporation by reference. (1) Material listed in paragraph (c) and (d) of this section with an EPA approval date prior to September 28, 2010, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after September 28, 2010, will be incorporated by reference in the next update to the SIP compilation.

(2) EPA Region IX certifies that the rules/regulations provided by EPA in the SIP compilation at the addresses in paragraph (b)(3) of this section are an exact duplicate of the officially promulgated State rules/regulations which have been approved as part of the State implementation plan as of September 28, 2010.

(3) Copies of the materials incorporated by reference may be inspected at the Region IX EPA Office at 75 Hawthorne Street, San Francisco, CA 94105; Air and Radiation Docket and Information Center, EPA Headquarters Library, Infoterra Room (Room Number 3334), EPA West Building, 1301 Constitution Ave. NW., Washington, DC; or the National Archives and Records Administration (NARA). For information on the availability of this material at NARA, call (202) 741-6030, or go to: http://www.archives.gov/federal-register/cfr/ibr-locations.html.

(c) EPA approved regulations.

Table 1—EPA-Approved Nevada Regulations and Statutes
State citation | Title/subject | State effective date | EPA approval date | Additional explanation
Nevada Administrative Code, Chapter 445B, Air Controls, Air Pollution; Nevada Administrative Code, Chapter 445, Air Controls, Air Pollution; Nevada Air Quality Regulations—Definitions
445B.001 | Definitions | 9/24/04 | 73 FR 19144 (4/9/08) | Most recently approved version was submitted on 6/26/07. See 40 CFR 52.1490(c)(66)(i)(A)(3)(ii).
445.431 | “Acid mist” defined | 8/28/79 | 49 FR 11626 (3/27/84) | Submitted on 10/26/82. See 40 CFR 52.1490(c)(25)(i)(A).
445B.002 | “Act” defined | 12/4/76 | 71 FR 15040 (3/27/06) | Most recently approved version was submitted on 1/12/06. See 40 CFR 52.1490(c)(56)(i)(A)(1)(i).
445B.004 | “Administrator” defined | 10/14/82 | 71 FR 15040 (3/27/06) | Most recently approved version was submitted on 1/12/06. See 40 CFR 52.1490(c)(56)(i)(A)(2)(i).
445B.005 | “Affected facility” defined | 10/30/95 | 71 FR 15040 (3/27/06) | Most recently approved version was submitted on 1/12/06. See 40 CFR 52.1490(c)(56)(i)(A)(3)(i).
445B.006 | “Affected source” defined | 10/25/01 | 71 FR 15040 (3/27/06) | Most recently approved version was submitted on 1/12/06. See 40 CFR 52.1490(c)(56)(i)(A)(3)(v).
445B.009 | “Air-conditioning equipment” defined | 12/4/76 | 71 FR 15040 (3/27/06) | Most recently approved version was submitted on 1/12/06. See 40 CFR 52.1490(c)(56)(i)(A)(1)(i).
445.436 | “Air contaminant” defined | 8/28/79 | 49 FR 11626 (3/27/84) | Most recently approved version was submitted on 10/26/82. See 40 CFR 52.1490(c)(25)(i)(A).
445B.011 | “Air pollution” defined | 3/5/98 | 71 FR 15040 (3/27/06) | Most recently approved version was submitted on 1/12/06. See 40 CFR 52.1490(c)(56)(i)(A)(3)(ii).
445B.015 | “Alternative method” defined | 10/30/95 | 71 FR 71486 (12/11/06) | Most recently approved version was submitted on 1/12/06. See 40 CFR 52.1490(c)(56)(i)(A)(7)(i).
445B.018 | “Ambient air” defined | 10/22/87 | 71 FR 15040 (3/27/06) | Most recently approved version was submitted on 1/12/06. See 40 CFR 52.1490(c)(56)(i)(A)(2)(ii).
445B.022 | “Atmosphere” defined | 12/4/76 | 71 FR 15040 (3/27/06) | Most recently approved version was submitted on 1/12/06. See 40 CFR 52.1490(c)(56)(i)(A)(1)(i).
445.445 | “Barite” defined | 1/25/79 | 49 FR 11626 (3/27/84) | Submitted on 10/26/82. See 40 CFR 52.1490(c)(25)(i)(A).
445.447 | “Barite grinding mill” defined | 1/25/79 | 49 FR 11626 (3/27/84) | Submitted on 10/26/82. See 40 CFR 52.1490(c)(25)(i)(A).
445B.030 | “British thermal units” defined | 10/22/87 | 71 FR 15040 (3/27/06) | Most recently approved version was submitted on 1/12/06. See 40 CFR 52.1490(c)(56)(i)(A)(2)(ii).
445.458 | “Calcine” defined | 12/4/76 | 49 FR 11626 (3/27/84) | Most recently approved version was submitted on 10/26/82. See 40 CFR 52.1490(c)(25)(i)(A).
445.464 | “Coal” defined | 12/4/76 | 49 FR 11626 (3/27/84) | Most recently approved version was submitted on 10/26/82. See 40 CFR 52.1490(c)(25)(i)(A).
445.470 | “Colemanite” defined | 11/17/78 | 49 FR 11626 (3/27/84) | Submitted on 10/26/82. See 40 CFR 52.1490(c)(25)(i)(A).
445.471 | “Colemanite processing plant” defined | 11/17/78 | 49 FR 11626 (3/27/84) | Submitted on 10/26/82. See 40 CFR 52.1490(c)(25)(i)(A).
445B.042 | “Combustible refuse” defined | 12/4/76 | 71 FR 15040 (3/27/06) | Most recently approved version was submitted on 1/12/06. See 40 CFR 52.1490(c)(56)(i)(A)(1)(i).
Article 1.36 | Commenced | 12/4/76 | 43 FR 36932 (8/21/78) | Submitted on 12/10/76. See 40 CFR 52.1490(c)(12).
445B.0425 | “Commission” defined | 3/5/98 | 71 FR 15040 (3/27/06) | Submitted on 1/12/06. See 40 CFR 52.1490(c)(56)(i)(A)(3)(ii).
Article 1.42 | Construction | 12/4/76 | 43 FR 36932 (8/21/78) | Submitted on 12/10/76. See 40 CFR 52.1490(c)(12).
Article 1.43 | Contiguous property | 11/7/75 | 43 FR 36932 (8/21/78) | Submitted on 12/10/76. See 40 CFR 52.1490(c)(12).
445B.047 | “Continuous monitoring system” defined | 12/4/76 | 71 FR 15040 (3/27/06) | Most recently approved version was submitted on 1/12/06. See 40 CFR 52.1490(c)(56)(i)(A)(1)(i).
445.482 | “Converter” defined | 12/4/76 | 49 FR 11626 (3/27/84) | Most recently approved version was submitted on 10/26/82. See 40 CFR 52.1490(c)(25)(i)(A).
445B.051 | “Day” defined | 10/22/87 | 71 FR 15040 (3/27/06) | Most recently approved version was submitted on 1/12/06. See 40 CFR 52.1490(c)(56)(i)(A)(2)(ii).
445B.053 | “Director” defined | 12/4/76 | 71 FR 15040 (3/27/06) | Most recently approved version was submitted on 1/12/06. See 40 CFR 52.1490(c)(56)(i)(A)(1)(i).
445.492 | “Dryer” defined | 12/4/76 | 49 FR 11626 (3/27/84) | Most recently approved version was submitted on 10/26/82. See 40 CFR 52.1490(c)(25)(i)(A).
Article 1.60 | Effective date | 12/27/77 | 46 FR 43141 (8/27/81) | Submitted on 12/29/78. See 40 CFR 52.1490(c)(14)(vii).
445B.055 | “Effective date of the program” defined | 12/13/93 | 71 FR 15040 (3/27/06) | Submitted on 1/12/06. See 40 CFR 52.1490(c)(56)(i)(A)(2)(v).
445B.056 | “Emergency” defined | 12/13/93 | 71 FR 15040 (3/27/06) | Submitted on 1/12/06. See 40 CFR 52.1490(c)(56)(i)(A)(2)(v).
445B.058 | “Emission” defined | 3/5/98 | 71 FR 15040 (3/27/06) | Most recently approved version was submitted on 1/12/06. See 40 CFR 52.1490(c)(56)(i)(A)(3)(ii).
445B.059 | “Emission unit” defined | 10/30/95 | 71 FR 15040 (3/27/06) | Most recently approved version was submitted on 1/12/06. See 40 CFR 52.1490(c)(56)(i)(A)(3)(i).
445B.060 | “Enforceable” defined | 10/14/82 | 71 FR 15040 (3/27/06) | Most recently approved version was submitted on 1/12/06. See 40 CFR 52.1490(c)(56)(i)(A)(2)(i).
445B.061 | “EPA” defined | 12/13/93 | 71 FR 15040 (3/27/06) | Submitted on 1/12/06. See 40 CFR 52.1490(c)(56)(i)(A)(2)(v).
445B.062 | “Equivalent method” defined | 10/30/95 | 71 FR 71486 (12/11/06) | Most recently approved version was submitted on 1/12/06. See 40 CFR 52.1490(c)(56)(i)(A)(7)(i).
445B.063 | “Excess emissions” defined | 10/31/05 | 73 FR 19144 (4/9/08) | Most recently approved version was submitted on 6/26/07. See 40 CFR 52.1490(c)(66)(i)(A)(3)(iii).
Article 1.72 | Existing facility | 12/4/76 | 43 FR 36932 (8/21/78) | Submitted on 12/10/76. See 40 CFR 52.1490(c)(12).
Article 1.73 | Existing source | 11/7/75 | 43 FR 36932 (8/21/78) | Submitted on 12/10/76. See 40 CFR 52.1490(c)(12).
445.512 | “Floating roof” defined | 12/4/76 | 49 FR 11626 (3/27/84) | Most recently approved version was submitted on 10/26/82. See 40 CFR 52.1490(c)(25)(i)(A).
445.513 | “Fossil fuel” defined | 12/4/76 | 49 FR 11626 (3/27/84) | Most recently approved version was submitted on 10/26/82. See 40 CFR 52.1490(c)(25)(i)(A).
445B.072 | “Fuel” defined | 10/22/87 | 71 FR 15040 (3/27/06) | Most recently approved version was submitted on 1/12/06. See 40 CFR 52.1490(c)(56)(i)(A)(2)(ii).
445B.073 | “Fuel-burning equipment” defined | 9/19/90 | 71 FR 15040 (3/27/06) | Most recently approved version was submitted on 1/12/06. See 40 CFR 52.1490(c)(56)(i)(A)(2)(iii).
445B.075 | “Fugitive dust” defined | 11/15/94 | 71 FR 15040 (3/27/06) | Most recently approved version was submitted on 1/12/06. See 40 CFR 52.1490(c)(56)(i)(A)(2)(vi).
445B.077 | “Fugitive emissions” defined | 10/30/95 | 71 FR 15040 (3/27/06) | Most recently approved version was submitted on 1/12/06. See 40 CFR 52.1490(c)(56)(i)(A)(3)(i).
445B.080 | “Garbage” defined | 12/4/76 | 71 FR 15040 (3/27/06) | Most recently approved version was submitted on 1/12/06. See 40 CFR 52.1490(c)(56)(i)(A)(1)(i).
445B.084 | “Hazardous air pollutant” defined | 12/13/93 | 71 FR 71486 (12/11/06) | Submitted on 1/12/06. See 40 CFR 52.1490(c)(56)(i)(A)(6)(ii).
445B.086 | “Incinerator” defined | 12/4/76 | 71 FR 15040 (3/27/06) | Most recently approved version was submitted on 1/12/06. See 40 CFR 52.1490(c)(56)(i)(A)(1)(i).
445.536 | “Lead” defined | 12/4/76 | 49 FR 11626 (3/27/84) | Most recently approved version was submitted on 10/26/82. See 40 CFR 52.1490(c)(25)(i)(A).
445B.091 | “Local air pollution control agency” defined | 12/4/76 | 71 FR 15040 (3/27/06) | Most recently approved version was submitted on 1/12/06. See 40 CFR 52.1490(c)(56)(i)(A)(1)(i).
“Article 1- Definitions: No. 2-LAER” | Lowest achievable emission rate | 8/28/79 | 46 FR 21758 (4/14/81) | Submitted on 7/24/79. See 40 CFR 52.1490(c)(16)(i).
Article 1.104 | Major stationary source | 12/4/76 | 43 FR 36932 (8/21/78) | Submitted on 12/10/76. See 40 CFR 52.1490(c)(12).
445B.095 | “Malfunction” defined | 12/4/76 | 71 FR 15040 (3/27/06) | Originally adopted on 9/16/76. Most recently approved version was submitted on 1/12/06. See 40 CFR 52.1490(c)(56)(i)(A)(1)(i).
445B.097 | “Maximum allowable throughput” defined | 10/22/87 | 71 FR 15040 (3/27/06) | Most recently approved version was submitted on 1/12/06. See 40 CFR 52.1490(c)(56)(i)(A)(2)(ii).
Article 1.109 | Modification | 12/4/76 | 43 FR 36932 (8/21/78) | Submitted on 12/10/76. See 40 CFR 52.1490(c)(12).
445B.103 | “Monitoring device” defined | 1/11/96 | 71 FR 15040 (3/27/06) | Most recently approved version was submitted on 1/12/06. See 40 CFR 52.1490(c)(56)(i)(A)(2)(vi).
Article 1.111 | Motor vehicle | 12/4/76 | 43 FR 36932 (8/21/78) | Submitted on 12/10/76. See 40 CFR 52.1490(c)(12).
445B.106 | “Multiple chamber incinerator” defined | 12/4/76 | 71 FR 15040 (3/27/06) | Originally adopted on 9/16/76. Most recently approved version was submitted on 1/12/06. See 40 CFR 52.1490(c)(56)(i)(A)(1)(i).
Article 1.114 | New source | 11/7/75 | 43 FR 36932 (8/21/78) | Submitted on 12/10/76. See 40 CFR 52.1490(c)(12).
445B.109 | “Nitrogen oxides” defined | 11/15/94 | 71 FR 15040 (3/27/06) | Most recently approved version was submitted on 1/12/06. See 40 CFR 52.1490(c)(56)(i)(A)(2)(vi).
445B.112 | “Nonattainment area” defined | 10/30/95 | 71 FR 15040 (3/27/06) | Most recently approved version was submitted on 1/12/06. See 40 CFR 52.1490(c)(56)(i)(A)(3)(i).
445B.113 | “Nonroad engine” defined | 6/1/01 | 71 FR 15040 (3/27/06) | Submitted on 1/12/06. See 40 CFR 52.1490(c)(56)(i)(A)(3)(iv).
445B.1135 | “Nonroad vehicle” defined | 6/1/01 | 71 FR 15040 (3/27/06) | Submitted on 1/12/06. See 40 CFR 52.1490(c)(56)(i)(A)(3)(iv).
445B.116 | “Odor” defined | 10/30/95 | 71 FR 15040 (3/27/06) | Most recently approved version was submitted on 1/12/06. See 40 CFR 52.1490(c)(56)(i)(A)(3)(i).
445B.119 | “One-hour period” defined | 10/22/87 | 71 FR 15040 (3/27/06) | Most recently approved version was submitted on 1/12/06. See 40 CFR 52.1490(c)(56)(i)(A)(2)(ii).
445B.121 | “Opacity” defined | 12/4/76 | 71 FR 15040 (3/27/06) | Originally adopted on 9/16/76. Most recently approved version was submitted on 1/12/06. See 40 CFR 52.1490(c)(56)(i)(A)(1)(i).
445B.122 | “Open burning” defined | 12/4/76 | 71 FR 15040 (3/27/06) | Originally adopted on 9/16/76. Most recently approved version was submitted on 1/12/06. See 40 CFR 52.1490(c)(56)(i)(A)(1)(i).
445.559 | “Operating permit” defined | 12/4/76 | 49 FR 11626 (3/27/84) | Most recently approved version was submitted on 10/26/82. See 40 CFR 52.1490(c)(25)(i)(A).
445B.125 | “Ore” defined | 11/17/78 | 71 FR 15040 (3/27/06) | Originally adopted on 9/12/78. Most recently approved version was submitted on 1/12/06. See 40 CFR 52.1490(c)(56)(i)(A)(1)(iii).
445B.127 | “Owner or operator” defined | 12/4/76 | 71 FR 15040 (3/27/06) | Originally adopted on 9/16/76. Most recently approved version was submitted on 1/12/06. See 40 CFR 52.1490(c)(56)(i)(A)(1)(i).
445B.129 | “Particulate matter” defined | 12/4/76 | 71 FR 15040 (3/27/06) | Originally adopted on 9/16/76. Most recently approved version was submitted on 1/12/06. See 40 CFR 52.1490(c)(56)(i)(A)(1)(i).
445B.130 | “Pathological wastes” defined | 10/30/95 | 71 FR 15040 (3/27/06) | Most recently approved version was submitted on 1/12/06. See 40 CFR 52.1490(c)(56)(i)(A)(3)(i).
445B.134 | Person | 9/18/06 | 72 FR 19801 (4/20/07) | Most recently approved version was submitted on 12/8/06. See 40 CFR 52.1490(c)(62)(i)(A)(1).
445.565 | “Petroleum” defined | 12/4/76 | 49 FR 11626 (3/27/84) | Most recently approved version was submitted on 10/26/82. See 40 CFR 52.1490(c)(25)(i)(A).
445B.135 | “PM10” defined | 12/26/91 | 71 FR 15040 (3/27/06) | Submitted on 1/12/06. See 40 CFR 52.1490(c)(56)(i)(A)(2)(iv).
Article 1.131 | Point source | 12/4/76 | 43 FR 36932 (8/21/78) | Submitted on 12/10/76. See 40 CFR 52.1490(c)(12).
445.570 | “Portland cement plant” defined | 12/4/76 | 49 FR 11626 (3/27/84) | Most recently approved version was submitted on 10/26/82. See 40 CFR 52.1490(c)(25)(i)(A).
445.574 | “Precious metal” defined | 8/28/79 | 49 FR 11626 (3/27/84) | Submitted on 10/26/82. See 40 CFR 52.1490(c)(25)(i)(A).
445.575 | “Precious metal processing plant” defined | 8/28/79 | 49 FR 11626 (3/27/84) | Submitted on 10/26/82. See 40 CFR 52.1490(c)(25)(i)(A).
445B.144 | “Process equipment” defined | 12/4/76 | 71 FR 15040 (3/27/06) | Most recently version was submitted on 1/12/06. See 40 CFR 52.1490(c)(56)(i)(A)(1)(i).
445B.145 | “Process weight” defined | 10/30/95 | 71 FR 15040 (3/27/06) | Most recently approved version was submitted on 1/12/06. See 40 CFR 52.1490(c)(56)(i)(A)(3)(i).
445.585 | “Process weight rate” defined | 8/28/79 | 49 FR 11626 (3/27/84) | Most recently approved version was submitted on 10/26/82. See 40 CFR 52.1490(c)(25)(i)(A).
445B.151 | “Reference conditions” defined | 10/22/87 | 71 FR 15040 (3/27/06) | Most recently approved version was submitted on 1/12/06. See 40 CFR 52.1490(c)(56)(i)(A)(2)(ii).
445B.152 | “Reference method” defined | 10/30/95 | 71 FR 15040 (3/27/06) | Most recently approved version was submitted on 1/12/06. See 40 CFR 52.1490(c)(56)(i)(A)(3)(i).
445.592 | “Registration certificate” defined | 8/28/79 | 49 FR 11626 (3/27/84) | Most recently approved version was submitted on 10/26/82. See 40 CFR 52.1490(c)(25)(i)(A).
445B.153 | “Regulated air pollutant” defined | 10/31/05 | 73 FR 19144 (4/9/08) | Submitted on 6/26/07. See 40 CFR 52.1490(c)(66)(i)(A)(3)(iii).
445.597 | “Roaster” defined | 12/4/76 | 49 FR 11626 (3/27/84) | Most recently approved version was submitted on 10/26/82. See 40 CFR 52.1490(c)(25)(i)(A).
445B.161 | “Run” defined | 12/4/76 | 71 FR 15040 (3/27/06) | Most recently approved version was submitted on 1/12/06. See 40 CFR 52.1490(c)(56)(i)(A)(1)(i).
445B.163 | “Salvage operation” defined | 12/4/76 | 71 FR 15040 (3/27/06) | Most recently approved version was submitted on 1/12/06. See 40 CFR 52.1490(c)(56)(i)(A)(1)(i).
445B.167 | “Shutdown” defined | 12/4/76 | 71 FR 15040 (3/27/06) | Most recently approved version was submitted on 1/12/06. See 40 CFR 52.1490(c)(56)(i)(A)(1)(i).
445B.168 | “Single chamber incinerator” defined | 12/27/77 | 71 FR 15040 (3/27/06) | Most recently approved version was submitted on 1/12/06. See 40 CFR 52.1490(c)(56)(i)(A)(1)(ii).
Article 1.171 | Single source | 11/7/75 | 43 FR 36932 (8/21/78) | Submitted on 12/10/76. See 40 CFR 52.1490(c)(12).
445B.172 | “Six-minute period” defined | 12/4/76 | 73 FR 19144 (4/9/08) | Most recently approved version was submitted on 6/26/07. See 40 CFR 52.1490(c)(66)(i)(A)(1)(i).
445.618 | “Slag” defined | 12/4/76 | 49 FR 11626 (3/27/84) | Most recently approved version was submitted on 10/26/82. See 40 CFR 52.1490(c)(25)(i)(A).
445B.174 | “Smoke” defined | 12/4/76 | 71 FR 15040 (3/27/06) | Most recently approved version was submitted on 1/12/06. See 40 CFR 52.1490(c)(56)(i)(A)(1)(i).
445B.176 | “Solid waste” defined | 12/4/76 | 71 FR 15040 (3/27/06) | Most recently approved version was submitted on 1/12/06. See 40 CFR 52.1490(c)(56)(i)(A)(1)(i).
445B.177 | “Source” defined | 10/30/95 | 71 FR 15040 (3/27/06) | Most recently approved version was submitted on 1/12/06. See 40 CFR 52.1490(c)(56)(i)(A)(3)(i).
Article 1.182 | Special mobile equipment | 12/4/76 | 43 FR 36932 (8/21/78) | Submitted on 12/10/76. See 40 CFR 52.1490(c)(12).
445B.180 | “Stack and chimney” defined | 10/30/95 | 71 FR 15040 (3/27/06) | Most recently approved version was submitted on 1/12/06. See 40 CFR 52.1490(c)(56)(i)(A)(3)(i).
445B.182 | “Standard” defined | 11/15/94 | 71 FR 15040 (3/27/06) | Most recently approved version was submitted on 1/12/06. See 40 CFR 52.1490(c)(56)(i)(A)(2)(vi).
445B.185 | “Start-up” defined | 12/4/76 | 71 FR 15040 (3/27/06) | Originally adopted on 9/16/76. Most recently approved version was submitted on 1/12/06. See 40 CFR 52.1490(c)(56)(i)(A)(1)(i).
Article 1.187 | Stationary source | 12/4/76 | 43 FR 36932 (8/21/78) | Submitted on 12/10/76. See 40 CFR 52.1490(c)(12).
445B.190 | “Stop order” defined | 12/13/93 | 73 FR 19144 (4/9/08) | Most recently approved version was submitted on 6/26/07. See 40 CFR 52.1490(c)(66)(i)(A)(2)(i).
445.633 | “Submerged fill pipe” defined | 12/4/76 | 49 FR 11626 (3/27/84) | Most recently approved version was submitted on 10/26/82. See 40 CFR 52.1490(c)(25)(i)(A).
445B.198 | “Uncombined water” defined | 12/4/76 | 71 FR 15040 (3/27/06) | Originally adopted on 9/16/76. Most recently approved version was submitted on 1/12/06. See 40 CFR 52.1490(c)(56)(i)(A)(1)(i).
445.649 | “Violation” defined | 8/28/79 | 49 FR 11626 (3/27/84) | Submitted on 10/26/82. See 40 CFR 52.1490(c)(25)(i)(A).
445B.202 | “Volatile organic compounds” defined | 11/15/94 | 71 FR 71486 (12/11/06) | Most recently approved version was submitted on 1/12/06. See 40 CFR 52.1490(c)(56)(i)(A)(6)(iii).
445B.205 | “Waste” defined | 12/4/76 | 71 FR 15040 (3/27/06) | Originally adopted on 9/16/76. Most recently approved version was submitted on 1/12/06. See 40 CFR 52.1490(c)(56)(i)(A)(1)(i).
445B.207 | “Wet garbage” defined | 12/4/76 | 71 FR 15040 (3/27/06) | Originally adopted on 9/16/76. Most recently approved version was submitted on 1/12/06. See 40 CFR 52.1490(c)(56)(i)(A)(1)(i).
445B.209 | “Year” defined | 10/22/87 | 71 FR 15040 (3/27/06) | Most recently approved version was submitted on 1/12/06. See 40 CFR 52.1490(c)(56)(i)(A)(2)(ii).
445B.211 | Abbreviations | 9/24/04 | 71 FR 15040 (3/27/06) | Most recently approved version was submitted on 1/12/06. See 40 CFR 52.1490(c)(56)(i)(A)(3)(vii).
Nevada Administrative Code, Chapter 445B, Air Controls, Air Pollution; Nevada Administrative Code, Chapter 445, Air Controls, Air Pollution; Nevada Air Quality Regulations—General Provisions
445B.220 | Severability | 1/1/07 | 73 FR 19144 (4/9/08) | Most recently approved version was submitted on 6/26/07. See 40 CFR 52.1490(c)(66)(i)(A)(3)(v).
445B.22017 | Visible emissions: Maximum opacity; determination and monitoring of opacity | 4/1/06 | 73 FR 19144 (4/9/08) | Most recently approved version submitted on 6/26/07. See 40 CFR 52.1490(c)(66)(A)(3)(iii).
445B.2202 | Visible emissions: Exceptions for stationary sources | 4/1/06 | 73 FR 19144 (4/9/08) | Most recently approved version submitted on 6/26/07. See 40 CFR 52.1490(c)(66)(A)(3)(iii).
Article 16.3.3, subsections 16.3.3.2 and 16.3.3.3 | Standard for Opacity [Portland cement plants] | 3/31/77 | 47 FR 26386 (6/18/82) | Submitted on 12/29/78. See 40 CFR 52.1490(c)(14)(viii). Subsection 16.3.3.1 was deleted without replacement at 72 FR 25971 (5/8/07).
445.729 | Process weight rate for calculating emission rates | 12/4/76 | 49 FR 11626 (3/27/84) | Most recently approved version was submitted on 10/26/82. See 40 CFR 52.1490(c)(25)(i)(A).
Article 7.2.5.1 | [Establishes maximum allowable particulate emissions rate for the first barite grinding mill at Milchem Inc. near Battle Mountain ] | 12/3/80 | 47 FR 26386 (6/18/82) | Submitted on 11/5/80. See 40 CFR 52.1490(c)(22)(ii).
445.808(1), (2)(a-c), (3), (4), and (5) | [Establishes standards for maximum allowable particulate emissions rate and discharge opacity for certain barite grinding mills at IMCO Services and at Dresser Industries, in or near Battle Mountain] | 8/24/83 (adopted) | 49 FR 11626 (3/27/84) | Submitted on 9/14/83. See 40 CFR 52.1490(c)(26)(i)(A).
445.816(1), (2)(d), (3), (4), and (5) | [Establishes standards for maximum allowable particulate emissions rate and discharge opacity for certain processing plants for precious metals at the Freeport Gold Company in the North Fork area] | 8/24/83 (adopted) | 49 FR 11626 (3/27/84) | Submitted on 9/14/83. See 40 CFR 52.1490(c)(26)(i)(A).
445.730 | Colemanite flotation processing plants | 11/17/78 | 49 FR 11626 (3/27/84) | Most recently approved version was submitted on 10/26/82. See 40 CFR 52.1490(c)(25)(i)(A).
445B.22027 | Emissions of particulate matter: Maximum allowable throughput for calculating emissions rates | 3/5/98 | 72 FR 25971 (5/8/07) | Most recently approved version was submitted on 1/12/06. See 40 CFR 52.1490(c)(56)(i)(A)(3)(ii).
445B.2203 | Emissions of particulate matter: Fuel-burning equipment | 9/27/99 | 72 FR 25971 (5/8/07) | Most recently approved version was submitted on 1/12/06. See 40 CFR 52.1490(c)(56)(i)(A)(3)(iii).
445B.22033 | Emissions of particulate matter: Sources not otherwise limited | 3/5/98 | 72 FR 25971 (5/8/07) | Most recently approved version was submitted on 1/12/06. See 40 CFR 52.1490(c)(56)(i)(A)(3)(ii).
445B.22037 | Emissions of particulate matter: Fugitive dust | 10/30/95 | 72 FR 25971 (5/8/07) | Most recently approved version was submitted on 1/12/06. See 40 CFR 52.1490(c)(56)(i)(A)(3)(i).
Article 8, subsection 8.2.1 | [Indirect Heat Transfer Fuel Burning Equipment—Sulfur emission limits] | 1/28/72 | 37 FR 10842 (5/31/72) | Submitted on 1/28/72. See 40 CFR 52.1490(b).
Article 8.2.2 | [“Sulfur emission” defined for purposes of Article 8.] | 12/4/76 | 46 FR 43141 (8/27/81) | Submitted on 12/29/78. See 40 CFR 52.1490(c)(14)(vii).
445B.2204 | “Sulfur emission” defined | 12/4/76 | 71 FR 15040 (3/27/06) | Originally adopted on 9/16/76. Most recently approved version was submitted on 1/12/06. See 40 CFR 52.1490(c)(56)(i)(A)(1)(i).
445B.22043 | Sulfur emissions: Calculation of total feed sulfur | 9/24/04 | 73 FR 19144 (4/9/08) | Most recently approved version submitted on 6/26/07. See 40 CFR 52.1490(c)(66)(A)(3)(ii).
445B.22047 | Sulfur emissions: Fuel-burning equipment | 9/27/99 | 71 FR 15040 (3/27/06) | Most recently approved version was submitted on 1/12/06. See 40 CFR 52.1490(c)(56)(i)(A)(3)(iii).
445B.2205 | Sulfur emissions: Other processes which emit sulfur | 9/24/04 | 73 FR 19144 (4/9/08) | Most recently approved version was submitted on 6/26/07. See 40 CFR 52.1490(c)(66)(A)(3)(ii).
445B.22067 | Open burning | 4/15/04 | 71 FR 15040 (3/27/06) | Most recently approved version was submitted on 1/12/06. See 40 CFR 52.1490(c)(56)(i)(A)(3)(vi).
445B.2207 | Incinerator burning | 4/15/04 | 71 FR 15040 (3/27/06) | Most recently approved version was submitted on 1/12/06. See 40 CFR 52.1490(c)(56)(i)(A)(3)(vi).
445B.22083 | Construction, major modification or relocation of plants to generate electricity using steam produced by burning of fossil fuels | 10/31/05 | 73 FR 20536 (4/16/08) | Most recently approved version was submitted on 8/20/07. See 40 CFR 52.1490(c)(67)(i)(A)(1).
445B.2209 | Reduction of animal matter | 12/4/76 | 71 FR 15040 (3/27/06) | Originally adopted on 9/16/76. Most recently approved version was submitted on 1/12/06. See 40 CFR 52.1490(c)(56)(i)(A)(1)(i).
445B.22093 | Organic solvents and other volatile compounds | 10/31/05 | 73 FR 19144 (4/9/08) | Most recently approved version was submitted on 6/26/07. See 40 CFR 52.1490(c)(66)(i)(A)(3)(iii).
445B.22097 | Standards of quality for ambient air | 4/26/04 | 71 FR 15040 (3/27/06) | Most recently approved version was submitted on 1/12/06. See 40 CFR 52.1490(c)(56)(i)(A)(3)(vi).
445B.225 | Prohibited conduct: Concealment of emissions | 10/30/95 | 73 FR 19144 (4/9/08) | Most recently approved version was submitted on 6/26/07. See 40 CFR 52.1490(c)(66)(i)(A)(3)(i).
445B.227 | Prohibited conduct: Operation of source without required equipment; removal or modification of required equipment; modification of required procedure | 1/11/96 | 73 FR 19144 (4/9/08) | Most recently approved version was submitted on 1/12/06. See 40 CFR 52.1490(c)(56)(i)(A)(3)(i).
445B.229 | Hazardous emissions: Order for reduction or discontinuance | 10/30/95 | 73 FR 19144 (4/9/08) | Most recently approved version was submitted on 6/26/07. See 40 CFR 52.1490(c)(66)(i)(A)(3)(i).
445B.230 | Plan for reduction in emissions | 9/18/06 | 72 FR 19801 (4/20/07) | Most recently approved version was submitted on 12/8/06. See 40 CFR 52.1490(c)(62)(i)(A)(1).
445.667 | Excess emissions: Scheduled maintenance; testing; malfunction | 8/28/79 | 49 FR 11626 (3/27/84) | Most recently approved version was submitted on 10/26/82. See 40 CFR 52.1490(c)(25)(i)(A).
Article 2.5 (“Scheduled Maintenance, Testing, and Breakdown or Upset”), subsection 2.5.4 | [related to breakdown or upset] | 11/7/75 | 43 FR 1341 (1/9/78) | Submitted on 10/31/75. See 40 CFR 52.1490(c)(11). Article 2.5, subsection 2.5.4 states: “Breakdown or upset, determined by the Director to be unavoidable and not the result of careless or marginal operations, shall not be considered a violation of these regulations.”
445B.250 | Notification of Director: Construction, reconstruction and initial start-up; demonstration of continuous monitoring system performance | 10/31/05 | 73 FR 20536 (4/16/08) | Most recently approved version was submitted on 8/20/07. See 40 CFR 52.1490(c)(67)(i)(A)(1).
445B.252 | Testing and sampling | 10/30/03 | 73 FR 20536 (4/16/08) | Most recently approved version was submitted on 1/12/06. See 40 CFR 52.1490(c)(56)(i)(A)(3)(i).
445B.256 | Monitoring systems: Calibration, operation and maintenance of equipment | 10/30/95 | 71 FR 71486 (12/11/06) | Most recently approved version was submitted on 1/12/06. See 40 CFR 52.1490(c)(56)(i)(A)(7)(i).
445B.257 | Monitoring systems: Location | 12/4/76 | 71 FR 71486 (12/11/06) | Most recently approved version was submitted on 1/12/06. See 40 CFR 52.1490(c)(56)(i)(A)(5)(i).
445B.258 | Monitoring systems: Verification of operational status | 9/18/06 | 72 FR 19801 (4/20/07) | Most recently approved version was submitted on 12/8/06. See 40 CFR 52.1490(c)(62)(i)(A)(1).
445B.259 | Monitoring systems: Performance evaluations | 9/18/06 | 72 FR 19801 (4/20/07) | Most recently approved version was submitted on 12/8/06. See 40 CFR 52.1490(c)(62)(i)(A)(1).
445B.260 | Monitoring systems: Components contracted for before September 11, 1974 | 9/18/06 | 72 FR 19801 (4/20/07) | Most recently approved version was submitted on 12/8/06. See 40 CFR 52.1490(c)(62)(i)(A)(1).
445B.261 | Monitoring systems: Adjustments | 12/4/76 | 71 FR 71486 (12/11/06) | Most recently approved version was submitted on 1/12/06. See 40 CFR 52.1490(c)(56)(i)(A)(5)(i).
445B.262 | Monitoring systems: Measurement of opacity | 10/30/03 | 71 FR 71486 (12/11/06) | Most recently approved version was submitted on 1/12/06. See 40 CFR 52.1490(c)(56)(i)(A)(7)(iii).
445B.263 | Monitoring systems: Frequency of operation | 12/4/76 | 71 FR 71486 (12/11/06) | Most recently approved version was submitted on 1/12/06. See 40 CFR 52.1490(c)(56)(i)(A)(5)(i).
445B.264 | Monitoring systems: Recordation of data | 9/25/00 | 71 FR 71486 (12/11/06) | Most recently approved version was submitted on 1/12/06. See 40 CFR 52.1490(c)(56)(i)(A)(7)(ii).
445B.265 | Monitoring systems: Records; reports | 7/2/84 | 71 FR 71486 (12/11/06) | Most recently approved version was submitted on 1/12/06. See 40 CFR 52.1490(c)(56)(i)(A)(6)(i).
445B.267 | Alternative monitoring procedures or requirements | 10/30/03 | 71 FR 71486 (12/11/06) | Most recently approved version was submitted on 1/12/06. See 40 CFR 52.1490(c)(56)(i)(A)(7)(iii).
445B.275 | Violations: Acts constituting; notice | 5/4/06 | 73 FR 19144 (4/9/08) | Most recently approved version was submitted on 6/26/07. See 40 CFR 52.1490(c)(66)(i)(A)(3)(iv).
445B.277 | Stop orders | 5/4/06 | 73 FR 19144 (4/9/08) | Most recently approved version was submitted on 6/26/07. See 40 CFR 52.1490(c)(66)(i)(A)(3)(iv).
445.694 | Emission discharge information | 12/4/76 | 49 FR 11626 (3/27/84) | Most recently approved version was submitted on 10/26/82. See 40 CFR 52.1490(c)(25)(i)(A).
445.699 | Violations: Administrative fines | 12/4/76 | 49 FR 11626 (3/27/84) | Most recently approved version was submitted on 10/26/82. See 40 CFR 52.1490(c)(25)(i)(A).
445.764 | Reduction of employees' pay because of use of system prohibited | 8/17/81 | 49 FR 11626 (3/27/84) | Most recently approved version was submitted on 10/26/82. See 40 CFR 52.1490(c)(25)(i)(A).
Nevada Administrative Code, Chapter 445, Air Controls, Air Pollution; Nevada Air Quality Regulations—Registration Certificates and Operating Permits
Article 3.1.6 | [relates to application forms] | 11/7/75 | 43 FR 1341 (1/9/78) | Submitted on 10/31/75. See 40 CFR 52.1490(c)(11).
445.704 | Registration certificates and operating permits required | 12/4/76 | 49 FR 11626 (3/27/84) | Most recently approved version was submitted on 10/26/82. See 40 CFR 52.1490(c)(25)(i)(A).
445.705 | Exemptions | 11/7/75 | 49 FR 11626 (3/27/84) | Most recently approved version was submitted on 10/26/82. See 40 CFR 52.1490(c)(25)(i)(A).
445.706(1) | Application date; payment of fees | 11/7/75 | 49 FR 11626 (3/27/84) | Most recently approved version was submitted on 10/26/82. See 40 CFR 52.1490(c)(25)(i)(A). NAC 445.706(2) rescinded at 73 FR 20536 (4/16/08).
445.707 | Registration certificates: Prerequisite; application; fee; issuance, denial; expiration | 8/28/79 | 49 FR 11626 (3/27/84) | Most recently approved version was submitted on 10/26/82. See 40 CFR 52.1490(c)(25)(i)(A).
445.712 | Operating permits: Prerequisite; application; fee; issuance, denial; posting | 8/28/79 | 49 FR 11626 (3/27/84) | Most recently approved version was submitted on 10/26/82. See 40 CFR 52.1490(c)(25)(i)(A).
445.713 | Operating permits: Renewal | 11/7/75 | 49 FR 11626 (3/27/84) | Most recently approved version was submitted on 10/26/82. See 40 CFR 52.1490(c)(25)(i)(A).
445.714 | Operating permits: Replacement of lost or damaged permits | 11/7/75 | 49 FR 11626 (3/27/84) | Most recently approved version was submitted on 10/26/82. See 40 CFR 52.1490(c)(25)(i)(A).
445.715 | Operating permits: Revocation | 11/7/75 | 49 FR 11626 (3/27/84) | Most recently approved version was submitted on 10/26/82. See 40 CFR 52.1490(c)(25)(i)(A).
445.716 | Operating permits: Change of location | 12/15/77 | 49 FR 11626 (3/27/84) | Most recently approved version was submitted on 10/26/82. See 40 CFR 52.1490(c)(25)(i)(A).
Nevada Air Quality Regulations—Point Sources and Registration Certificates
Nevada Air Quality Regulations (NAQR), Article 13 (“Point Sources”), subsection 13.1, paragraph 13.1.1 | General Provisions for the Review of New Sources | 12/15/77 | 47 FR 27070 (6/23/82) | Submitted on 7/24/79. See 40 CFR 52.1490(c)(16)(viii).
NAQR, Article 13, subsection 13.1, paragraph 13.1.3 [excluding 13.1.3(3)] | [related to registration certificates for point sources subject to the requirement for an environmental evaluation; additional requirements for such sources to be located in nonattainment areas] | 2/28/80 | 46 FR 21758 (4/14/81) | Submitted on 3/17/80. See 40 CFR 52.1490(c)(18)(i). NAQR article 13.1.3(3) was deleted without replacement at 73 FR 20536 (4/16/08). See 40 CFR 52.1490(c)(18)(i)(A).
NAQR Article 13, subsection 13.1, paragraphs 13.1.4-13.1.7 | [related to registration certificates, generally] | 10/25/74 | 40 FR 13306 (3/26/75) | Submitted on 11/12/74. See 40 CFR 52.1490(c)(8). EPA's 1975 final rule was later clarified and revised at 43 FR 1341 (1/9/78)
NAQR Article 13, subsection 13.2 | [relates to thresholds used to identify sources subject to environmental evaluation requirement] | 12/15/77 | 47 FR 27070 (6/23/82) | Submitted on 7/24/79. See 40 CFR 52.1490(c)(16)(viii). Subsection 13.2 includes paragraphs 13.2.1-13.2.4.
NAQR Article 13, subsection 13.3 | Environmental evaluation | 12/15/77 | 47 FR 27070 (6/23/82) | Submitted on 7/24/79. See 40 CFR 52.1490(c)(16)(viii). Subsection 13.3 includes paragraph 13.3.1, subparagraphs 13.3.1.1 and 13.3.1.2.
Nevada Revised Statutes, Title 58, Energy; Public Utilities and Similar Entities: Regulation of Public Utilities Generally
704.820 | Short title | 1/1/79 | 47 FR 15790 (4/13/82) | NRS 704.820 to 704.900, inclusive, is cited as the Utility Environmental Protection Act. Submitted on 10/13/80. See 40 CFR 52.1490(c)(21)(i).
704.825 | Declaration of legislative findings and purpose | 1/1/79 | 47 FR 15790 (4/13/82) | Submitted on 10/13/80. See 40 CFR 52.1490(c)(21)(i).
704.830 | Definitions | 1/1/79 | 47 FR 15790 (4/13/82) | Submitted on 10/13/80. See 40 CFR 52.1490(c)(21)(i).
704.840 | “Commence to construct” defined | 1/1/79 | 47 FR 15790 (4/13/82) | Submitted on 10/13/80. See 40 CFR 52.1490(c)(21)(i).
704.845 | “Local government” defined | 1/1/79 | 47 FR 15790 (4/13/82) | Submitted on 10/13/80. See 40 CFR 52.1490(c)(21)(i).
704.850 | “Person” defined | 1/1/79 | 47 FR 15790 (4/13/82) | Submitted on 10/13/80. See 40 CFR 52.1490(c)(21)(i).
704.855 | “Public utility,” “utility” defined | 1/1/79 | 47 FR 15790 (4/13/82) | Submitted on 10/13/80. See 40 CFR 52.1490(c)(21)(i).
704.860 | “Utility facility” defined | 1/1/79 | 47 FR 15790 (4/13/82) | Submitted on 10/13/80. See 40 CFR 52.1490(c)(21)(i).
704.865 | Construction permit: Requirement; transfer; exceptions to requirement | 1/1/79 | 47 FR 15790 (4/13/82) | Submitted on 10/13/80. See 40 CFR 52.1490(c)(21)(i).
704.870 | Construction permit application: Form, contents; filing; service; public notice | 1/1/79 | 47 FR 15790 (4/13/82) | Submitted on 10/13/80. See 40 CFR 52.1490(c)(21)(i).
704.875 | Review of application by state environmental commission | 1/1/79 | 47 FR 15790 (4/13/82) | Submitted on 10/13/80. See 40 CFR 52.1490(c)(21)(i).
704.880 | Hearing on application for permit | 1/1/79 | 47 FR 15790 (4/13/82) | Submitted on 10/13/80. See 40 CFR 52.1490(c)(21)(i).
704.885 | Parties to permit proceeding; appearances; intervention | 1/1/79 | 47 FR 15790 (4/13/82) | Submitted on 10/13/80. See 40 CFR 52.1490(c)(21)(i).
704.890 | Grant or denial of application; required findings; service of copies of order | 1/1/79 | 47 FR 15790 (4/13/82) | Submitted on 10/13/80. See 40 CFR 52.1490(c)(21)(i).
704.892 | Grant, denial, conditioning of permit for plant for generation of electrical energy for export | 1/1/79 | 47 FR 15790 (4/13/82) | Submitted on 10/13/80. See 40 CFR 52.1490(c)(21)(i).
704.895 | Rehearing; judicial review | 1/1/79 | 47 FR 15790 (4/13/82) | Submitted on 10/13/80. See 40 CFR 52.1490(c)(21)(i).
704.900 | Cooperation with United States, other states | 1/1/79 | 47 FR 15790 (4/13/82) | Submitted on 10/13/80. See 40 CFR 52.1490(c)(21)(i).
General Order No. 3, Rules of Practice and Procedure before the Public Service Commission
Rule 25 | Construction Permits—Utility Environmental Protection Act | 1/1/79 | 47 FR 15790 (4/13/82) | Submitted on 10/13/80. See 40 CFR 52.1490(c)(21)(ii).
Nevada Administrative Code, Chapter 445B, Air Controls, Emissions from Engines—General Provisions
445B.400 | Scope | 9/1/06 | 73 FR 38124 (7/3/08) | Most recently approved version was submitted on 5/11/07. See 40 CFR 52.1490(c)(71)(i)(A)(2).
445B.401 | Definitions | 8/21/02 | 73 FR 38124 (7/3/08) | Most recently approved version was submitted on 5/11/07. See 40 CFR 52.1490(c)(71)(i)(A)(2).
445B.403 | “Approved inspector” defined | 8/19/94 | 73 FR 38124 (7/3/08) | Most recently approved version was submitted on 5/11/07. See 40 CFR 52.1490(c)(71)(i)(A)(2).
445B.4045 | “Authorized inspection station” defined | 8/19/94 | 73 FR 38124 (7/3/08) | Most recently approved version was submitted on 5/11/07. See 40 CFR 52.1490(c)(71)(i)(A)(2).
445B.405 | “Authorized station” defined | 1/10/78 | 73 FR 38124 (7/3/08) | Most recently approved version was submitted on 5/11/07. See 40 CFR 52.1490(c)(71)(i)(A)(2).
445B.408 | “Carbon monoxide” defined | 1/10/78 | 73 FR 38124 (7/3/08) | Most recently approved version was submitted on 5/11/07. See 40 CFR 52.1490(c)(71)(i)(A)(2).
445B.409 | “Certificate of compliance” defined | 9/13/95 | 73 FR 38124 (7/3/08) | Most recently approved version was submitted on 5/11/07. See 40 CFR 52.1490(c)(71)(i)(A)(2).
445B.4092 | “Certified on-board diagnostic system” defined | 8/21/02 | 73 FR 38124 (7/3/08) | Most recently approved version was submitted on 5/11/07. See 40 CFR 52.1490(c)(71)(i)(A)(2).
445B.4096 | “Class 1 approved inspector” defined | 9/13/95 | 73 FR 38124 (7/3/08) | Most recently approved version was submitted on 5/11/07. See 40 CFR 52.1490(c)(71)(i)(A)(2).
445B.4097 | “Class 1 fleet station” defined | 9/13/95 | 73 FR 38124 (7/3/08) | Most recently approved version was submitted on 5/11/07. See 40 CFR 52.1490(c)(71)(i)(A)(2).
445B.4098 | “Class 2 approved inspector” defined | 9/13/95 | 73 FR 38124 (7/3/08) | Most recently approved version was submitted on 5/11/07. See 40 CFR 52.1490(c)(71)(i)(A)(2).
445B.4099 | “Class 2 fleet station” defined | 9/13/95 | 73 FR 38124 (7/3/08) | Most recently approved version was submitted on 5/11/07. See 40 CFR 52.1490(c)(71)(i)(A)(2).
445B.410 | “CO2” defined | 9/28/88 | 73 FR 38124 (7/3/08) | Most recently approved version was submitted on 5/11/07. See 40 CFR 52.1490(c)(71)(i)(A)(2).
445B.411 | “Commission” defined | 1/10/78 | 73 FR 38124 (7/3/08) | Most recently approved version was submitted on 5/11/07. See 40 CFR 52.1490(c)(71)(i)(A)(2).
445B.413 | “Department” defined | 1/1/86 | 73 FR 38124 (7/3/08) | Most recently approved version was submitted on 5/11/07. See 40 CFR 52.1490(c)(71)(i)(A)(2).
445B.415 | “Director” defined | 8/19/94 | 73 FR 38124 (7/3/08) | Most recently approved version was submitted on 5/11/07. See 40 CFR 52.1490(c)(71)(i)(A)(2).
445B.416 | “Emission” defined | 1/10/78 | 73 FR 38124 (7/3/08) | Most recently approved version was submitted on 5/11/07. See 40 CFR 52.1490(c)(71)(i)(A)(2).
445B.418 | “EPA” defined | 9/28/88 | 73 FR 38124 (7/3/08) | Most recently approved version was submitted on 5/11/07. See 40 CFR 52.1490(c)(71)(i)(A)(2).
445B.419 | “Established place of business” defined | 1/10/78 | 73 FR 38124 (7/3/08) | Most recently approved version was submitted on 5/11/07. See 40 CFR 52.1490(c)(71)(i)(A)(2).
445B.420 | “Evidence of compliance” defined | 9/25/98 | 73 FR 38124 (7/3/08) | Most recently approved version was submitted on 5/11/07. See 40 CFR 52.1490(c)(71)(i)(A)(2).
445B.421 | “Exhaust emissions” defined | 1/10/78 | 73 FR 38124 (7/3/08) | Most recently approved version was submitted on 5/11/07. See 40 CFR 52.1490(c)(71)(i)(A)(2).
445B.422 | “Exhaust gas analyzer” defined | 1/10/78 | 73 FR 38124 (7/3/08) | Most recently approved version was submitted on 5/11/07. See 40 CFR 52.1490(c)(71)(i)(A)(2).
445B.424 | “Fleet station” defined | 8/19/94 | 73 FR 38124 (7/3/08) | Most recently approved version was submitted on 5/11/07. See 40 CFR 52.1490(c)(71)(i)(A)(2).
445B.4247 | “Gross vehicle weight rating” defined | 8/19/94 | 73 FR 38124 (7/3/08) | Most recently approved version was submitted on 5/11/07. See 40 CFR 52.1490(c)(71)(i)(A)(2).
445B.426 | “Heavy-duty motor vehicle” defined | 9/25/98 | 73 FR 38124 (7/3/08) | Most recently approved version was submitted on 5/11/07. See 40 CFR 52.1490(c)(71)(i)(A)(2).
445B.427 | “Hydrocarbon” defined | 9/28/88 | 73 FR 38124 (7/3/08) | Most recently approved version was submitted on 5/11/07. See 40 CFR 52.1490(c)(71)(i)(A)(2).
445B.428 | “Hz” defined | 9/28/88 | 73 FR 38124 (7/3/08) | Most recently approved version was submitted on 5/11/07. See 40 CFR 52.1490(c)(71)(i)(A)(2).
445B.432 | “Light-duty motor vehicle” defined | 9/25/98 | 73 FR 38124 (7/3/08) | Most recently approved version was submitted on 5/11/07. See 40 CFR 52.1490(c)(71)(i)(A)(2).
445B.433 | “Mini motor home” defined | 10/1/83 | 73 FR 38124 (7/3/08) | Most recently approved version was submitted on 5/11/07. See 40 CFR 52.1490(c)(71)(i)(A)(2).
445B.434 | “Motor home” defined | 10/1/83 | 73 FR 38124 (7/3/08) | Most recently approved version was submitted on 5/11/07. See 40 CFR 52.1490(c)(71)(i)(A)(2).
445B.435 | “Motor vehicle” defined | 1/10/78 | 73 FR 38124 (7/3/08) | Most recently approved version was submitted on 5/11/07. See 40 CFR 52.1490(c)(71)(i)(A)(2).
445B.440 | “New motor vehicle” defined | 1/10/78 | 73 FR 38124 (7/3/08) | Most recently approved version was submitted on 5/11/07. See 40 CFR 52.1490(c)(71)(i)(A)(2).
445B.442 | “Opacity” defined | 1/1/88 | 73 FR 38124 (7/3/08) | Most recently approved version was submitted on 5/11/07. See 40 CFR 52.1490(c)(71)(i)(A)(2).
445B.443 | “Person” defined | 1/1/88 | 73 FR 38124 (7/3/08) | Most recently approved version was submitted on 5/11/07. See 40 CFR 52.1490(c)(71)(i)(A)(2).
445B.444 | “ppm” defined | 9/28/88 | 73 FR 38124 (7/3/08) | Most recently approved version was submitted on 5/11/07. See 40 CFR 52.1490(c)(71)(i)(A)(2).
445B.449 | “Smoke” defined | 1/1/88 | 73 FR 38124 (7/3/08) | Most recently approved version was submitted on 5/11/07. See 40 CFR 52.1490(c)(71)(i)(A)(2).
445B.450 | “Special mobile equipment” defined | 1/10/78 | 73 FR 38124 (7/3/08) | Most recently approved version was submitted on 5/11/07. See 40 CFR 52.1490(c)(71)(i)(A)(2).
445B.451 | “Standard” defined | 9/25/98 | 73 FR 38124 (7/3/08) | Most recently approved version was submitted on 5/11/07. See 40 CFR 52.1490(c)(71)(i)(A)(2).
445B.4515 | “State electronic data transmission system” defined | 9/25/98 | 73 FR 38124 (7/3/08) | Most recently approved version was submitted on 5/11/07. See 40 CFR 52.1490(c)(71)(i)(A)(2).
445B.452 | “Tampering” defined | 1/10/78 | 73 FR 38124 (7/3/08) | Most recently approved version was submitted on 5/11/07. See 40 CFR 52.1490(c)(71)(i)(A)(2).
445B.4525 | “Test station” defined | 9/25/98 | 73 FR 38124 (7/3/08) | Most recently approved version was submitted on 5/11/07. See 40 CFR 52.1490(c)(71)(i)(A)(2).
445B.453 | “Truck” defined | 10/1/83 | 73 FR 38124 (7/3/08) | Most recently approved version was submitted on 5/11/07. See 40 CFR 52.1490(c)(71)(i)(A)(2).
445B.454 | “Used motor vehicle” defined | 1/10/78 | 73 FR 38124 (7/3/08) | Most recently approved version was submitted on 5/11/07. See 40 CFR 52.1490(c)(71)(i)(A)(2).
445B.455 | “Van conversion” defined | 10/1/83 | 73 FR 38124 (7/3/08) | Most recently approved version was submitted on 5/11/07. See 40 CFR 52.1490(c)(71)(i)(A)(2).
445B.4553 | “Vehicle inspection report” defined | 8/21/02 | 73 FR 38124 (7/3/08) | Most recently approved version was submitted on 5/11/07. See 40 CFR 52.1490(c)(71)(i)(A)(2).
445B.4556 | “Vehicle inspection report number” defined | 9/25/98 | 73 FR 38124 (7/3/08) | Most recently approved version was submitted on 5/11/07. See 40 CFR 52.1490(c)(71)(i)(A)(2).
445B.456 | Severability | 9/25/98 | 73 FR 38124 (7/3/08) | Most recently approved version was submitted on 5/11/07. See 40 CFR 52.1490(c)(71)(i)(A)(2).
Nevada Administrative Code, Chapter 445B, Air Controls, Emissions from Engines—Facilities for Inspection and Maintenance
445B.460 | Test station: License required to operate; expiration of license; ratings; performance of certain services; prohibited acts; location | 9/1/06 | 73 FR 38124 (7/3/08) | Most recently approved version was submitted on 5/11/07. See 40 CFR 52.1490(c)(71)(i)(A)(2).
445B.461, except for paragraph (3)(d) | Compliance by Federal Government, state agencies and political subdivisions | 9/25/98 | 73 FR 38124 (7/3/08) | Most recently approved version was submitted on 5/11/07. See 40 CFR 52.1490(c)(71)(i)(A)(2). NAC section 445B.461(3)(d) was deleted without replacement at 74 FR 3975 (1/22/09). See 40 CFR 52.1490(c)(71)(i)(A)(3).
445B.462 | Test station: Application for license to operate; inspection of premises; issuance of license | 9/25/98 | 73 FR 38124 (7/3/08) | Most recently approved version was submitted on 5/11/07. See 40 CFR 52.1490(c)(71)(i)(A)(2).
445B.463 | Test station: Grounds for denial, revocation or suspension of license; reapplication; permanent revocation of license | 8/21/02 | 73 FR 38124 (7/3/08) | Most recently approved version was submitted on 5/11/07. See 40 CFR 52.1490(c)(71)(i)(A)(2).
445B.464 | Test station: Hearing concerning denial, suspension or revocation of license | 9/25/98 | 73 FR 38124 (7/3/08) | Most recently approved version was submitted on 5/11/07. See 40 CFR 52.1490(c)(71)(i)(A)(2).
445B.465 | Authorized station or authorized inspection station: Requirements for bond or deposit | 9/1/06 | 73 FR 38124 (7/3/08) | Most recently approved version was submitted on 5/11/07. See 40 CFR 52.1490(c)(71)(i)(A)(2).
445B.466 | Authorized station or authorized inspection station: Liability under bond or deposit; suspension and reinstatement of licenses | 9/25/98 | 73 FR 38124 (7/3/08) | Most recently approved version was submitted on 5/11/07. See 40 CFR 52.1490(c)(71)(i)(A)(2).
445B.467 | Authorized station or authorized inspection station: Disbursement, release or refund of bond or deposit | 9/25/98 | 73 FR 38124 (7/3/08) | Most recently approved version was submitted on 5/11/07. See 40 CFR 52.1490(c)(71)(i)(A)(2).
445B.468 | Authorized stations and authorized inspection stations: Scope of coverage of bond or deposit | 9/1/06 | 73 FR 38124 (7/3/08) | Most recently approved version was submitted on 5/11/07. See 40 CFR 52.1490(c)(71)(i)(A)(2).
445B.469 | Authorized station or authorized inspection station: Posting of signs and placards | 9/1/06 | 73 FR 38124 (7/3/08) | Most recently approved version was submitted on 5/11/07. See 40 CFR 52.1490(c)(71)(i)(A)(2).
445B.470 | Test station: Display of licenses; availability of reference information | 9/1/06 | 73 FR 38124 (7/3/08) | Most recently approved version was submitted on 5/11/07. See 40 CFR 52.1490(c)(71)(i)(A)(2).
445B.471 | Test station: Advertising; provision by Department of certain informational material for public | 9/1/06 | 73 FR 38124 (7/3/08) | Most recently approved version was submitted on 5/11/07. See 40 CFR 52.1490(c)(71)(i)(A)(2).
445B.472 | Test station: Records of inspections and repairs; inspection of place of business; audit of exhaust gas analyzers | 9/1/06 | 73 FR 38124 (7/3/08) | Most recently approved version was submitted on 5/11/07. See 40 CFR 52.1490(c)(71)(i)(A)(2).
445B.473 | Test station: Notice of wrongfully distributed or received vehicle inspection reports; inventory of vehicle inspection reports | 9/1/06 | 73 FR 38124 (7/3/08) | Most recently approved version was submitted on 5/11/07. See 40 CFR 52.1490(c)(71)(i)(A)(2).
445B.474 | Test station: Failure to employ approved inspector | 7/17/03 | 73 FR 38124 (7/3/08) | Most recently approved version was submitted on 5/11/07. See 40 CFR 52.1490(c)(71)(i)(A)(2).
445B.475 | Authorized station or class 2 fleet station: Requirements for employees | 9/13/95 | 73 FR 38124 (7/3/08) | Most recently approved version was submitted on 5/11/07. See 40 CFR 52.1490(c)(71)(i)(A)(2).
445B.476 | Test station: Willful failure to comply with directive; suspension of license; reapplication after revocation of license | 9/25/98 | 73 FR 38124 (7/3/08) | Most recently approved version was submitted on 5/11/07. See 40 CFR 52.1490(c)(71)(i)(A)(2).
445B.478 | Fleet station: Licensing; powers and duties | 9/25/98 | 73 FR 38124 (7/3/08) | Most recently approved version was submitted on 5/11/07. See 40 CFR 52.1490(c)(71)(i)(A)(2).
445B.480 | Test station: Requirements concerning business hours | 9/1/06 | 73 FR 38124 (7/3/08) | Most recently approved version was submitted on 5/11/07. See 40 CFR 52.1490(c)(71)(i)(A)(2).
Nevada Administrative Code, Chapter 445B, Air Controls, Emissions from Engines—Inspectors
445B.485 | Prerequisites to licensing | 2/23/06 | 73 FR 38124 (7/3/08) | Most recently approved version was submitted on 5/11/07. See 40 CFR 52.1490(c)(71)(i)(A)(2).
445B.486 | Examination of applicants for licensing | 2/23/06 | 73 FR 38124 (7/3/08) | Most recently approved version was submitted on 5/11/07. See 40 CFR 52.1490(c)(71)(i)(A)(2).
445B.487 | Denial of license | 9/13/95 | 73 FR 38124 (7/3/08) | Most recently approved version was submitted on 5/11/07. See 40 CFR 52.1490(c)(71)(i)(A)(2).
445B.489 | Grounds for denial, suspension or revocation of license | 2/23/06 | 73 FR 38124 (7/3/08) | Most recently approved version was submitted on 5/11/07. See 40 CFR 52.1490(c)(71)(i)(A)(2).
445B.490 | Hearing on suspension or revocation of license | 2/23/06 | 73 FR 38124 (7/3/08) | Most recently approved version was submitted on 5/11/07. See 40 CFR 52.1490(c)(71)(i)(A)(2).
445B.491 | Temporary suspension or refusal to renew license | 1/10/78 | 73 FR 38124 (7/3/08) | Most recently approved version was submitted on 5/11/07. See 40 CFR 52.1490(c)(71)(i)(A)(2).
445B.492 | Duration of suspension; surrender of license | 12/20/79 | 73 FR 38124 (7/3/08) | Most recently approved version was submitted on 5/11/07. See 40 CFR 52.1490(c)(71)(i)(A)(2).
445B.493 | Limitation on reapplication after revocation or denial or license; surrender of revoked license; permanent revocation of license | 2/23/06 | 73 FR 38124 (7/3/08) | Most recently approved version was submitted on 5/11/07. See 40 CFR 52.1490(c)(71)(i)(A)(2).
445B.495 | Contents of license | 9/13/95 | 73 FR 38124 (7/3/08) | Most recently approved version was submitted on 5/11/07. See 40 CFR 52.1490(c)(71)(i)(A)(2).
445B.496 | Expiration of license | 1/1/88 | 73 FR 38124 (7/3/08) | Most recently approved version was submitted on 5/11/07. See 40 CFR 52.1490(c)(71)(i)(A)(2).
445B.497 | Requirements for renewal of license | 2/23/06 | 73 FR 38124 (7/3/08) | Most recently approved version was submitted on 5/11/07. See 40 CFR 52.1490(c)(71)(i)(A)(2).
445B.498 | Performance of emission inspection without license prohibited; expiration of license; license ratings | 2/23/06 | 73 FR 38124 (7/3/08) | Most recently approved version was submitted on 5/11/07. See 40 CFR 52.1490(c)(71)(i)(A)(2).
445B.4983 | Issuance of access code to approved inspector; use of access code and identification number | 2/23/06 | 73 FR 38124 (7/3/08) | Most recently approved version was submitted on 5/11/07. See 40 CFR 52.1490(c)(71)(i)(A)(2).
445B.4985 | Violations | 7/17/03 | 73 FR 38124 (7/3/08) | Most recently approved version was submitted on 5/11/07. See 40 CFR 52.1490(c)(71)(i)(A)(2).
445B.499 | Fees | 7/17/03 | 73 FR 38124 (7/3/08) | Most recently approved version was submitted on 5/11/07. See 40 CFR 52.1490(c)(71)(i)(A)(2).
445B.501 | Report of change in place of employment or termination of employment | 12/20/79 | 73 FR 38124 (7/3/08) | Most recently approved version was submitted on 5/11/07. See 40 CFR 52.1490(c)(71)(i)(A)(2).
445B.502 | Submission of certificate of employment to report change | 9/13/95 | 73 FR 38124 (7/3/08) | Most recently approved version was submitted on 5/11/07. See 40 CFR 52.1490(c)(71)(i)(A)(2).
Nevada Administrative Code, Chapter 445B, Air Controls, Emissions from Engines—Exhaust Gas Analyzers
445B.5049 | Connection to state electronic data transmission system | 9/25/98 | 73 FR 38124 (7/3/08) | Most recently approved version was submitted on 5/11/07. See 40 CFR 52.1490(c)(71)(i)(A)(2).
445B.505 | Availability of list of approved analyzers and their specifications | 7/17/03 | 73 FR 38124 (7/3/08) | Most recently approved version was submitted on 5/11/07. See 40 CFR 52.1490(c)(71)(i)(A)(2).
445B.5052 | Approved analyzer: Use and equipment; deactivation by Department | 6/1/06 | 73 FR 38124 (7/3/08) | Most recently approved version was submitted on 5/11/07. See 40 CFR 52.1490(c)(71)(i)(A)(2).
445B.5055 | Revocation of approval of analyzer | 9/13/95 | 73 FR 38124 (7/3/08) | Most recently approved version was submitted on 5/11/07. See 40 CFR 52.1490(c)(71)(i)(A)(2).
445B.5065 | Manufacturer of approved analyzer: Required warranty | 7/17/03 | 73 FR 38124 (7/3/08) | Most recently approved version was submitted on 5/11/07. See 40 CFR 52.1490(c)(71)(i)(A)(2).
445B.5075 | Manufacturer of approved analyzer: Required services; administrative fine for violations | 7/17/03 | 73 FR 38124 (7/3/08) | Most recently approved version was submitted on 5/11/07. See 40 CFR 52.1490(c)(71)(i)(A)(2).
Nevada Administrative Code, Chapter 445B, Air Controls, Emissions from Engines—Control of Emissions: Generally
445B.575 | Device to control pollution: General requirement; alteration or modification | 3/1/02 | 73 FR 38124 (7/3/08) | Most recently approved version was submitted on 5/11/07. See 40 CFR 52.1490(c)(71)(i)(A)(2).
445B.576 | Vehicles powered by gasoline or diesel fuel: Restrictions on visible emissions and on idling of diesel engines | 10/22/92 | 73 FR 38124 (7/3/08) | Most recently approved version was submitted on 5/11/07. See 40 CFR 52.1490(c)(71)(i)(A)(2).
445B.577 | Devices used on stationary rails: Restrictions on visible emissions | 1/1/88 | 73 FR 38124 (7/3/08) | Most recently approved version was submitted on 5/11/07. See 40 CFR 52.1490(c)(71)(i)(A)(2).
445B.578 | Exceptions to restrictions on visible emissions | 10/22/92 | 73 FR 38124 (7/3/08) | Most recently approved version was submitted on 5/11/07. See 40 CFR 52.1490(c)(71)(i)(A)(2).
445B.579 | Inspection of vehicle: Devices for emission control required | 9/1/06 | 73 FR 38124 (7/3/08) | Most recently approved version was submitted on 5/11/07. See 40 CFR 52.1490(c)(71)(i)(A)(2).
445B.580 | Inspection of vehicle: Procedure for certain vehicles with model year of 1995 or older and heavy-duty vehicles with model year of 1996 or newer | 9/1/06 | 73 FR 38124 (7/3/08) | Most recently approved version was submitted on 5/11/07. See 40 CFR 52.1490(c)(71)(i)(A)(2).
445B.5805 | Inspection of vehicle: Procedure for light-duty vehicles with model year of 1996 or newer | 8/21/02 | 73 FR 38124 (7/3/08) | Most recently approved version was submitted on 5/11/07. See 40 CFR 52.1490(c)(71)(i)(A)(2).
445B.581 | Inspection of vehicle: Place and equipment for performance | 9/1/06 | 73 FR 38124 (7/3/08) | Most recently approved version was submitted on 5/11/07. See 40 CFR 52.1490(c)(71)(i)(A)(2).
445B.5815 | Inspection of vehicle: Certified on-board diagnostic systems | 3/1/02 | 73 FR 38124 (7/3/08) | Most recently approved version was submitted on 5/11/07. See 40 CFR 52.1490(c)(71)(i)(A)(2).
445B.582 | Repair of vehicle; reinspection or testing | 9/13/95 | 73 FR 38124 (7/3/08) | Most recently approved version was submitted on 5/11/07. See 40 CFR 52.1490(c)(71)(i)(A)(2).
445B.583 | Evidence of compliance: Purpose; records | 9/25/98 | 73 FR 38124 (7/3/08) | Most recently approved version was submitted on 5/11/07. See 40 CFR 52.1490(c)(71)(i)(A)(2).
445B.584 | Evidence of compliance: Purchase of vehicle inspection report numbers | 7/17/03 | 73 FR 38124 (7/3/08) | Most recently approved version was submitted on 5/11/07. See 40 CFR 52.1490(c)(71)(i)(A)(2).
445B.585 | Evidence of compliance: Issuance by approved inspector | 9/25/98 | 73 FR 38124 (7/3/08) | Most recently approved version was submitted on 5/11/07. See 40 CFR 52.1490(c)(71)(i)(A)(2).
445B.586 | Evidence of compliance: Return of fee | 9/25/98 | 73 FR 38124 (7/3/08) | Most recently approved version was submitted on 5/11/07. See 40 CFR 52.1490(c)(71)(i)(A)(2).
445B.587 | Test of light-duty motor vehicles powered by diesel engines: Equipment for measurement of smoke opacity | 9/25/98 | 73 FR 38124 (7/3/08) | Most recently approved version was submitted on 5/11/07. See 40 CFR 52.1490(c)(71)(i)(A)(2).
445B.588 | Testing of light-duty motor vehicles powered by diesel engines: List of approved equipment | 7/17/03 | 73 FR 38124 (7/3/08) | Most recently approved version was submitted on 5/11/07. See 40 CFR 52.1490(c)(71)(i)(A)(2).
445B.589 | Testing of light-duty motor vehicles powered by diesel engines: Procedure; certificate of compliance; effect of failure; lack of proper fuel cap | 9/1/06 | 73 FR 38124 (7/3/08) | Most recently approved version was submitted on 5/11/07. See 40 CFR 52.1490(c)(71)(i)(A)(2).
445B.5895 | Dissemination of list of authorized stations | 9/1/06 | 73 FR 38124 (7/3/08) | Most recently approved version was submitted on 5/11/07. See 40 CFR 52.1490(c)(71)(i)(A)(2).
445B.590 | Waiver of standards for emissions | 5/14/98 | 73 FR 38124 (7/3/08) | Most recently approved version was submitted on 5/11/07. See 40 CFR 52.1490(c)(71)(i)(A)(2).
445B.591 | Form for registration of vehicle in area where inspection of vehicle not required | 1/1/88 | 73 FR 38124 (7/3/08) | Most recently approved version was submitted on 5/11/07. See 40 CFR 52.1490(c)(71)(i)(A)(2).
445B.5915 | Requirements for registration of vehicle temporarily being used and maintained in another state | 9/1/06 | 73 FR 38124 (7/3/08) | Most recently approved version was submitted on 5/11/07. See 40 CFR 52.1490(c)(71)(i)(A)(2).
445B.592 | Applicability of certain standards for emissions and other requirements | 10/31/05 | 73 FR 38124 (7/3/08) | Most recently approved version was submitted on 5/11/07. See 40 CFR 52.1490(c)(71)(i)(A)(2).
445B.593 | Evidence of compliance required for certain vehicles based in Clark County | 10/31/05 | 73 FR 38124 (7/3/08) | Most recently approved version was submitted on 5/11/07. See 40 CFR 52.1490(c)(71)(i)(A)(2).
445B.594 | Evidence of compliance required for certain vehicles based in Washoe County | 10/31/05 | 73 FR 38124 (7/3/08) | Most recently approved version was submitted on 5/11/07. See 40 CFR 52.1490(c)(71)(i)(A)(2).
445B.595(1) | Inspections of vehicles owned by State or political subdivisions or operated on federal installations | 9/13/95 | 73 FR 38124 (7/3/08) | Most recently approved version was submitted on 5/11/07. See 40 CFR 52.1490(c)(71)(i)(A)(2). Subsection 2 was not included in the 7/3/08 approval of NAC 445B.595. Certain paragraphs of subsection (2) were approved at 74 FR 3975 (1/22/09).
445B.595(2) (a), (b), and (c) | Inspections of vehicles owned by State or political subdivisions or operated on federal installations | 9/13/95 | 74 FR 3975 (1/22/09) | Most recently approved version was submitted on 5/11/07. See 40 CFR 52.1490(c)(71)(i)(A)(4).
445B.596 | Standards for emissions | 8/21/02 | 73 FR 38124 (7/3/08) | Most recently approved version was submitted on 5/11/07. See 40 CFR 52.1490(c)(71)(i)(A)(2).
445B.598 | Imposition and statement of fee for inspection and testing; listing of stations and fees | 9/13/95 | 73 FR 38124 (7/3/08) | Most recently approved version was submitted on 5/11/07. See 40 CFR 52.1490(c)(71)(i)(A)(2).
445B.599 | Prescription and notice of maximum fees for inspections and testing | 9/25/98 | 73 FR 38124 (7/3/08) | Most recently approved version was submitted on 5/11/07. See 40 CFR 52.1490(c)(71)(i)(A)(2).
445B.600 | Procedure for setting new fee | 9/13/95 | 73 FR 38124 (7/3/08) | Most recently approved version was submitted on 5/11/07. See 40 CFR 52.1490(c)(71)(i)(A)(2).
445B.601 | Concealment of emissions prohibited | 1/10/78 | 73 FR 38124 (7/3/08) | Most recently approved version was submitted on 5/11/07. See 40 CFR 52.1490(c)(71)(i)(A)(2).
Nevada Administrative Code, Chapter 445B, Air Controls, Emissions from Engines—Restored Vehicles
445B.6115 | Exemption of vehicle from certain provisions | 7/27/00 | 73 FR 38124 (7/3/08) | Most recently approved version was submitted on 5/11/07. See 40 CFR 52.1490(c)(71)(i)(A)(2).
445B.6125 | Certification of vehicle for exemption | 3/5/98 | 73 FR 38124 (7/3/08) | Most recently approved version was submitted on 5/11/07. See 40 CFR 52.1490(c)(71)(i)(A)(2).
Nevada Administrative Code, Chapter 445B, Air Controls, Emissions from Engines—Inspection of Test Stations and Approved Inspectors
445B.7015 | Annual and additional inspections | 2/3/05 | 73 FR 38124 (7/3/08) | Most recently approved version was submitted on 5/11/07. See 40 CFR 52.1490(c)(71)(i)(A)(2).
445B.7025 | Alteration of emission control system of vehicle used to conduct inspection | 2/3/05 | 73 FR 38124 (7/3/08) | Most recently approved version was submitted on 5/11/07. See 40 CFR 52.1490(c)(71)(i)(A)(2).
445B.7035 | Preliminary written notice of violation; reinspection of vehicle | 2/3/05 | 73 FR 38124 (7/3/08) | Most recently approved version was submitted on 5/11/07. See 40 CFR 52.1490(c)(71)(i)(A)(2).
445B.7045 | Administrative fines and other penalties for certain violations | 2/3/05 | 73 FR 38124 (7/3/08) | Most recently approved version was submitted on 5/11/07. See 40 CFR 52.1490(c)(71)(i)(A)(2).
Nevada Administrative Code, Chapter 445B, Air Controls, Emissions from Engines—Miscellaneous Provisions
445B.727 | Administrative fines and other penalties | 2/3/05 | 73 FR 38124 (7/3/08) | Most recently approved version was submitted on 5/11/07. See 40 CFR 52.1490(c)(71)(i)(A)(2).
445B.735 | Program for licensure to install, repair and adjust devices for control of emissions | 9/25/98 | 73 FR 38124 (7/3/08) | Most recently approved version was submitted on 5/11/07. See 40 CFR 52.1490(c)(71)(i)(A)(2).
Nevada Administrative Code, Chapter 590, Petroleum Products and Antifreeze, Fuels
590.065 (excluding subsection (7)) | Adopted Regulation of the State Board of Agriculture LCB File No. R111-08. A regulation relating to fuel; adopting by reference a certain standard for gasoline published by ASTM International; providing exceptions; and providing other matters properly relating thereto | 1/28/10 | 75 FR 59090 (9/27/10) | See 40 CFR 52.1490(c)(74)(i)(B). As adopted by the Nevada Board of Agriculture. Submitted on 3/26/10 for inclusion into Appendix C of the 2008 Las Vegas Valley CO Maintenance Plan.
¹ Submitted.

Table 2—EPA-Approved Lander County Regulations
County citation | Title/Subject | County effective date | EPA approval date | Additional explanation
Lander County Ordinance LC 8-78 | Dust Ordinance | 9/8/78 | 46 FR 21758 (4/14/81) | Was approved as part of the Lander County Air Quality Improvement Plan which was submitted on 12/29/78.

Table 3—EPA-Approved Clark County Regulations
County citation | Title/subject | County effective date | EPA approval date | Additional explanation
Section 0 | Definitions—Defined terms include: “Act,” “Actual Emissions,” “ Actual Initial Start-Up Date,” “Administrative Change,” “Administrator,” “Affected Source,” “Affected States,” “Affected Unit,” “Aggrieved Party,” “Agricultural Operations,” “Airplane Refueling Area,” “Air Pollution,” “Air Quality Area,” “Airshed Region,” “Air Quality Planning Region,” “Allowable Emissions,” “Ambient Air,” “Apex Valley,” “Applicable Requirement,” “Application Area,” “Asbestos,” “Attachment 1,” Authority to Construct/Operating Permit Amendment,” “Authority to Construct Certificate” or “Authority to Construct,” “Banking,” “Baseline,” “Baseline Area,” “Baseline Concentration,” “Baseline Emissions,” “Begin Actual Construction,” “Best Available Control Technology,” “Best Management Practices,” “British Thermal Unit,” “Building, Structure, Facility, or Installation,” “Building Vent,” “Chemical Process,” “Clearing and Grubbing,” “Combined Tank Capacity,” “Combustible Refuse,” “Commence,” “Commercial and Residential Construction,” “Complex Source,” “Confidential Information,” “Construction,” “Construction Activity,” “Control Measure,” | 10/7/04 | 69 FR 54006 (9/7/04) | Submitted on 10/23/03. See 40 CFR 52.1490(c)(53)(i)(A)(1).
| “Control Officer,” “De Minimus Permit,” “Designated Representative,” “Designated Trail,” “Diesel Fuel,” “Dispatchable Peak Shaving,” “Disturbed Surface Area,” “Draft Permit,” “Dust Palliative,” “Dust Suppressant,” “Easement,” “Easement Holder,” “Electric Utility Steam Generating Unit,” “Eldorado Valley,” “Emergency,” “Emergency Standby Generator,” “Emergency Standby Diesel Powered Generator,” “Emission” or “Emit,” “Emission Reduction Credit (ERC),” “Emission Unit,” “Emissions Allowable Under the Permit,” “EPA,” “Ethanol,” “Exempt Stationary Source,” “Existing Emission Unit,” “Existing Stationary Source,” “Federal Land Manager,” “Federally Enforceable,” “Final Permit,” “Flood Control Construction,” “Freeboard Ratio,” “Fuel,” “Fuel Burning Equipment,” “Fuel Oil,” “Fugitive Dust,” “Fugitive Emissions,” “Fugitive Gas,” “Garbage,” “Gas,” “Gasoline,” “Gasoline Dispensing Facility,” “Gasoline Station,” “General Permit,” “Hazardous Air Pollutant,” “Hearing Board,” “Hearing Officer,” “Highly Volatile Solvent,” “Highway Construction,” “Hydrographic Basin Areas” or
| “Hydrographic Areas,” “Incinerator,” “Ivanpah Valley,” “Large Appliances,” “Las Vegas Valley,” “Leak Free,” “Low Organic Solvent Coating,” “Lowest Achievable Emission Rate,” “Major Modification,” “Major Part 70 Source,” “Major Source Baseline Date,” “Major Stationary Source,” “Malfunction,” “Management Area,” “Maximum Achievable Control Technology (MACT),” “Maximum Achievable Control Technology (MACT) Floor,” “Methyl Tertiary Butyl Ether,” “Modification,” “Modified Emission Unit,” “Motocross Race Course,” “Motor Vehicle,” “MTBE,” “Multiple Chamber Incinerator,” “Natural Cover,” “Necessary Preconstruction Approvals or Permits,” “Net Emissions Increase,” “Nonattainment Area,” “Non-Major Source Baseline Date,” “Non-Metallic Mineral,” “Non-Metallic Mineral Processing Plant,” “Non-Road Easement,” “Normal Farm Cultural Practice,” “Nuisance,” “Odor,” “Off-Road Vehicle,” “Offset,” “Opacity,”
| “Open Areas and Vacant Lots,” “Open Fire,” “Operating Permit,” “Owner And/Or Operator,” “Oxygenated Gasoline,” “Part 70 Permit,” “Part 70 Permit Modification,” “Part 70 Permit Revision,” “Part 70 Program,” “Part 70 Source,” “Particulate Matter,” “Pave,” “Permit for Construction Activities,” “Permanent,” “Person,” “PM10 Nonattainment Area,” “PM10,” “Potential to Emit,” “Prevention of Significant Deterioration (PSD) Area,” “Prevention of Significant Deterioration (PSD) Program,”
| “Prime Coat,” “Process Equipment,” “Process Weight,” “Proposed Permit,” “PSD,” “Public Road,” “Quantifiable,” “Reclaimed Water,” “Reconstruction,” “Registry” or “Bank,” “Regulated Air Pollutant,” “Renewal,” “Representative of Alleged Violator,” “Responsible Official,” “Road Easement,” “Secondary Emissions,” “Section 502(B)(10) Changes,” “Section 58 ERC Bank Certificate,” “Significant Source,” “Single Coat,” “Slow Curing (SC),” “Stack,” “Stage I,” “Stage II,” “State,” “Stationary Source,” “Surplus,” “Temporary Stationary Source,” “Top Coat,” “Top Off,” “Topsoil,” “Total Suspended Particulates,” “Toxic Chemical Substance (TCS),” “Trench,” “Trigger Date,” “Unpaved Parking Lot,” “Upset/Breakdown,” “Vacant Lot,” “Vapor,” “Vapor Control System,” “Vapor Tight,” “Various Locations Activity” or “Various Locations Permit (VLP),” “Volatile Organic Compound (VOC),” and “Waste.”
Section 1 (“Definitions”): Subsection 1.1 | Affected Facility | 12/28/78 | 46 FR 21758 (4/14/81) | Submitted on 9/18/79. See 40 CFR 52/1490(c)(17)(i).
Section 1 (“Definitions”): Subsection 1.3 | Air Contaminant | 12/28/79 | 46 FR 21758 (4/14/81) | Submitted on 9/18/79. See 40 CFR 52/1490(c)(17)(i).
Section 1 (“Definitions”): Subsection 1.6 | Air Pollution Control Committee | 12/28/78 | 46 FR 21758 (4/14/81) | Submitted on 9/18/79. See 40 CFR 52/1490(c)(17)(i).
Section 1 (“Definitions”): Subsection 1.11 | Area Source | 12/28/78 | 46 FR 21758 (4/14/81) | Submitted on 9/18/79. See 40 CFR 52/1490(c)(17)(i).
Section 1 (“Definitions”): Subsection 1.12 | Atmosphere | 12/28/78 | 46 FR 21758 (4/14/81) | Submitted on 9/18/79. See 40 CFR 52/1490(c)(17)(i).
Section 1 (“Definitions”): Subsection 1.16 | Board | 12/28/78 | 46 FR 21758 (4/14/81) | Submitted on 9/18/79. See 40 CFR 52/1490(c)(17)(i).
Section 1 (“Definitions”): Subsection 1.23 | Commercial Off-Road Vehicle Racing | 12/28/78 | 46 FR 21758 (4/14/81) | Submitted on 9/18/79. See 40 CFR 52/1490(c)(17)(i).
Section 1 (“Definitions”): Subsection 1.26 | Dust | 12/28/78 | 46 FR 21758 (4/14/81) | Submitted on 9/18/79. See 40 CFR 52/1490(c)(17)(i).
Section 1 (“Definitions”): Subsection 1.28 | Existing Facility | 12/28/78 | 46 FR 21758 (4/14/81) | Submitted on 9/18/79. See 40 CFR 52/1490(c)(17)(i).
Section 1 (“Definitions”): Subsection 1.29 | Existing Gasoline Station | 12/28/78 | 46 FR 21758 (4/14/81) | Submitted on 9/18/79. See 40 CFR 52/1490(c)(17)(i).
Section 1 (“Definitions”): Subsection 1.30 | Fixed Capital Cost | 12/28/78 | 46 FR 21758 (4/14/81) | Submitted on 9/18/79. See 40 CFR 52/1490(c)(17)(i).
Section 1 (“Definitions”): Subsection 1.36 | Fumes | 12/28/78 | 46 FR 21758 (4/14/81) | Submitted on 9/18/79. See 40 CFR 52/1490(c)(17)(i).
Section 1 (“Definitions”): Subsection 1.40 | Health District | 12/28/78 | 46 FR 21758 (4/14/81) | Submitted on 9/18/79. See 40 CFR 52/1490(c)(17)(i).
Section 1 (“Definitions”): Subsection 1.41 | Hearing Board | 12/28/78 | 46 FR 21758 (4/14/81) | Submitted on 9/18/79. See 40 CFR 52/1490(c)(17)(i).
Section 1 (“Definitions”): Subsection 1.44 | Integrated Sampling | 12/28/78 | 46 FR 21758 (4/14/81) | Submitted on 9/18/79. See 40 CFR 52/1490(c)(17)(i).
Section 1 (“Definitions”): Subsection 1.50 | Minor Source | 9/3/81 | 47 FR 26620 (6/21/82) | Submitted on 11/17/81. See 40 CFR 52/1490(c)(24)(iii).
Section 1 (“Definitions”): Subsection 1.51 | Mist | 12/28/78 | 46 FR 21758 (4/14/81) | Submitted on 9/18/79. See 40 CFR 52/1490(c)(17)(i).
Section 1 (“Definitions”): Subsection 1.57 | New Gasoline Station | 9/3/81 | 47 FR 26620 (6/21/82) | Submitted on 11/17/81. See 40 CFR 52/1490(c)(24)(iii).
Section 1 (“Definitions”): Subsection 1.58 | New Source | 12/28/78 | 46 FR 21758 (4/14/81) | Submitted on 9/18/79. See 40 CFR 52/1490(c)(17)(i).
Section 1 (“Definitions”): Subsection 1.60 | NIC | 12/28/78 | 46 FR 21758 (4/14/81) | Submitted on 9/18/79. See 40 CFR 52/1490(c)(17)(i).
Section 1 (“Definitions”): Subsection 1.70 | Point Source | 12/28/78 | 46 FR 21758 (4/14/81) | Submitted on 9/18/79. See 40 CFR 52/1490(c)(17)(i).
Section 1 (“Definitions”): Subsection 1.78 | Shutdown | 12/28/78 | 46 FR 21758 (4/14/81) | Submitted on 9/18/79. See 40 CFR 52/1490(c)(17)(i).
Section 1 (“Definitions”): [unnumbered] | Significant | 9/3/81 | 47 FR 26620 (6/21/82) | Submitted on 11/17/81. See 40 CFR 52/1490(c)(24)(iii).
Section 1 (“Definitions”): Subsection 1.81 | Single Source | 12/28/78 | 46 FR 21758 (4/14/81) | Submitted on 9/18/79. See 40 CFR 52/1490(c)(17)(i).
Section 1 (“Definitions”): Subsection 1.83 | Smoke | 12/28/78 | 46 FR 21758 (4/14/81) | Submitted on 9/18/79. See 40 CFR 52/1490(c)(17)(i).
Section 1 (“Definitions”): Subsection 1.84 | Source of Air Contaminant | 12/28/78 | 46 FR 21758 (4/14/81) | Submitted on 9/18/79. See 40 CFR 52/1490(c)(17)(i).
Section 1 (“Definitions”): Subsection 1.85 | Special Mobile Equipment | 12/28/78 | 46 FR 21758 (4/14/81) | Submitted on 9/18/79. See 40 CFR 52/1490(c)(17)(i).
Section 1 (“Definitions”): Subsection 1.87 | Standard Commercial Equipment | 12/28/78 | 46 FR 21758 (4/14/81) | Submitted on 9/18/79. See 40 CFR 52/1490(c)(17)(i).
Section 1 (“Definitions”): Subsection 1.88 | Standard Conditions | 12/28/78 | 46 FR 21758 (4/14/81) | Submitted on 9/18/79. See 40 CFR 52/1490(c)(17)(i).
Section 1 (“Definitions”): Subsection 1.89 | Start Up | 12/28/78 | 46 FR 21758 (4/14/81) | Submitted on 9/18/79. See 40 CFR 52/1490(c)(17)(i).
Section 1 (“Definitions”): Subsection 1.91 | Stop Order | 12/28/78 | 46 FR 21758 (4/14/81) | Submitted on 9/18/79. See 40 CFR 52/1490(c)(17)(i).
Section 1 (“Definitions”): Subsection 1.95 | Uncombined Water | 12/28/78 | 46 FR 21758 (4/14/81) | Submitted on 9/18/79. See 40 CFR 52/1490(c)(17)(i).
Section 1 (“Definitions”): Subsection 1.97 | Vapor Disposal System | 12/28/78 | 46 FR 21758 (4/14/81) | Submitted on 9/18/79. See 40 CFR 52/1490(c)(17)(i).
Section 2: Subsections 2.1, 2.2, and 2.3 | Air Pollution Control Board | 12/28/78 | 46 FR 43141 (8/27/81) | Submitted on 7/24/79. See 40 CFR 52.1490(c)(16)(viii).
Section 4: Subsections 4.1-4.11 (excluding subsection 4.7.3) | Control Officer | 12/28/78 | 46 FR 43141 (8/27/81) | Submitted on 7/24/79. See 40 CFR 52.1490(c)(16)(viii). Subsection 4.7.3, submitted on 7/24/79, was superseded by approval of amended provision at 47 FR 26386 (6/18/82).
Section 4 (Control Officer): Subsection 4.7.3 | [related to authority of control officer] | 9/3/81 | 47 FR 26386 (6/18/82) | Submitted on 11/17/81. See 40 CFR 52.1490(c)(24)(iv).
Section 4 (Control Officer): Subsections 4.12, 4.12.1-4.12.3 | [related to public notification] | 4/24/80 | 46 FR 43141 (8/27/81) | Submitted on 11/5/80. See 40 CFR 52.1490(c)(22)(i).
Section 5: Subsection 5.1 | Interference with Control Officer | 12/28/78 | 46 FR 43141 (8/27/81) | Submitted on 7/24/79. See 40 CFR 52.1490(c)(16)(viii).
Section 6: Subsection 6.1 | Injunctive Relief | 12/28/78 | 46 FR 43141 (8/27/81) | Submitted on 7/24/79. See 40 CFR 52.1490(c)(16)(viii).
Section 8: Subsections 8.1, 8.2 | Persons Liable for Penalties—Punishment; Defense | 12/28/78 | 46 FR 43141 (8/27/81) | Submitted on 7/24/79. See 40 CFR 52.1490(c)(16)(viii).
Section 10 | Compliance Schedules | 12/28/78 | 46 FR 43141 (8/27/81) | Submitted on 7/24/79. See 40 CFR 52.1490(c)(16)(viii).
Section 11 | Ambient Air Quality Standards | 10/21/03 | 69 FR 54006 (9/7/04) | Adopted on 10/7/03 and submitted on 10/23/03. See 40 CFR 52.1490(c)(53)(i)(A)(1).
Section 12 (excluding subsections 12.2.18 and 12.2.20) | Preconstruction Review for New or Modified Stationary Sources | 10/7/04 | 69 FR 54006 (9/7/04) | Adopted on 10/7/03 and submitted on 10/23/03. See 40 CFR 52.1490(c)(53)(i)(A)(1).
Section 16: Subsections 16.1-16.9 | Operating Permits | 9/3/81 | 47 FR 26386 (6/18/82) | Submitted on 11/17/81. See 40 CFR 52.1490(c)(24)(iv).
Section 18: Subsections 18.1-18.5.2 | Registration/Permit Fees | 9/3/81 | 47 FR 26386 (6/18/82) | Submitted on 11/17/81. See 40 CFR 52.1490(c)(24)(iv).
Section 23: Subsections 23.1-23.5 (excluding subsections 23.2.1-23.3.1.2, 23.3.4-23.3.5) | Continuous Monitoring by Fossil Fuel-Fired Steam Generators | 12/28/78 | 46 FR 43141 (8/27/81) | Submitted on 7/24/79. See 40 CFR 52.1490(c)(16)(viii). Subsections 23.2.1-23.3.1.2, 23.3.4-23.3.5, submitted on 7/24/79, were superseded by revised subsections submitted on 11/17/81 and approved at 47 FR 26386 (6/18/82).
Section 23 (Continuous Monitoring by Fossil Fuel-Fired Steam Generators): Subsections 23.2.1-23.3.1.2, 23.3.4-23.3.5) | [related to specifications for continuous monitoring] | 9/3/81 | 47 FR 26386 (6/18/82) | Submitted on 11/17/81. See 40 CFR 52.1490(c)(24)(iv).
Section 24: Subsections 24.1-24.5 | Sampling and Testing—Records and Reports | 12/28/78 | 46 FR 43141 (8/27/81) | Submitted on 7/24/79. See 40 CFR 52.1490(c)(16)(viii).
Section 25: Subsection 25.2 | Upset, Breakdown or Scheduled Maintenance | 12/28/78 | 46 FR 43141 (8/27/81) | Submitted on 7/24/79. See 40 CFR 52.1490(c)(16)(viii). Subsection 25.1, submitted on 7/24/79, was never approved into the SIP; see 40 CFR 52.1483 and 69 FR 54006, at 54017, 54018 (9/7/04).
Section 26: Subsections 26.1-26.3 | Emission of Visible Air Contaminants | 12/28/78 | 46 FR 43141 (8/27/81) | Submitted on 7/24/79. See 40 CFR 52.1490(c)(16)(viii).
Section 27 | Particulate Matter from Process Weight Rate | 9/3/81 | 47 FR 26386 (6/18/82) | Submitted on 11/17/81. See 40 CFR 52.1490(c)(24)(iv).
Section 28: Subsections 28.1 and 28.2 | Fuel Burning Equipment | 12/28/78 | 46 FR 43141 (8/27/81) | Submitted on 7/24/79. See 40 CFR 52.1490(c)(16)(viii).
Section 29 | Sulfur Contents of Fuel Oil | 12/28/78 | 46 FR 43141 (8/27/81) | Submitted on 7/24/79. See 40 CFR 52.1490(c)(16)(viii).
Section 30: Subsections 30.1-30.7 (excluding subsection 30.4) | Incinerators | 12/28/78 | 46 FR 43141 (8/27/81) | Submitted on 7/24/79. See 40 CFR 52.1490(c)(16)(viii). Subsection 30.4 was superseded by amended version submitted on 11/17/81 and approved at 47 FR 26386 (6/18/82).
Section 30 (Incinerators): Subsection 30.4 | [exemptions for certain types of incinerators] | 9/3/81 | 47 FR 26386 (6/18/82) | Submitted on 11/17/81. See 40 CFR 52.1490(c)(24)(iv).
Section 30 (Incinerators): Subsection 30.8 | [related to maximum allowable emission rates] | 9/3/81 | 47 FR 26386 (6/18/82) | Submitted on 11/17/81. See 40 CFR 52.1490(c)(24)(iv).
Section 31 | Reduction of Emission of Sulfur from Primary Non-Ferrous Smelters | 12/28/78 | 46 FR 43141 (8/27/81) | Submitted on 7/24/79. See 40 CFR 52.1490(c)(16)(viii).
Section 32: Subsections 32.1, 32.2 | Reduction of Animal Matter | 12/28/78 | 46 FR 43141 (8/27/81) | Submitted on 7/24/79. See 40 CFR 52.1490(c)(16)(viii).
Section 33 | Chlorine in Chemical Processes | 5/18/84 | 51 FR 29923 (8/21/86) | Submitted on 1/11/85. See 40 CFR 52.1490(c)(i)(A). See also clarification at 69 FR 54006 (9/7/04)
Section 41: Subsections 41.1-41.4 | Fugitive Dust | 12/28/78 | 46 FR 43141 (8/27/81) | Submitted on 7/24/79. See 40 CFR 52.1490(c)(16)(viii).
Section 42: Subsections 42.1, 42.3 and 42.4 | Open Burning | 12/28/78 | 46 FR 43141 (8/27/81) | Submitted on 7/24/79. See 40 CFR 52.1490(c)(16)(viii). Subsection 42.2 deleted without replacement—see 40 CFR 52.1490(c)(16)(viii)(C).
Section 50 | Storage of Petroleum Products | 12/28/78 | 46 FR 21758 (4/14/81) | Submitted on 7/24/79. See 40 CFR 52.1490(c)(16)(ii).
Section 51 | Petroleum Product Loading into Tank Trucks and Trailers | 12/28/78 | 46 FR 21758 (4/14/81) | Submitted on 7/24/79. See 40 CFR 52.1490(c)(16)(ii).
Section 52: Subsections 52.1-52.9 (excluding subsections 52.4.2.3 and 52.7.2) | Handling of Gasoline at Service Stations, Airports and Storage Tanks | 12/28/78 | 46 FR 21758 (4/14/81) | Submitted on 7/24/79. See 40 CFR 52.1490(c)(16)(ii). Subsections 52.4.2.3 and 52.7.2 were superseded by amended provisions submitted on 11/17/81 and approved at 47 FR 26386 (6/18/82).
Section 52 (Handling of Gasoline at Service Stations, Airports and Storage Tanks): Subsections 52.4.2.3 and 52.7.2 | [related to vapor recovery and sales information] | 9/3/81 | 47 FR 26386 (6/18/82) | Submitted on 11/17/81. See 40 CFR 52.1490(c)(24)(iv).
Section 53 | Oxygenated Wintertime Gasoline | 6/3/03 | 69 FR 56351 (9/21/04) | Submitted on 11/10/03. See 40 CFR 52.1490(c)(52)(i)(A)(1). Superseded earlier version adopted on 9/25/97, submitted on 8/7/98, and approved at 64 FR 29573 (6/2/99).
Ordinance No. 3809 | An Ordinance to Suspend the Applicability and Enforceability of All Provisions of Clark County Air Quality Regulation Section 54, the Cleaner Burning Gasoline Wintertime Program; and Provide for Other Matters Properly Relating Thereto | 9/29/09 | 75 FR 59090 (9/27/10) | See 40 CFR 52.1490(c)(74)(i)(A). Section 54 was suspended by the Clark County Board of County Commissioners through adoption of Ordinance No. 3809 on September 15, 2009. Submitted on 3/26/10 for inclusion into Appendix C of the 2008 Las Vegas Valley CO Maintenance Plan.
Section 58 | Emission Reduction Credits | 10/7/04 | 69 FR 54006 (9/7/04) | Adopted on 10/7/03 and submitted on 10/23/03. See 40 CFR 52.1490(c)(53)(i)(A)(1).
Section 59 [excluding subsection 59.2 (“Local Offset Requirements”] | Emission Offsets | 10/7/04 | 69 FR 54006 (9/7/04) | Adopted on 10/7/03 and submitted on 10/23/03. See 40 CFR 52.1490(c)(53)(i)(A)(1).
Section 60 (excluding subsections 60.4.2 and 60.4.3) | Evaporation and Leakage | 6/28/79 | 46 FR 21758 (4/14/81) | Submitted on 9/18/79. See 40 CFR 52.1490(c)(17)(i). Subsections 60.4.2 and 60.4.3 were superseded by approval of amended provisions at 49 FR 10259 (3/20/84) and 47 FR 26386 (6/18/82).
Section 60: Subsection 60.4.2 | [General prohibition on use of cutback asphalt] | 9/3/81 | 49 FR 10259 (3/20/84) | Submitted on 11/17/81. See 40 CFR 52.1490(c)(24)(vi).
Section 60: Subsection 60.4.3 | [Exceptions to subsection 60.4.2] | 9/3/81 | 47 FR 26386 (6/18/82) | Submitted on 11/17/81. See 40 CFR 52.1490(c)(24)(iv).
Section 70: subsections 70.1-70.6 | Emergency Procedures | 12/28/78 | 46 FR 43141 (8/27/81) | Submitted on 7/24/79. See 40 CFR 52.1490(c)(16)(viii).
Section 80 | Circumvention | 12/28/78 | 46 FR 43141 (8/27/81) | Submitted on 7/24/79. See 40 CFR 52.1490(c)(16)(viii).
Section 81 | Provisions of Regulations Severable | 12/28/78 | 46 FR 43141 (8/27/81) | Submitted on 7/24/79. See 40 CFR 52.1490(c)(16)(viii).
Section 90 | Fugitive Dust from Open Areas and Vacant Lots | 12/17/02 | 71 FR 63250 (10/30/06) | Originally adopted on 6/22/00, and amended on 12/17/02. Submitted on 1/23/03. See 40 CFR 52.1490(c)(60)(i)(A)(1). Supersedes earlier version of rule approved at 69 FR 32273 (6/9/04).
Section 91 | Fugitive Dust from Unpaved Roads, Unpaved Alleys and Unpaved Easement Roads | 11/20/01 | 69 FR 32273 (6/9/04) | Originally adopted on 6/22/00 and amended on 11/20/01. Submitted on 10/24/02. See 40 CFR 52.1490(c)(43)(i)(A)(1).
Section 92 | Fugitive Dust from Unpaved Parking Lots, Material Handling & Storage Yards, & Vehicle & Equipment Storage Yards | 12/17/02 | 71 FR 63250 (10/30/06) | Originally adopted on 6/22/00, and amended on 12/17/02. Submitted on 1/23/03. See 40 CFR 52.1490(c)(60)(i)(A)(1). Supersedes earlier version of rule approved at 69 FR 32273 (6/9/04).
Section 93 | Fugitive Dust from Paved Roads & Street Sweeping Equipment | 3/4/03 (amended) | 71 FR 63250 (10/30/06) | Originally adopted on 6/22/00, amendments adopted on 3/4/03 made effective 3/18/03. Submitted on 3/26/03. See 40 CFR 52.1490(c)(61)(i)(A)(1). Supersedes earlier version of rule approved at 69 FR 32273 (6/9/04).
Section 94 | Permitting & Dust Control for Construction Activities | 3/18/03 (amended) | 71 FR 63250 (10/30/06) | Originally adopted on 6/22/00, amendments adopted on 3/18/03 made effective 4/1/03. Submitted on 3/26/03. See 40 CFR 52.1490(c)(61)(i)(A)(1). Supersedes earlier version of rule approved at 69 FR 32273 (6/9/04).
Section 94 Handbook | Construction Activities Dust Control Handbook | 4/1/03 | 71 FR 63250 (10/30/06) | Originally adopted on 6/22/00, and amended on 3/18/03. Submitted on 3/26/03. See 40 CFR 52.1490(c)(61)(i)(A)(1). Supersedes earlier version of rule approved at 69 FR 32273 (6/9/04).
Clark County Building Code, Section 3708 | Residential Wood Combustion Ordinance (Fireplace), No. 1249 | 12/4/90 | 68 FR 52838 (9/8/03) | Adopted on 11/20/90, and submitted on 11/19/02. See 40 CFR 52.1490(c)(41)(i)(A)(1).

Table 4—EPA-Approved City of Las Vegas Regulations
City citation | Title/subject | City effective date | EPA approval date | Additional explanation
City of Las Vegas Building Code, Section 3708 | Residential Wood Combustion Ordinance (Fireplace), No. 3538 | 11/21/90 | 68 FR 52838 (9/8/03) | Adopted on 11/21/90, and submitted on 11/19/02. See 40 CFR 52.1490(c)(41)(i)(A)(2).

Table 5—EPA-Approved City of Las Vegas Regulations
City citation | Title/subject | City effective date | EPA approval date | Additional explanation
City of North Las Vegas Building Code, Section 13.16.150 | Residential Wood Combustion Ordinance (Fireplace), No. 1020 | 9/18/91 | 68 FR 52838 (9/8/03) | Adopted on 9/18/91, and submitted on 11/19/02. See 40 CFR 52.1490(c)(41)(i)(A)(3).

Table 6—EPA-Approved City of Henderson Regulations
City citation | Title/subject | City effective date | EPA approval date | Additional explanation
City of Henderson Building Code, Section 15.40.010 | Residential Wood Combustion Ordinance (Fireplace), No. 1697 | 10/15/96 | 68 FR 52838 (9/8/03) | Adopted on 10/15/96, and submitted on 11/19/02. See 40 CFR 52.1490(c)(41)(i)(A)(4).

Table 7—EPA-Approved Washoe County Regulations
District citation | Title/subject | District effective date | EPA approval date | Additional explanation
GENERAL DEFINITIONS
010.000 | Definitions | 2/1/72 | 38 FR 12702 (5/14/73) | Submitted on 6/12/72. See 40 CFR 52.1490(c)(2).
010.005 | Air Contaminant | 2/1/72 | 38 FR 12702 (5/14/73) | Submitted on 6/12/72. See 40 CFR 52.1490(c)(2).
010.010 | Air Pollution | 2/1/72 | 38 FR 12702 (5/14/73) | Submitted on 6/12/72. See 40 CFR 52.1490(c)(2).
010.011 | Allowable emissions | 5/23/79 (adopted) | 46 FR 21758 (4/14/81) | Submitted on 7/24/79. See 40 CFR 52.1490(c)(16)(iii).
010.014 | Asphalt | 5/23/79 (adopted) | 46 FR 21758 (4/14/81). | Submitted on 7/24/79. See 40 CFR 52.1490(c)(16)(iii).
010.015 | Atmosphere | 2/1/72 | 38 FR 12702 (5/14/73) | Submitted on 6/12/72. See 40 CFR 52.1490(c)(2).
010.020 | Board of Health | 2/1/72 | 38 FR 12702 (5/14/73) | Submitted on 6/12/72. See 40 CFR 52.1490(c)(2).
010.025 | BTU—British Thermal Unit | 2/1/72 | 38 FR 12702 (5/14/73) | Submitted on 6/12/72. See 40 CFR 52.1490(c)(2).
010.028 | Cold Cleaner | 1/24/79 (adopted) | 46 FR 21758 (4/14/81) | Submitted on 7/24/79. See 40 CFR 52.1490(c)(16)(iii).
010.030 | Combustion Contaminants | 2/1/72 | 38 FR 12702 (5/14/73) | Submitted on 6/12/72. See 40 CFR 52.1490(c)(2).
010.035 | Combustible Refuse | 2/1/72 | 38 FR 12702 (5/14/73). | Submitted on 6/12/72. See 40 CFR 52.1490(c)(2).
010.040 | Commercial Fuel Oil | 2/1/72 | 38 FR 12702 (5/14/73) | Submitted on 6/12/72. See 40 CFR 52.1490(c)(2).
010.045 | Condensed Fumes | 2/1/72 | 38 FR 12702 (5/14/73) | Submitted on 6/12/72. See 40 CFR 52.1490(c)(2).
010.050 | Control Equipment | 2/1/72 | 38 FR 12702 (5/14/73) | Submitted on 6/12/72. See 40 CFR 52.1490(c)(2).
010.055 | Control Officer | 2/1/72 | 38 FR 12702 (5/14/73) | Submitted on 6/12/72. See 40 CFR 52.1490(c)(2).
010.057 | Conveyorized Degreaser | 1/24/79 (adopted) | 46 FR 21758 (4/14/81) | Submitted on 7/24/79. See 40 CFR 52.1490(c)(16)(iii).
010.059 | Cut-back Asphalt | 5/23/79 (adopted) | 46 FR 21758 (4/14/81) | Submitted on 7/24/79. See 40 CFR 52.1490(c)(16)(iii).
010.060 | District Health Officer | 2/1/72 | 38 FR 12702 (5/14/73) | Submitted on 6/12/72. See 40 CFR 52.1490(c)(2).
010.065 | Dusts | 2/1/72 | 38 FR 12702 (5/14/73) | Submitted on 6/12/72. See 40 CFR 52.1490(c)(2).
010.070 | Emission | 2/1/72 | 38 FR 12702 (5/14/73) | Submitted on 6/12/72. See 40 CFR 52.1490(c)(2).
010.071 | Freeboard height | 1/24/79 (adopted) | 46 FR 21758 (4/14/81) | Submitted on 7/24/79. See 40 CFR 52.1490(c)(16)(iii).
010.072 | Freeboard ratio | 1/24/79 (adopted) | 46 FR 21758 (4/14/81) | Submitted on 7/24/79. See 40 CFR 52.1490(c)(16)(iii).
010.075 | Fuel | 2/1/72 | 38 FR 12702 (5/14/73) | Submitted on 6/12/72. See 40 CFR 52.1490(c)(2).
010.080 | Fuel Burning Equipment | 2/1/72 | 38 FR 12702 (5/14/73) | Submitted on 6/12/72. See 40 CFR 52.1490(c)(2).
010.085 | Garbage | 2/1/72 | 38 FR 12702 (5/14/73) | Submitted on 6/12/72. See 40 CFR 52.1490(c)(2).
010.090 | Gas | 2/1/72 | 38 FR 12702 (5/14/73) | Submitted on 6/12/72. See 40 CFR 52.1490(c)(2).
010.091 | Gasoline | 1/24/79 (adopted) | 46 FR 21758 (4/14/81) | Submitted on 7/24/79. See 40 CFR 52.1490(c)(16)(iii).
010.095 | Health District | 2/1/72 | 38 FR 12702 (5/14/73) | Submitted on 6/12/72. See 40 CFR 52.1490(c)(2).
010.100 | Hearing Board | 2/1/72 | 38 FR 12702 (5/14/73) | Submitted on 6/12/72. See 40 CFR 52.1490(c)(2).
010.105 | Incinerator | 2/1/72 | 38 FR 12702 (5/14/73) | Submitted on 6/12/72. See 40 CFR 52.1490(c)(2).
010.106 | Lowest Achievable Emission Rate | 5/23/79 (adopted) | 46 FR 21758 (4/14/81) | Submitted on 7/24/79. See 40 CFR 52.1490(c)(16)(iii).
010.107B | Major Emitting Facility Or Major Stationary Source (Nonattainment Areas) | 5/23/79 (adopted) | 46 FR 21758 (4/14/81) | Submitted on 4/24/79. See 40 CFR 52.1490(c)(16)(iii).
010.108 | Major Modification | 5/23/79 (adopted) | 46 FR 21758 (4/14/81) | Submitted on 4/24/79. See 40 CFR 52.1490(c)(16)(iii).
010.110 | Mist | 2/1/72 | 38 FR 12702 (5/14/73) | Submitted on 6/12/72. See 40 CFR 52.1490(c)(2).
010.116 | Non Attainment Area | 5/23/79 (adopted) | 46 FR 21758 (4/14/81) | Submitted on 4/24/79. See 40 CFR 52.1490(c)(16)(iii).
010.117 | Non Attainment Pollutant | 5/23/79 (adopted) | 46 FR 21758 (4/14/81) | Submitted on 4/24/79. See 40 CFR 52.1490(c)(16)(iii).
010.120 | Nuisance | 2/1/72 | 38 FR 12702 (5/14/73) | Submitted on 6/12/72. See 40 CFR 52.1490(c)(2).
010.125 | Odor | 2/1/72 | 38 FR 12702 (5/14/73) | Submitted on 6/12/72. See 40 CFR 52.1490(c)(2).
010.130 | Opacity | 2/1/72 | 38 FR 12702 (5/14/73) | Submitted on 6/12/72. See 40 CFR 52.1490(c)(2).
010.135 | Open Fire | 2/1/72 | 38 FR 12702 (5/14/73) | Submitted on 6/12/72. See 40 CFR 52.1490(c)(2).
010.136 | Open Top Vapor Degreaser | 1/24/79 (adopted) | 46 FR 21758 (4/14/81) | Submitted on 4/24/79. See 40 CFR 52.1490(c)(16)(iii).
010.140 | Particulate Matter | 2/1/72 | 38 FR 12702 (5/14/73) | Submitted on 6/12/72. See 40 CFR 52.1490(c)(2).
010.145 | Pathological Waste | 2/1/72 | 38 FR 12702 (5/14/73) | Submitted on 6/12/72. See 40 CFR 52.1490(c)(2).
010.117 | Pellet Stove | 2/23/06 | 72 FR 33397 (6/18/07) | Submitted on 5/5/06. See 40 CFR 52.1490(c)(63)(i)(A)(1).
010.148 | Penetrating Prime Coat | 5/23/79 (adopted) | 46 FR 21758 (4/14/81) | Submitted on 4/24/79. See 40 CFR 52.1490(c)(16)(iii).
010.149 | Penetrating Seal Coat | 5/23/79 (adopted) | 46 FR 21758 (4/14/81) | Submitted on 4/24/79. See 40 CFR 52.1490(c)(16)(iii).
010.150 | Person | 2/1/72 | 38 FR 12702 (5/14/73) | Submitted on 6/12/72. See 40 CFR 52.1490(c)(2).
010.151 | Potential to Emit | 5/23/79 (adopted) | 46 FR 21758 (4/14/81) | Submitted on 4/24/79. See 40 CFR 52.1490(c)(16)(iii).
010.155 | Process Weight | 2/1/72 | 38 FR 12702 (5/14/73) | Submitted on 6/12/72. See 40 CFR 52.1490(c)(2).
010.160 | Process Weight Rate | 2/1/72 | 38 FR 12702 (5/14/73) | Submitted on 6/12/72. See 40 CFR 52.1490(c)(2).
010.165 | Ringelmann Chart | 2/1/72 | 38 FR 12702 (5/14/73) | Submitted on 6/12/72. See 40 CFR 52.1490(c)(2).
010.166 | Significant Ambient Impact | 5/23/79 (adopted) | 46 FR 21758 (4/14/81) | Submitted on 4/24/79. See 40 CFR 52.1490(c)(16)(iii).
010.170 | Smoke | 2/1/72 | 38 FR 12702 (5/14/73) | Submitted on 6/12/72. See 40 CFR 52.1490(c)(2).
010.175 | Source | 2/1/72 | 38 FR 12702 (5/14/73) | Submitted on 6/12/72. See 40 CFR 52.1490(c)(2).
010.1751 | Source Registration | 5/23/79 (adopted) | 46 FR 21758 (4/14/81) | Submitted on 4/24/79. See 40 CFR 52.1490(c)(16)(iii).
010.180 | Stack or Chimney | 2/1/72 | 38 FR 12702 (5/14/73) | Submitted on 6/12/72. See 40 CFR 52.1490(c)(2).
010.185 | Standard Conditions | 2/1/72 | 38 FR 12702 (5/14/73) | Submitted on 6/12/72. See 40 CFR 52.1490(c)(2).
010.197 | Volatile Organic Compound | 1/24/79 (adopted) | 46 FR 21758 (4/14/81) | Submitted on 4/24/79. See 40 CFR 52.1490(c)(16)(iii).
GENERAL PROVISIONS
020.005 | Board of Health—Powers and Duties | 2/1/72 | 38 FR 12702 (5/14/73) | Submitted on 6/12/72. See 40 CFR 52.1490(c)(2).
020.010 | Injunctive Relief | 2/1/72 | 38 FR 12702 (5/14/73) | Submitted on 6/12/72. See 40 CFR 52.1490(c)(2).
020.015 | Judicial Relief | 2/1/72 | 38 FR 12702 (5/14/73) | Submitted on 6/12/72. See 40 CFR 52.1490(c)(2).
020.025 | Control Officer—Powers and Duties | 2/1/72 | 38 FR 12702 (5/14/73) | Submitted on 6/12/72. See 40 CFR 52.1490(c)(2).
020.035 | Violations of Regulations | 2/1/72 | 38 FR 12702 (5/14/73) | Submitted on 6/12/72. See 40 CFR 52.1490(c)(2).
020.040 | Notice of Violation | 2/1/72 | 38 FR 12702 (5/14/73) | Submitted on 6/12/72. See 40 CFR 52.1490(c)(2).
020.045 | Citation | 2/1/72 | 38 FR 12702 (5/14/73) | Submitted on 6/12/72. See 40 CFR 52.1490(c)(2).
020.050 | Administrative Fines | 2/1/72 | 38 FR 12702 (5/14/73) | Submitted on 6/12/72. See 40 CFR 52.1490(c)(2).
020.055 | Injunctive Relief | 2/1/72 | 38 FR 12702 (5/14/73) | Submitted on 6/12/72. See 40 CFR 52.1490(c)(2).
020.055 | Confidential information | 1/24/79 (adopted) | 46 FR 43141 (8/27/81) | Submitted on 7/24/79. See 40 CFR 52.1490(c)(16)(ix).
020.060 | Interference with Performance of Duty | 2/1/72 | 38 FR 12702 (5/14/73) | Submitted on 6/12/72. See 40 CFR 52.1490(c)(2).
020.070 | Sampling and Testing | 2/1/72 | 38 FR 12702 (5/14/73) | Submitted on 6/12/72. See 40 CFR 52.1490(c)(2).
020.080 | Circumvention | 2/1/72 | 38 FR 12702 (5/14/73) | Submitted on 6/12/72. See 40 CFR 52.1490(c)(2).
020.085 | Upset, Breakdown or Scheduled Maintenance | 2/1/72 | 38 FR 12702 (5/14/73) | Submitted on 6/12/72. See 40 CFR 52.1490(c)(2).
020.090 | Registration of Sources | 2/1/72 | 38 FR 12702 (5/14/73) | Submitted on 6/12/72. See 40 CFR 52.1490(c)(2).
020.095 | Severability | 2/1/72 | 38 FR 12702 (5/14/73) | Submitted on 6/12/72. See 40 CFR 52.1490(c)(2).
SOURCE REGISTRATION AND OPERATION
030.000 | Sources—General | 5/23/79 (adopted) | 46 FR 21758 (4/14/81) | Submitted on 7/24/79. See 40 CFR 52.1490(c)(16)(iii).
030.005 | [Authority to Construct must be issued before any building permit] | 5/23/79 (adopted) | 46 FR 21758 (4/14/81) | Submitted on 7/24/79. See 40 CFR 52.1490(c)(16)(iii).
030.010 | [Limits on Issuance of Authorities to Construct] | 5/23/79 (adopted) | 46 FR 21758 (4/14/81) | Submitted on 7/24/79. See 40 CFR 52.1490(c)(16)(iii).
030.015 | [Public notice requirement for major sources] | 5/23/79 (adopted) | 46 FR 21758 (4/14/81) | Submitted on 7/24/79. See 40 CFR 52.1490(c)(16)(iii).
030.025 | Registration Application | 5/23/79 (adopted) | 46 FR 21758 (4/14/81) | Submitted on 7/24/79. See 40 CFR 52.1490(c)(16)(iii).
030.030 | [Limits on effect of acceptance of permit application or issuance of Authority to Construct] | 5/23/79 (adopted) | 46 FR 21758 (4/14/81) | Submitted on 7/24/79. See 40 CFR 52.1490(c)(16)(iii).
030.110 | [modifications] | 5/23/79 (adopted) | 46 FR 21758 (4/14/81) | Submitted on 7/24/79. See 40 CFR 52.1490(c)(16)(iii).
030.115(1), (5), and subsection (B) | [Additional requirements for major sources in general and specific additional requirements for major sources of nonattainment pollutants] | 5/23/79 (adopted) | 46 FR 21758 (4/14/81) | Submitted on 7/24/79. See 40 CFR 52.1490(c)(16)(iii).
030.120 | [Violations and Stop Work Orders] | 5/23/79 (adopted) | 46 FR 21758 (4/14/81) | Submitted on 7/24/79. See 40 CFR 52.1490(c)(16)(iii).
030.1201 | [Person served with Stop Work Order] | 5/23/79 (adopted) | 46 FR 21758 (4/14/81) | Submitted on 7/24/79. See 40 CFR 52.1490(c)(16)(iii).
030.205 | [Registration Requirement] | 5/23/79 (adopted) | 46 FR 21758 (4/14/81) | Submitted on 7/24/79. See 40 CFR 52.1490(c)(16)(iii).
030.210 | [Issuance of Permits to Operate] | 5/23/79 (adopted) | 46 FR 21758 (4/14/81) | Submitted on 7/24/79. See 40 CFR 52.1490(c)(16)(iii).
030.215 | [Limits on Meaning of Issuance of Permit to Operate] | 5/23/79 (adopted) | 46 FR 21758 (4/14/81) | Submitted on 7/24/79. See 40 CFR 52.1490(c)(16)(iii).
030.245 | [Permit to Operate is not transferable] | 5/23/79 (adopted) | 46 FR 21758 (4/14/81) | Submitted on 7/24/79. See 40 CFR 52.1490(c)(16)(iii).
030.250 | [Permit to Operate is subject to suspension or revocation for violation] | 5/23/79 (adopted) | 46 FR 21758 (4/14/81) | Submitted on 7/24/79. See 40 CFR 52.1490(c)(16)(iii).
030.300 | Fee and Fee Schedule | 5/23/79 (adopted) | 46 FR 43141 (8/27/81) | Submitted on 7/24/79. See 40 CFR 52.1490(c)(16)(ix).
030.305 | Plan Review Fees | 5/23/79 (adopted) | 46 FR 43141 (8/27/81) | Submitted on 7/24/79. See 40 CFR 52.1490(c)(16)(ix).
030.310 | [Permit to Operate—Schedule of Fees] | 5/23/79 (adopted) | 46 FR 43141 (8/27/81) | Submitted on 7/24/79. See 40 CFR 52.1490(c)(16)(ix).
030.3101 | Fuel burning equipment | 5/23/79 (adopted) | 46 FR 43141 (8/27/81) | Submitted on 7/24/79. See 40 CFR 52.1490(c)(16)(ix).
030.3102 | Incinerators | 5/23/79 (adopted) | 46 FR 43141 (8/27/81) | Submitted on 7/24/79. See 40 CFR 52.1490(c)(16)(ix).
030.3103 | Storage tanks | 5/23/79 (adopted) | 46 FR 43141 (8/27/81) | Submitted on 7/24/79. See 40 CFR 52.1490(c)(16)(ix).
030.3104 | Processes | 5/23/79 (adopted) | 46 FR 43141 (8/27/81) | Submitted on 7/24/79. See 40 CFR 52.1490(c)(16)(ix).
030.3105 | Hazardous materials processes | 5/23/79 (adopted) | 46 FR 43141 (8/27/81) | Submitted on 7/24/79. See 40 CFR 52.1490(c)(16)(ix).
030.3107 | [Fee for transfer] | 5/23/79 (adopted) | 46 FR 43141 (8/27/81) | Submitted on 7/24/79. See 40 CFR 52.1490(c)(16)(ix).
030.3108 | [Cost of replacement] | 5/23/79 (adopted) | 46 FR 43141 (8/27/81) | Submitted on 7/24/79. See 40 CFR 52.1490(c)(16)(ix).
PROHIBITED EMISSIONS
040.005 | Visible Air Contaminants | 2/23/06 | 72 FR 33397 (6/18/07) | Submitted on 5/5/06. See 40 CFR 52.1490(c)(63)(i)(A)(1).
040.010 | Particulate Matter | 2/1/72 | 38 FR 12702 (5/14/73) | Submitted on 6/12/72. See 40 CFR 52.1490(c)(2).
040.015 | Specific Contaminants | 2/1/72 | 38 FR 12702 (5/14/73) | Submitted on 6/12/72. See 40 CFR 52.1490(c)(2).
040.020 | Dust and Fumes | 2/1/72 | 38 FR 12702 (5/14/73) | Submitted on 6/12/72. See 40 CFR 52.1490(c)(2).
040.025 | Exceptions | 2/1/72 | 38 FR 12702 (5/14/73) | Submitted on 6/12/72. See 40 CFR 52.1490(c)(2).
040.030 | Dust Control | 11/1/02 | 72 FR 25969 (5/8/07) | Adopted on 7/26/02. Submitted on 8/5/02. See 40 CFR 52.1490(c)(55)(i)(A)(2).
040.031 | Street Sanding Operations | 2/27/02 | 71 FR 14386 (3/22/06) | Adopted on 2/27/02. Submitted on 8/5/02. See 40 CFR 52.1490(c)(55)(i)(A)(1).
040.032 | Street Sweeping Operations | 2/27/02 | 71 FR 14386 (3/22/06) | Adopted on 2/27/02. Submitted on 8/5/02. See 40 CFR 52.1490(c)(55)(i)(A)(1).
040.035 | Open Fires | 2/1/72 | 38 FR 12702 (5/14/73) | Submitted on 6/12/72. See 40 CFR 52.1490(c)(2).
040.040 | Burning Permit Conditions | 2/1/72 | 38 FR 12702 (5/14/73) | Submitted on 6/12/72. See 40 CFR 52.1490(c)(2).
040.045 | Refuse Disposal | 2/1/72 | 38 FR 12702 (5/14/73) | Submitted on 6/12/72. See 40 CFR 52.1490(c)(2).
040.050 | Incinerator Emissions | 2/1/72 | 38 FR 12702 (5/14/73) | Submitted on 6/12/72. See 40 CFR 52.1490(c)(2).
040.051 | Wood Stove/Fireplace Insert Emissions | 2/23/06 | 72 FR 33397 (6/18/07) | Submitted on 5/5/06. See 40 CFR 52.1490(c)(63)(i)(A)(1).
040.060 | Sulfur Content of Fuel | 2/1/72 | 38 FR 12702 (5/14/73) | Submitted on 6/12/72. See 40 CFR 52.1490(c)(2).
040.065 | Reduction of Animal Matter | 2/1/72 | 38 FR 12702 (5/14/73) | Submitted on 6/12/72. See 40 CFR 52.1490(c)(2).
040.070 | Storage of Petroleum Products | 1/24/79 (adopted) | 46 FR 21758 (4/14/81) | Submitted on 7/24/79. See 40 CFR 52.1490(c)(16)(iii).
040.075 | Gasoline Loading into Tank Trucks and Trailers | 1/24/79 (adopted) | 46 FR 21758 (4/14/81) | Submitted on 7/24/79. See 40 CFR 52.1490(c)(16)(iii).
040.080 | Gasoline Unloading from Tank Trucks and Trailers into Storage Tanks | 1/24/79 (adopted) | 46 FR 21758 (4/14/81) | Submitted on 7/24/79. See 40 CFR 52.1490(c)(16)(iii).
040.085 | Organic Solvents | 1/24/79 (adopted) | 46 FR 21758 (4/14/81) | Submitted on 7/24/79. See 40 CFR 52.1490(c)(16)(iii).
040.090 | Cut-Back Asphalts | 5/23/79 (adopted) | 46 FR 21758 (4/14/81) | Submitted on 7/24/79. See 40 CFR 52.1490(c)(16)(iii).
040.095 | Oxygen content of motor vehicle fuel | 9/22/05 | 73 FR 38124 (7/3/08) | See 40 CFR 52.1490(c)(69)(i)(A)(1).
[Related to 040.095] | Washoe County District Board of Health Meeting, September 22, 2005, Public Hearing—Amendments—Washoe County District Board of Health Regulations Governing Air Quality Management; to Wit: Rule 040.095 (Oxygen Content of Motor Vehicle Fuel) | 9/22/05 | 73 FR 38124 (7/3/08) | See 52.1490(c)(69)(i)(A)(1)(i).
EMERGENCY EPISODE PLAN
050.001 | Emergency Episode Plan | 3/23/06 | 72 FR 33397 (6/18/07) | Submitted on 5/5/06. See 40 CFR 52.1490(c)(63)(i)(A)(1).
060.010 | Emergency Authority to Act | 2/1/72 | 38 FR 12702 (5/14/73) | Submitted on June 12, 1972. See 40 CFR 52.1490(c)(2).
060.015 | Sampling Stations and Air Sampling | 2/1/72 | 38 FR 12702 (5/14/73) | Submitted on June 12, 1972. See 40 CFR 52.1490(c)(2).
060.020 | Reports | 2/1/72 | 38 FR 12702 (5/14/73) | Submitted on June 12, 1972. See 40 CFR 52.1490(c)(2).
060.025 | Continuing Program of Voluntary Cooperation | 2/1/72 | 38 FR 12702 (5/14/73) | Submitted on June 12, 1972. See 40 CFR 52.1490(c)(2).

(d) EPA-approved State source-specific permits.

[Reserved.]

(e) EPA-approved Nevada nonregulatory provisions and quasi-regulatory measures.

EPA-Approved Nevada Nonregulatory Provisions and Quasi-Regulatory Measures
Name of SIP provision | Applicable geographic or nonattainment area | State submittal date | EPA approval date | Explanation
AIR QUALITY IMPLEMENTATION PLAN FOR THE STATE OF NEVADA¹
Section 1—Legal authority | State-wide | 1/28/72 | 37 FR 10842 (5/31/72) | See 40 CFR 52.1490(b). Statutes approved into the SIP are listed at the end of this table.
Legal opinions concerning the plan | State-wide | 11/17/72 | 38 FR 12702 (5/14/73). | See 40 CFR 52.1490(c)(4).
Section 2—Control regulations | State-wide, Clark County and Washoe County air districts, and certain city and county jurisdictions | (*) | Not applicable | See paragraph (c) of 40 CFR 52.1470, above.
Section 3—Air quality data summary (excluding subsection 3.2) | State-wide | 1/28/72 | 37 FR 10842 (5/31/72) | See 40 CFR 52.1490(b). An amended subsection 3.2 was submitted on 12/10/76 and approved at 43 FR 26932 (8/21/78).
Subsection 3.2 (SO2 Data) | State-wide | 12/10/76 | 43 FR 26932 (8/21/78) | Superseded subsection 3.2 from the original SIP. See 40 CFR 52.1490(c)(12).
Section 4—Emissions summary (excluding subsection 4.2) | State-wide | 1/28/72 | 37 FR 10842 (5/31/72) | See 40 CFR 52.1490(b). An amended subsection 4.2 was submitted on 12/10/76 and approved at 43 FR 26932 (8/21/78).
Subsection 4.2 (Exceptions) | State-wide | 12/10/76 | 43 FR 26932 (8/21/78) | Superseded subsection 4.2 from the original SIP. See 40 CFR 52.1490(c)(12).
Section 5—Control strategy (excluding subsection 5.1 and table 5.1) | State-wide | 1/28/72 | 37 FR 10842 (5/31/72) | See 40 CFR 52.1490(b). Errata sheet correcting page 5-21 was submitted by Nevada on 4/26/72 and approved with the original SIP on 1/28/72. See 40 CFR 52.1490(c)(1). Subsection 5.1 and table 5.1 was superseded by amended provisions at 43 FR 26932 (8/21/78).
Subsection 5.1 (Approach) | State-wide | 12/10/76 | 43 FR 26932 (8/21/78) | Superseded subsection 5.1 from the original SIP. See 40 CFR 52.1490(c)(12).
Table 5.1 (Classification of regions) | State-wide | 12/10/76 | 43 FR 26932 (8/21/78) | Superseded table 5.1 from the original SIP. See 40 CFR 52.1490(c)(12).
Table 5.2 (Set 1 Pollutants) | Clark County | 12/10/76 | 43 FR 26932 (8/21/78) | Specifies SO2 control strategy analysis for Clark County. See 40 CFR 52.1490(c)(12).
Nevada State Implementation Plan for Interstate Transport to Satisfy the Requirements of Clean Air Act 110(a)(2)(D)(i) for the 8-hour Ozone and PM2.5 NAAQS Promulgated in July 1997 (January 31, 2007) | State-wide | 2/5/07 | 72 FR 41629 (7/31/07) | See 40 CFR 52.1490(c)(64)(i)(A)(1).
Mason Valley #108 (Yerington) and Fernley Area #76 Air Quality Implementation Plan | Mason Valley and Fernley Area | 12/29/78 | 46 FR 21758 (4/14/81) | TSP nonattainment plan. See 40 CFR 52.1490(c)(14)(iii). TSP plan was approved with conditions, but conditions were revoked at 47 FR 15790 (4/13/82).
Letter from Michael L. Eckstein, P.E., Lyon County Engineer, 2/27/79 | Yerington and Fernley | 7/24/79 | 46 FR 21758 (4/14/81) | Relates to paving schedule to reduce TSP emissions. See 40 CFR 52.1490(c)(16)(iv).
Lander County Air Quality Improvement Plan | Lander County | 12/29/78 | 46 FR 21758 (4/14/81) | TSP nonattainment plan. See 40 CFR 52.1490(c)(14)(iii). TSP plan was approved with conditions, but conditions were revoked at 47 FR 15790 (4/13/82).
Resolution, County of Lander, May 3, 1979 | Lander County | 7/24/79 | 46 FR 21758 (4/14/81) | See 40 CFR 52.1490(c)(16)(iv).
Carson Desert (#101 (Fallon) Air Quality Implementation Plan | Carson Desert | 12/29/78 | 46 FR 21758 (4/14/81) | TSP nonattainment plan. See 40 CFR 52.1490(c)(14)(iii). TSP plan was approved with conditions, but conditions were revoked at 47 FR 15790 (4/13/82).
Letter from Ben T. Bartlett, P.E., City Engineer, City of Fallon, 12/20/78 | City of Fallon | 7/24/79 | 46 FR 21758 (4/14/81) | Relates to paving schedule to reduce TSP emissions. See 40 CFR 52.1490(c)(16)(iv).
Winnemucca Segment (#70) Air Quality Implementation Plan | Winnemucca Segment | 12/29/78 | 46 FR 21758 (4/14/81) | TSP nonattainment plan. See 40 CFR 52.1490(c)(14)(iii). TSP plan was approved with conditions, but conditions were revoked at 47 FR 15790 (4/13/82).
Letter from Leslie F. Harmon, Councilman, City of Winnemucca, 11/11/79 | City of Winnemucca | 7/24/79 | 46 FR 21758 (4/14/81) | Relates to paving schedule to reduce TSP emissions. See 40 CFR 52.1490(c)(16)(iv).
Redesignation Request and Maintenance Plan for the National Sulfur Dioxide Standard—Central Steptoe Valley | Central Steptoe Valley, White Pine County | 2/14/95 | 67 FR 17939 (4/12/02) | Sulfur dioxide redesignation request and maintenance plan. See 40 CFR 52.1490(c)(39)(i)(A).
Supplement to Maintenance Plan for the National Sulfur Dioxide Standard—Central Steptoe Valley | Central Steptoe Valley, White Pine County | 2/27/02 | 67 FR 17939 (4/12/02) | Supplement consists of a letter from Allen Biaggi, Administrator, NDEP, to Wayne Nastri, EPA Region IX Regional Administrator, dated 2/27/02. See 40 CFR 52.1490(c)(40)(i)(A).
Las Vegas Valley Air Quality Implementation Plan, 12/5/78 | Las Vegas Valley, Clark County | 12/29/78 | 46 FR 21758 (4/14/81) | Carbon monoxide, photochemical oxidant, and TSP nonattainment plan. See 40 CFR 52.1490(c)(14)(iii). The plan was approved with conditions, but conditions were revoked at 47 FR 15790 (4/13/82).
Two memoranda of understanding between Clark County, the Health District, and the Transportation Policy Committee | Las Vegas Valley, Clark County | 7/24/79 | 46 FR 21758 (4/14/81) | Amendments to the Las Vegas Valley Air Quality Implementation Plan, 12/5/78. See 40 CFR 52.1490(c)(16)(v).
Air Quality Implementation Plan, Las Vegas Valley, Clark County, Nevada, Revised 11/18/80 (excluding Clark County Air Pollution Control Regulations) | Las Vegas Valley, Clark County | 4/4/81 | 47 FR 15790 (4/13/82) | Updates Las Vegas Valley Air Quality Implementation Plan, 12/5/78, for carbon monoxide, ozone and TSP to respond to conditions placed on approval. See 40 CFR 52.1490(c)(23)(i). Clark County air pollution control regulations were included as appendix C to the plan but were not approved as part of the plan.
Air Quality Implementation Plan, Las Vegas Valley, Clark County, Nevada, Update, 6/1/82 | Las Vegas Valley, Clark County | 6/23/82 | 49 FR 44208 (11/5/84) | Submitted as required in response to EPA's approval of request for extension of CO attainment date to 1987. See 40 CFR 52.1490(c)(32).
Air Quality Implementation Plan, Las Vegas Valley, Clark County, Nevada, Post 1982 Update, July 1984 | Las Vegas Valley, Clark County | 1/11/85 | 51 FR 29923 (8/21/86) | Submitted as required in response to EPA's approval of request for extension of ozone attainment date to 1987. In addition to the plan itself, the approval includes an emissions inventory for 1995, transmitted by letter dated 3/14/86. See 40 CFR 52.1490(c)(33)(i)(A).
Emissions Inventory for 1995 | Las Vegas Valley, Clark County | 3/14/86 | 51 FR 29923 (8/21/86) | Supplements the Air Quality Implementation Plan, Las Vegas Valley, Clark County, Nevada, Post 1982 Update, 7/84. See 40 CFR 52.1490(c)(33)(ii)(A).
PM-10 State Implementation Plan for Clark County, June 2001 | Las Vegas Valley, Clark County | 7/23/01 | 69 FR 32273 (6/9/04) | Adopted 6/19/01. PM-10 nonattainment plan. Approval covers chapter 3, chapter 4 (excluding pages 4-125 and 4-126), chapters 5 through 7, appendices A through E, appendix J, and appendices L through N. All rules and regulations approved in appendix G have been superseded by subsequent EPA approvals of amended regulations. See 40 CFR 52.1490(c)(42)(i)(A)(1).
Pages 4-125 and 4-126 and appendix R (of the PM-10 State Implementation Plan for Clark County) | Las Vegas Valley, Clark County | 11/19/02 | 69 FR 32273 (6/9/04) | Replacement pages and an additional appendix (i.e., Appendix R—Documentation on Residential Wood Combustion Control Measures”) to the PM-10 State Implementation Plan for Clark County. See 40 CFR 52.1490(c)(44)(i)(A)(1).
State of Nevada State Implementation Plan for an Enhanced Program for the Inspection and Maintenance of Motor Vehicles for Las Vegas Valley and Boulder City, Nevada, revised March 1996 | Portions of Clark County | 3/20/96 | 69 FR 56351 (9/21/04) | I/M SIP. Approval includes the cover page through page 15, appendix 1 (only the Nevada attorney general's opinion and memorandum dated 11/15/93 and 6/29/94, respectively), and appendices 2 and 9. See 40 CFR 52.1490(c)(46)(i)(A)(1).
NV2000 Analyzer Electronic Data Transmission Equipment Specifications (June 15, 2000) | Parts of Clark County | 1/30/02 | 69 FR 56351 (9/21/04) | Included in approval of I/M program for Las Vegas Valley and Boulder City. See 40 CFR 52.1490(c)(48)(ii)(A)(1).
Contract between Nevada Department of Motor Vehicles and MD LaserTech for on-road testing services, dated January 15, 2002 | Parts of Clark County | 6/4/02 | 69 FR 56351 (9/21/04) | Included in approval of I/M program for Las Vegas Valley and Boulder City. See 40 CFR 52.1490(c)(49)(ii)(A)(1).
Carbon Monoxide State Implementation Plan, Las Vegas Valley Nonattainment Area, Clark County, Nevada, August 2000 | Las Vegas Valley, Clark County | 8/9/00 | 69 FR 56351 (9/21/04) | CO nonattainment plan. Adopted on 8/1/00. Approval includes the following sections within which certain exceptions are noted but excluding all sections not specifically cited: chapters 1 through 8 (with the exception of chapter 7, subsection 7.2.2, “Contingency Measures”); appendix A, “Emissions Inventory”, sections 1 through 7, and section 8-“Annexes” (with the exception of appendix E, “Quality Assurance/Quality Control”); appendix B, “Transportation Documentation”, section 1; appendix D, “Regulations, Policies and Public Participation Documentation”, section 1-“Cleaner Burning Gasoline (CBG) Regulations and Supporting Documentation” (with the exception of District Board of Health of Clark County Air Pollution Control Regulations section 54 as adopted on April 22, 1999), section 2, section 3, section 4-“Nevada Administrative Code, Chapter 445B: Technician Training and Licensing” (with the exception of NAC 445B.485-445B.487, 445B.489-445B.493, and 445B.495-445B.498), and sections 5 through 9; and appendix E, “Supplemental Technical Support Documentation”, sections 1 through 4, and 7. See 40 CFR 52.1490(c)(47)(i)(A)(1).
Carbon Monoxide State Implementation Plan Revision, Las Vegas Valley Nonattainment Area, Clark County, Nevada, October 2005 | Las Vegas Valley, Clark County | 2/14/06 | 71 FR 44587 (8/7/06) | Update to 2000 CO nonattainment plan. Adopted by Clark County on 10/4/05. Approval did not include section 7.3 (page 7-2), “Mobile Source Emissions Budget”). See 40 CFR 52.1490(c)(57)(i)(A)(1).
Section 7.3 (page 7-2), “Mobile Source Emissions Budget”) of the Carbon Monoxide State Implementation Plan Revision, Las Vegas Valley Nonattainment Area, Clark County, Nevada | Las Vegas Valley, Clark County | 5/12/06 | 71 FR 44587 (8/7/06) | Replacement section for 2005 CO Plan. Adopted by Clark County on 5/2/06. See 40 CFR 52.1490(c)(58)(i)(A)(1).
Carbon Monoxide Redesignation Request and Maintenance Plan, Las Vegas Valley Nonattainment Area, Clark County, Nevada (September 2008), excluding the appendices | Las Vegas Valley, Clark County | 9/18/08 | 75 FR 59090 (9/27/10) | See 40 CFR 52.1490(c)(73)(ii)(B).
Resolution of the Clark County Board of Commissioners Adopting the Clark County Carbon Monoxide Redesignation Request and Maintenance Plan, adopted by the Clark County Board of Commissioners on September 2, 2008 | Las Vegas Valley, Clark County | 9/18/08 | 75 FR 59090 (9/27/10) | See 40 CFR 52.1490(c)(73)(ii)(A).
Letter from Anthony Lesperance, Director, Nevada Department of Agriculture, to Lewis Wallenmeyer, Director, Clark County Department of Air Quality and Environmental Management, dated June 22, 2010 | Las Vegas Valley, Clark County | 8/30/10 | 75 FR 59090 (9/27/10) | See 40 CFR 52.1490(c)(75). Letter sets forth the Nevada Department of Agriculture's commitment to seek reinstatement of the Low RVP wintertime gasoline requirement in Clark County if necessary under the Las Vegas Valley Carbon Monoxide Maintenance Plan to address future carbon monoxide violations.
Clark County Transportation Conformity Plan (January 2008) | Portions of Clark County | 4/1/08 | 73 FR 66182 (11/7/08) | 40 CFR 52.1490(c)(72)(i)(A).
Correspondence dated March 6, 2007 from the Nevada Department of Motor Vehicles to the Nevada Division of Environmental Protection | Portions of Clark County and Washoe County | 5/11/07 | 73 FR 38124 (7/3/08) | The letter describes an upgrade to the NV2000 emission analyzer to make emissions testing possible on motor vehicles containing a certified on-board diagnostic system which uses controller area network communication. See 40 CFR 52.1490(c)(71)(ii)(A)(1).
Truckee Meadows Air Quality Implementation Plan, 12/6/78 | Truckee Meadows, Washoe County | 12/29/78 | 46 FR 21758 (4/14/81) | Carbon monoxide, photochemical oxidant, and TSP nonattainment plan. See 40 CFR 52.1490(c)(14)(iii). The plan was approved with conditions, but conditions were revoked at 47 FR 15790 (4/13/82).
Request for Extension of the CO Attainment Date for the Truckee Meadows CO Nonattainment Area | Truckee Meadows, Washoe County | 8/19/80 | 46 FR 45605 (9/14/81) | See 40 CFR 52.1490(c)(20).
Resolution of the Washoe Council of Governments adopted 8/28/81 and Endorsement of the State Environmental Commission dated 10/15/81 | Truckee Meadows, Washoe County | 11/17/81 | 47 FR 15790 (4/13/82) | Commitments satisfy a condition placed on approval of the 1978 Truckee Meadows Air Quality Implementation Plan. See 40 CFR 52.1490(c)(24)(ii).
Truckee Meadows Air Quality Implementation Plan (AQIP), 1982 Update (Revised) | Truckee Meadows, Washoe County | 9/14/83 | 49 FR 31683 (8/8/84) | CO nonattainment plan. Attainment and RFP demonstrations and the Legally Enforceable Measures portions of the plan were not included in the approval. See 40 CFR 52.1490(c)(26)(ii).
Maintenance Plan for the Washoe County 8-Hour Ozone Attainment Area (April 2007), excluding appendices | Washoe County | 5/30/07 | 73 FR 3389 (1/18/08) | CAA section 110(a)(1) maintenance plan. See 40 CFR 52.1490(c)(65)(i)(A)(1).
Redesignation Request and Maintenance Plan for the Truckee Meadows Carbon Monoxide Non-Attainment Area (September 2005), excluding appendices B, C, and D | Truckee Meadows, Washoe County | 11/4/05 | 73 FR 38124 (7/3/08) | See 40 CFR 52.1490(c)(69)(i)(A)(2).
Basic I/M Performance Standard | Portions of Washoe County | 11/2/06 | 73 FR 38124 (7/3/08) | See 40 CFR 52.1490(c)(70)(i)(A)(1) and (c)(70)(ii)(A)(1).
Washoe County District Board of Health Meeting, September 28, 2006, Public Hearing-State Implementation Plan (SIP) | Portions of Washoe County | 11/2/06 | 73 FR 38124 (7/3/08) | See 40 CFR 52.1490(c)(70)(i)(A)(1)(i). “Basic Program-Inspection and Maintenance (I/M) of Motor Vehicles—Truckee Meadows Planning Area, Nevada;” to Wit: Basic Inspection and Maintenance (I/M) Performance Standard.
State Implementation Plan for a Basic Program for the Inspection and Maintenance of Motor Vehicles for the Truckee Meadows Planning Area, Nevada (June 1994), including the cover page through page 9, appendix 1, appendix 2 (only the certificate of compliance and Nevada attorney general's opinion), and appendices 3, 6, 8, and 10 | Portions of Washoe County | 6/3/94 | 73 FR 38124 (7/3/08) | See 40 CFR 52.1490(c)(68).
Lake Tahoe Basin Nonattainment Area Plan | Nevada portion of Lake Tahoe Basin—portions of Carson City, Douglas and Washoe counties | 7/24/79 | 47 FR 27065 (6/23/82) | Carbon monoxide nonattainment plan. Also, includes elements related to photochemical oxidant. See 40 CFR 52.1490(c)(16)(vii). The plan was approved with conditions, but conditions were revoked at 49 FR 6897 (2/24/84).
Amendments to the Lake Tahoe Basin Nonattainment Area Plan | Nevada portion of Lake Tahoe Basin—portions of Carson City, Douglas and Washoe counties | 12/9/82 | 49 FR 6897 (2/24/84) | Submitted in response to conditions placed on approval of 1979 Lake Tahoe Plan. Amendments include: (i) Emission reduction estimates and/or changes in vehicular activity for the adopted control measures; (ii) A modeling analysis indicating 1982 attainment; (iii) Documentation of the modeling analysis including air quality, traffic and meteorological data; (iv) Evidence of implementation and/or future commitments for the adopted control measures; and (v) Appendix of previous reports, measured data and other official correspondence including: (A) Resource commitments from the responsible agencies for implementing the RFP, (B) 1979 and 1980 Annual Reports for the Lake Tahoe Air Basin, and (C) 1981 Nevada Air Quality Report. See 40 CFR 52.1490(c)(27).
Amendments to the Lake Tahoe Basin Nonattainment Area Plan | Nevada portion of Lake Tahoe Basin—portions of Carson City, Douglas and Washoe counties | 12/16/82 | 49 FR 6897 (2/24/84) | Submitted in response to conditions placed on approval of 1979 Lake Tahoe Plan. Amendments include: (i) Additional evidence of commitment to the control evidence by the responsible state and/or local agencies; and (ii) Additional supporting documentation for the 1982 attainment modeling analysis which included revised technical data on measured and modeled CO traffic volumes, and a revised narrative on the calibration constant and the impacts to the model. See 40 CFR 52.1490(c)(28).
Amendments to the Lake Tahoe Basin Nonattainment Area Plan | Nevada portion of Lake Tahoe Basin—portions of Carson City, Douglas and Washoe counties | 1/28/83 | 49 FR 6897 (2/24/84) | Submitted in response to conditions placed on approval of 1979 Lake Tahoe Plan. Amendments include: (i) Response to EPA's preliminary evaluation, specifying documentation for calibrating the model, the mobile source emission factors, and additional traffic data; (ii) Conversion factors for the model; and (iii) A revised 1982 attainment modeling analysis and supporting documentation including: (A) 1979, 1980-82 traffic data for the Stateline Area, (Appendix A); (B) Stateline Cold Start/Hot Start Analysis, (Appendix B); (C) Portions of the Highway 50 Corridor Study, June 1979 (Appendix C); (D) Reference from Transportation and Traffic Engineering Handbook, (1979), (Appendix D); and (E) Revised Caline 3 and Mobile 2 modeling analysis using both 27% and 50% cold start factors, (Appendix E). See 40 CFR 52.1490(c)(29).
Amendments to the Lake Tahoe Basin Nonattainment Area Plan | Nevada portion of Lake Tahoe Basin—portions of Carson City, Douglas and Washoe counties | 5/5/83 | 49 FR 6897 (2/24/84) | Submitted in response to conditions placed on approval of 1979 Lake Tahoe Plan. Amendments include: (i) “Stateline, Nevada, 1983 Carbon Monoxide Study“—a traffic, ambient air monitoring and predictive modeling report; and (ii) A revised analysis of the Caline 3 model verifying 1982 attainment, based on data collected in February and March 1983. See 40 CFR 52.1490(c)(30).
Carbon Monoxide Redesignation Request and Limited Maintenance Plan for the Nevada Side of the Lake Tahoe Basin, October 2003 | Nevada portion of Lake Tahoe Basin—portions of Carson City, Douglas and Washoe counties | 10/27/03 | 68 FR 69611 (12/15/03) | Adopted on 9/18/03. See 40 CFR 52.1490(c)(45)(i)(A)(1). Approval includes: (1) Attainment year (2001) emissions inventory, monitoring network and verification of continued attainment, and contingency plan, including commitments to follow maintenance plan contingency procedures by the Nevada Division of Environmental Protection, the Tahoe Metropolitan Planning Organization, the Nevada Department of Transportation, and the Washoe County District Health Department.
Transmittal Letter for the Carbon Monoxide Redesignation Request and Limited Maintenance Plan for the Nevada Side of the Lake Tahoe Basin, October 2003 | Nevada portion of Lake Tahoe Basin—portions of Carson City, Douglas and Washoe counties | 10/27/03 | 68 FR 69611 (12/15/03) | See 40 CFR 52.1490(c)(45)(i)(B). Includes a State commitment to track CO concentrations and to adopt, submit as a SIP revision, and implement expeditiously any and all measures to achieve the level of CO emissions reductions needed to maintain the CO NAAQS in the event that an exceedance of the CO NAAQS is monitored, and to work with the involved jurisdictions to ensure that sufficient measures are adopted and implemented in a timely fashion to prevent a violation.
Addendum to the October 27, 2003 letter of transmittal of the redesignation request and maintenance plan | Nevada portion of Lake Tahoe Basin—portions of Carson City, Douglas and Washoe counties | 10/27/03 | 68 FR 69611 (12/15/03) | See 40 CFR 52.1490(c)(45)(i)(C). Includes emissions projections for on-road motor vehicles through 2016.
Section 6—Emergency episode plan (excluding subsections 6.1.4, 6.5.2.2; tables 6.1, 6.2 and 6.3; Air Pollution Episode Notice and; Episode Communication Checklist) | State-wide | 1/28/72 | 37 FR 10842 (5/31/72) | See 40 CFR 52.1490(b). Subsections 6.1.4, 6.5.2.2; tables 6.1, 6.2 and 6.3; Air Pollution Episode Notice and; Episode Communication Checklist from the original SIP were superseded by amended provisions approved at 45 FR 46384 (7/10/80).
Subsections 6.1.4 (Emergency Episode Criteria) and 6.5.2.2 (Episode Actions); table 6.1 (Episode stage definitions), table 6.2 (Stage 1 episode, Stage 2 episode, and Stage 3 episode), and table 6.3 (Source list); Air Pollution Episode Notice and; Episode Communication Checklist | State-wide | 12/29/78 | 45 FR 46384 (7/10/80) | Amends provisions from original SIP. See 40 CFR 52.1490(c)(14)(i).
Section 7—Compliance schedule | State-wide | 1/28/72 | 37 FR 10842 (5/31/72) | See 40 CFR 52.1490(b).
Section 8—Source surveillance | State-wide | 1/28/72 | 37 FR 10842 (5/31/72) | See 40 CFR 52.1490(b).
Section 9—Review of new sources and modifications | State-wide | 1/28/72 | 37 FR 10842 (5/31/72) | See 40 CFR 52.1490(b).
Section 10—State of Nevada Ambient Air Quality Monitoring and Surveillance | State-wide | 6/24/80 | 46 FR 40512 (8/10/81) | See 40 CFR 52.1490(c)(19)(i).
Section 11—Intergovernmental relations | State-wide | 1/28/72 | 37 FR 10842 (5/31/72) | See 40 CFR 52.1490(b).
Section 12—Resources | State-wide | 1/28/72 | 37 FR 10842 (5/31/72) | See 40 CFR 52.1490(b).
State Implementation Plan Revision for Lead | State-wide | 11/17/81 | 48 FR 6105 (2/10/83) | Lead (Pb) SIP. See 40 CFR 52.1490(c)(24)(v).
State Implementation Plan Revision for Ambient Lead in Las Vegas Valley, Clark County, Nevada, 2/11/80 | Las Vegas Valley, Clark County | 6/24/80 | 47 FR 28374 (6/30/82) | Lead (Pb) SIP. See 40 CFR 52.1490(c)(19)(iii).
Adopted Lead Implementation Plan for the Truckee Meadows Basin, 4/26/84 | Truckee Meadows, Washoe County | 5/30/84 | 49 FR 26736 (6/29/84) | Lead (Pb) SIP. See 40 CFR 52.1490(c)(31)(i).
Small Business Stationary Source Technical and Environmental Compliance Assistance Program | State-wide | 6/28/94 | 61 FR 4901 (2/9/96) | See 40 CFR 52.1490(c)(34)(i)(A).
Small Business Stationary Source Technical and Environmental Compliance Assistance Program | State-wide | 7/5/95 | 61 FR 4901 (2/9/96) | See 40 CFR 52.1490(c)(35)(i)(A).
Nevada Revised Statutes, Title 0, Preliminary Chapter—General Provisions
0.039 | “Person” defined | 3/24/06 | 71 FR 51766 (08/31/06) | See 40 CFR 52.1490(c)(59)(i)(A)(1).
Nevada Revised Statutes, Title 32, Revenue and Taxation, Chapter 365, Taxes on Certain Fuels for Motor Vehicles and Aircraft
365.060 | “Motor vehicle fuel” defined | 5/11/07 | 73 FR 38124 (7/3/08) | Nevada Revised Statutes (2005). See 40 CFR 52.1490(c)(71)(i)(A)(1).
Nevada Revised Statutes, Title 32, Revenue and Taxation, Chapter 366, Tax on Special Fuel
366.060 | “Special fuel” defined | 5/11/07 | 73 FR 38124 (7/3/08) | Nevada Revised Statutes (2005). See 40 CFR 52.1490(c)(71)(i)(A)(1).
Nevada Revised Statutes, Title 40, Public Health and Safety, Air Pollution: General Provisions
445B.105 | Definitions | 1/12/06 | 71 FR 51766 (8/31/06) | Nevada Revised Statutes (2003). See 40 CFR 52.1490(c)(56)(i)(A)(4).
445B.110 | “Air contaminant” defined | 1/12/06 | 71 FR 51766 (8/31/06) | Nevada Revised Statutes (2003). See 40 CFR 52.1490(c)(56)(i)(A)(4).
445B.115 | “Air pollution” defined | 1/12/06 | 71 FR 51766 (8/31/06) | Nevada Revised Statutes (2003). See 40 CFR 52.1490(c)(56)(i)(A)(4).
445B.120 | “Commission” defined | 1/12/06 | 71 FR 51766 (8/31/06) | Nevada Revised Statutes (2003). See 40 CFR 52.1490(c)(56)(i)(A)(4).
445B.125 | “Department” defined | 1/12/06 | 71 FR 51766 (8/31/06) | Nevada Revised Statutes (2003). See 40 CFR 52.1490(c)(56)(i)(A)(4).
445B.130 | “Director” defined | 1/12/06 | 71 FR 51766 (8/31/06) | Nevada Revised Statutes (2003). See 40 CFR 52.1490(c)(56)(i)(A)(4).
445B.135 | “Federal Act” defined | 1/12/06 | 71 FR 51766 (8/31/06) | Nevada Revised Statutes (2003). See 40 CFR 52.1490(c)(56)(i)(A)(4).
445B.140 | “Hazardous air pollutant” defined | 1/12/06 | 71 FR 51766 (8/31/06) | Nevada Revised Statutes (2003). See 40 CFR 52.1490(c)(56)(i)(A)(4).
445B.145 | “Operating permit” defined | 1/12/06 | 71 FR 51766 (8/31/06) | Nevada Revised Statutes (2003). See 40 CFR 52.1490(c)(56)(i)(A)(4).
445B.150 | “Person” defined | 1/12/06 | 71 FR 51766 (8/31/06) | Nevada Revised Statutes (2003). See 40 CFR 52.1490(c)(56)(i)(A)(4).
445B.155 | “Source” and “indirect source” defined | 1/12/06 | 71 FR 51766 (8/31/06) | Nevada Revised Statutes (2003). See 40 CFR 52.1490(c)(56)(i)(A)(4).
Nevada Revised Statutes, Title 40, Public Health and Safety, Air Pollution: State Environmental Commission
445B.200 | Creation and composition; chairman; quorum; compensation of members and employees; disqualification; technical support | 1/12/06 | 72 FR 11 (01/03/07) | Nevada Revised Statutes (2003). See 40 CFR 52.1490(c)(56)(i)(A)(8).
445B.205 | Department designated as State Air Pollution Control Agency | 1/12/06 | 72 FR 11 (01/03/07) | Nevada Revised Statutes (2003). See 40 CFR 52.1490(c)(56)(i)(A)(8).
445B.210 | Powers of commission | 5/11/07 | 73 FR 38124 (7/3/08) | Nevada Revised Statutes (2005). See 40 CFR 52.1490(c)(71)(i)(A)(1).
445B.220 | Additional powers of commission | 1/12/06 | 71 FR 51766 (8/31/06) | Nevada Revised Statutes (2003). See 40 CFR 52.1490(c)(56)(i)(A)(4).
445B.225 | Power of commission to require testing of sources | 1/12/06 | 71 FR 51766 (8/31/06) | Nevada Revised Statutes (2003). See 40 CFR 52.1490(c)(56)(i)(A)(4).
445B.230 | Powers and duties of department | 1/12/06 | 72 FR 11 (01/03/07) | Nevada Revised Statutes (2003). See 40 CFR 52.1490(c)(56)(i)(A)(8).
445B.235 | Additional powers of department | 1/12/06 | 71 FR 51766 (8/31/06) | Nevada Revised Statutes (2003). See 40 CFR 52.1490(c)(56)(i)(A)(4).
445B.240 | Power of representatives of department to enter and inspect premises | 1/12/06 | 72 FR 11 (01/03/07) | Nevada Revised Statutes (2003). See 40 CFR 52.1490(c)(56)(i)(A)(8).
445B.245 | Power of department to perform or require test of emissions from stacks | 1/12/06 | 71 FR 51766 (8/31/06) | Nevada Revised Statutes (2003). See 40 CFR 52.1490(c)(56)(i)(A)(4).
Nevada Revised Statutes, Title 40, Public Health and Safety, Air Pollution: Local Hearing Board
445B.275 | Creation; members; terms | 1/12/06 | 71 FR 51766 (8/31/06) | Nevada Revised Statutes (2003). See 40 CFR 52.1490(c)(56)(i)(A)(4).
445B.280 | Attendance of witnesses at hearing; contempt; compensation | 1/12/06 | 71 FR 51766 (8/31/06) | Nevada Revised Statutes (2003). See 40 CFR 52.1490(c)(56)(i)(A)(4).
Nevada Revised Statutes, Title 40, Public Health and Safety, Chapter 445B, Air Pollution: Provisions for Enforcement
445B.300 | Operating permit for source of air contaminant; notice and approval of proposed construction; administrative fees; failure of commission or department to act | 1/12/06 | 71 FR 51766 (8/31/06) | Nevada Revised Statutes (2003). See 40 CFR 52.1490(c)(56)(i)(A)(4).
445B.310 | Limitations on enforcement of federal and state regulations concerning indirect sources | 6/26/07 | 74 FR 15219 (4/3/09) | Nevada Revised Statutes (2003). See 40 CFR 52.1470(c)(66)(i)(A)(4).
445B.320 | Approval of plans and specifications required before construction or alteration of structure | 1/12/06 | 71 FR 51766 (8/31/06) | Nevada Revised Statutes (2003). See 40 CFR 52.1490(c)(56)(i)(A)(4).
445B.340 | Appeals to commission: notice of appeal | 1/12/06 | 72 FR 11 (01/03/07) | Nevada Revised Statutes (2003). See 40 CFR 52.1490(c)(56)(i)(A)(8).
445B.350 | Appeals to commission: hearings | 1/12/06 | 72 FR 11 (01/03/07) | Nevada Revised Statutes (2003). See 40 CFR 52.1490(c)(56)(i)(A)(8).
445B.360 | Appeals to commission: appealable matters; action by commission; regulations | 1/12/06 | 72 FR 11 (01/03/07) | Nevada Revised Statutes (2003). See 40 CFR 52.1490(c)(56)(i)(A)(8).
Nevada Revised Statutes, Title 40, Public Health and Safety, Air Pollution: Violations
445B.450 | Notice and order by director; hearing; alternative procedures | 1/12/06 | 72 FR 11 (01/03/07) | Nevada Revised Statutes (2003). See 40 CFR 52.1490(c)(56)(i)(A)(8).
445B.460 | Injunctive relief | 1/12/06 | 72 FR 11 (01/03/07) | Nevada Revised Statutes (2003). See 40 CFR 52.1490(c)(56)(i)(A)(8).
Nevada Revised Statutes, Title 40, Public Health and Safety, Air Pollution: Program for Control of Air Pollution
445B.500 | Establishment and administration of program; contents of program; designation of air pollution control agency of county for purposes of federal act; powers and duties of local air pollution control board; notice of public hearings; delegation of authority to determine violations and levy administrative penalties; cities and smaller counties; regulation of certain electric plants prohibited | 1/12/06 | 71 FR 51766 (8/31/06) | Nevada Revised Statutes (2003). See 40 CFR 52.1490(c)(56)(i)(A)(4).
445B.510 | Commission may require program for designated area | 1/12/06 | 71 FR 51766 (8/31/06) | Nevada Revised Statutes (2003). See 40 CFR 52.1490(c)(56)(i)(A)(4).
445B.520 | Commission may establish or supersede county program | 1/12/06 | 71 FR 51766 (8/31/06) | Nevada Revised Statutes (2003). See 40 CFR 52.1490(c)(56)(i)(A)(4).
445B.530 | Commission may assume jurisdiction over specific classes of air contaminants | 1/12/06 | 71 FR 51766 (8/31/06) | Nevada Revised Statutes (2003). See 40 CFR 52.1490(c)(56)(i)(A)(4).
445B.540 | Restoration of superseded local program; continuation of existing local program | 1/12/06 | 71 FR 51766 (8/31/06) | Nevada Revised Statutes (2003). See 40 CFR 52.1490(c)(56)(i)(A)(4).
Nevada Revised Statutes, Title 40, Public Health and Safety, Air Pollution: Miscellaneous Provisions
445B.560 | Plan or procedure for emergency | 1/12/06 | 71 FR 51766 (8/31/06) | Nevada Revised Statutes (2003). See 40 CFR 52.1490(c)(56)(i)(A)(4).
445B.570 | Confidentiality and use of information obtained by Department; penalty | 1/12/06 | 72 FR 11 (01/03/07) | Nevada Revised Statutes (2003). See 40 CFR 52.1490(c)(56)(i)(A)(8).
445B.580 | Officer of Department may inspect or search premises; search warrant | 1/12/06 | 72 FR 11 (01/03/07) | Nevada Revised Statutes (2003). See 40 CFR 52.1490(c)(56)(i)(A)(8).
445B.595 | Governmental sources of air contaminants to comply with state and local provisions regarding air pollution; permit to set fire for training purposes; planning and zoning agencies to consider effects on quality of air | 1/12/06 | 71 FR 51766 (8/31/06) | Nevada Revised Statutes (2003). See 40 CFR 52.1490(c)(56)(i)(A)(4).
445B.600 | Private rights and remedies not affected | 1/12/06 | 72 FR 11 (01/03/07) | Nevada Revised Statutes (2003). See 40 CFR 52.1490(c)(56)(i)(A)(8).
445B.610 | Provisions for transition in administration | 1/12/06 | 72 FR 11 (01/03/07) | Nevada Revised Statutes (2003). See 40 CFR 52.1490(c)(56)(i)(A)(8).
Nevada Revised Statutes, Title 40, Public Health and Safety, Air Pollution: Penalties
445B.640 | Levy and disposition of administrative fines; additional remedies available; penalty | 1/12/06 | 72 FR 11 (01/03/07) | Nevada Revised Statutes (2003). See 40 CFR 52.1490(c)(56)(i)(A)(8).
Nevada Revised Statutes, Title 40, Public Health and Safety, Chapter 445B, Air Pollution: Control of Emissions from Engines
445B.700 | Definitions | 5/11/07 | 73 FR 38124 (7/3/08) | Nevada Revised Statutes (2005). See 40 CFR 52.1490(c)(71)(i)(A)(1).
445B.705 | “Approved inspector” defined | 5/11/07 | 73 FR 38124 (7/3/08) | Nevada Revised Statutes (2005). See 40 CFR 52.1490(c)(71)(i)(A)(1).
445B.710 | “Authorized inspection station” defined | 5/11/07 | 73 FR 38124 (7/3/08) | Nevada Revised Statutes (2005). See 40 CFR 52.1490(c)(71)(i)(A)(1).
445B.715 | “Authorized maintenance station” defined | 5/11/07 | 73 FR 38124 (7/3/08) | Nevada Revised Statutes (2005). See 40 CFR 52.1490(c)(71)(i)(A)(1).
445B.720 | “Authorized station” defined | 5/11/07 | 73 FR 38124 (7/3/08) | Nevada Revised Statutes (2005). See 40 CFR 52.1490(c)(71)(i)(A)(1).
445B.725 | “Commission” defined | 5/11/07 | 73 FR 38124 (7/3/08) | Nevada Revised Statutes (2005). See 40 CFR 52.1490(c)(71)(i)(A)(1).
445B.730 | “Evidence of compliance” defined | 5/11/07 | 73 FR 38124 (7/3/08) | Nevada Revised Statutes (2005). See 40 CFR 52.1490(c)(71)(i)(A)(1).
445B.735 | “Fleet station” defined | 5/11/07 | 73 FR 38124 (7/3/08) | Nevada Revised Statutes (2005). See 40 CFR 52.1490(c)(71)(i)(A)(1).
445B.737 | “Heavy-duty motor vehicle” defined | 5/11/07 | 73 FR 38124 (7/3/08) | Nevada Revised Statutes (2005). See 40 CFR 52.1490(c)(71)(i)(A)(1).
445B.740 | “Light-duty motor vehicle” defined | 5/11/07 | 73 FR 38124 (7/3/08) | Nevada Revised Statutes (2005). See 40 CFR 52.1490(c)(71)(i)(A)(1).
445B.745 | “Motor vehicle” defined | 5/11/07 | 73 FR 38124 (7/3/08) | Nevada Revised Statutes (2005). See 40 CFR 52.1490(c)(71)(i)(A)(1).
445B.747 | “Motor vehicle fuel” defined | 5/11/07 | 73 FR 38124 (7/3/08) | Nevada Revised Statutes (2005). See 40 CFR 52.1490(c)(71)(i)(A)(1).
445B.750 | “Passenger car” defined | 5/11/07 | 73 FR 38124 (7/3/08) | Nevada Revised Statutes (2005). See 40 CFR 52.1490(c)(71)(i)(A)(1).
445B.755 | “Pollution control device” defined | 5/11/07 | 73 FR 38124 (7/3/08) | Nevada Revised Statutes (2005). See 40 CFR 52.1490(c)(71)(i)(A)(1).
445B.757 | “Special fuel” defined | 5/11/07 | 73 FR 38124 (7/3/08) | Nevada Revised Statutes (2005). See 40 CFR 52.1490(c)(71)(i)(A)(1).
445B.758 | “Used motor vehicle” defined | 5/11/07 | 73 FR 38124 (7/3/08) | Nevada Revised Statutes (2005). See 40 CFR 52.1490(c)(71)(i)(A)(1).
445B.759 | Inapplicability to military tactical vehicles | 5/11/07 | 73 FR 38124 (7/3/08) | Nevada Revised Statutes (2005). See 40 CFR 52.1490(c)(71)(i)(A)(1).
445B.760 | Authority of Commission to prescribe standards for emissions from mobile internal combustion engines; trimobiles; standards pertaining to motor vehicles to be approved by Department of Motor Vehicles | 5/11/07 | 73 FR 38124 (7/3/08) | Nevada Revised Statutes (2005). See 40 CFR 52.1490(c)(71)(i)(A)(1).
445B.765 | Information concerning program for control of emissions from motor vehicles: Collection, interpretation and correlation; public inspection | 5/11/07 | 73 FR 38124 (7/3/08) | Nevada Revised Statutes (2005). See 40 CFR 52.1490(c)(71)(i)(A)(1).
445B.770 | Regulations of Commission: Control of emissions from motor vehicles; program for inspection and testing of motor vehicles | 5/11/07 | 73 FR 38124 (7/3/08) | Nevada Revised Statutes (2005). See 40 CFR 52.1490(c)(71)(i)(A)(1).
445B.775 | Regulations of Commission: Requirements for licensing of stations by Department of Motor Vehicles | 5/11/07 | 73 FR 38124 (7/3/08) | Nevada Revised Statutes (2005). See 40 CFR 52.1490(c)(71)(i)(A)(1).
445B.780 | Program for regulation of emissions from heavy-duty motor vehicles; equipment used to measure emissions; waiver from requirements of program | 5/11/07 | 73 FR 38124 (7/3/08) | Nevada Revised Statutes (2005). See 40 CFR 52.1490(c)(71)(i)(A)(1).
445B.785 | Regulations of Department of Motor Vehicles: Licensing of stations; performance of inspection and issuance of evidence of compliance; diagnostic equipment; fee, bond or insurance; informational pamphlet; distribution | 5/11/07 | 73 FR 38124 (7/3/08) | Nevada Revised Statutes (2005). See 40 CFR 52.1490(c)(71)(i)(A)(1).
445B.790 | Regulations concerning inspection of stations; grounds for denial, suspension or revocation of license of inspector or station | 5/11/07 | 73 FR 38124 (7/3/08) | Nevada Revised Statutes (2005). See 40 CFR 52.1490(c)(71)(i)(A)(1).
445B.795 | Compulsory program for control of emissions: Limitations | 5/11/07 | 73 FR 38124 (7/3/08) | Nevada Revised Statutes (2005). See 40 CFR 52.1490(c)(71)(i)(A)(1).
445B.798 | Authority of Department of Motor Vehicles, in larger counties, to conduct test of emissions from motor vehicle being operated on highway | 5/11/07 | 73 FR 38124 (7/3/08) | Nevada Revised Statutes (2005). See 40 CFR 52.1490(c)(71)(i)(A)(1).
445B.800 | Evidence of compliance: Requirements for registration, sale or long-term lease of used vehicles in certain counties | 5/11/07 | 73 FR 38124 (7/3/08) | Nevada Revised Statutes (2005). See 40 CFR 52.1490(c)(71)(i)(A)(1).
445B.805 | Evidence of compliance: Exemptions from requirements | 5/11/07 | 73 FR 38124 (7/3/08) | Nevada Revised Statutes (2005). See 40 CFR 52.1490(c)(71)(i)(A)(1).
445B.810 | State Department of Conservation and Natural Resources to provide assistance | 5/11/07 | 73 FR 38124 (7/3/08) | Nevada Revised Statutes (2005). See 40 CFR 52.1490(c)(71)(i)(A)(1).
445B.815 | Evidence of compliance: Duty of employees and agents of Department of Motor Vehicles; submission by owner or lessee of fleet | 5/11/07 | 73 FR 38124 (7/3/08) | Nevada Revised Statutes (2005). See 40 CFR 52.1490(c)(71)(i)(A)(1).
445B.820 | Installation and inspection of pollution control device | 5/11/07 | 73 FR 38124 (7/3/08) | Nevada Revised Statutes (2005). See 40 CFR 52.1490(c)(71)(i)(A)(1).
445B.825 | Exemption of certain classes of motor vehicles; waiver from provisions of NRS 445B.770 to 445B.815, inclusive | 5/11/07 | 73 FR 38124 (7/3/08) | Nevada Revised Statutes (2005). See 40 CFR 52.1490(c)(71)(i)(A)(1).
445B.830 | Fees to be paid to Department of Motor Vehicles; Pollution Control Account; expenditure of money in Account; quarterly distributions to local governments; annual reports by local governments; grants; creation and duties of advisory committee; submission and approval of proposed grants | 5/11/07 | 73 FR 38124 (7/3/08) | Nevada Revised Statutes (2005). See 40 CFR 52.1490(c)(71)(i)(A)(1).
445B.832 | Surcharge for electronic transmission of information: Authority to impose; inclusion as separate entry on form certifying emission control compliance; definition | 5/11/07 | 73 FR 38124 (7/3/08) | Nevada Revised Statutes (2005). See 40 CFR 52.1490(c)(71)(i)(A)(1).
445B.834 | Additional fee for form certifying emission control compliance: Retention of portion of fee by station performing inspection; definition | 5/11/07 | 73 FR 38124 (7/3/08) | Nevada Revised Statutes (2005). See 40 CFR 52.1490(c)(71)(i)(A)(1).
445B.835 | Administrative fine; hearing; additional remedies to compel compliance | 5/11/07 | 73 FR 38124 (7/3/08) | Nevada Revised Statutes (2005). See 40 CFR 52.1490(c)(71)(i)(A)(1).
445B.840 | Unlawful acts | 5/11/07 | 73 FR 38124 (7/3/08) | Nevada Revised Statutes (2005). See 40 CFR 52.1490(c)(71)(i)(A)(1).
445B.845 | Criminal penalty; enforcement of provisions by peace officer; mitigation of offense | 5/11/07 | 73 FR 38124 (7/3/08) | Nevada Revised Statutes (2005). See 40 CFR 52.1490(c)(71)(i)(A)(1).
Nevada Revised Statutes, Title 43, Public Safety; Vehicles; Watercraft; Chapter 481, Administration of Laws Relating to Motor Vehicles: Department of Motor Vehicles
481.019 | Creation; powers and duties | 5/11/07 | 73 FR 38124 (7/3/08) | Nevada Revised Statutes (2005). See 40 CFR 52.1490(c)(71)(i)(A)(1).
481.023 | Administration of laws by Department; exceptions | 5/11/07 | 73 FR 38124 (7/3/08) | Nevada Revised Statutes (2005). See 40 CFR 52.1490(c)(71)(i)(A)(1).
481.027 | General functions of Department of Motor Vehicles and Department of Transportation respecting state highways | 5/11/07 | 73 FR 38124 (7/3/08) | Nevada Revised Statutes (2005). See 40 CFR 52.1490(c)(71)(i)(A)(1).
481.031 | Office of Director of Department created | 5/11/07 | 73 FR 38124 (7/3/08) | Nevada Revised Statutes (2005). See 40 CFR 52.1490(c)(71)(i)(A)(1).
481.035 | Director of Department: Appointment; classification; other employment prohibited; employment of deputies and staff | 5/11/07 | 73 FR 38124 (7/3/08) | Nevada Revised Statutes (2005). See 40 CFR 52.1490(c)(71)(i)(A)(1).
481.047 | Appointment of personnel | 5/11/07 | 73 FR 38124 (7/3/08) | Nevada Revised Statutes (2005). See 40 CFR 52.1490(c)(71)(i)(A)(1).
481.0473 | Divisions of Department | 5/11/07 | 73 FR 38124 (7/3/08) | Nevada Revised Statutes (2005). See 40 CFR 52.1490(c)(71)(i)(A)(1).
481.0475 | Duties of Administrative Services Division | 5/11/07 | 73 FR 38124 (7/3/08) | Nevada Revised Statutes (2005). See 40 CFR 52.1490(c)(71)(i)(A)(1).
481.048 | Division of Compliance Enforcement: Appointment and duties of investigators | 5/11/07 | 73 FR 38124 (7/3/08) | Nevada Revised Statutes (2005). See 40 CFR 52.1490(c)(71)(i)(A)(1).
481.0481 | Section for Control of Emissions From Vehicles and Enforcement of Matters Related to Use of Special Fuel: Creation; appointment and duties of investigators, officers and technicians | 5/11/07 | 73 FR 38124 (7/3/08) | Nevada Revised Statutes (2005). See 40 CFR 52.1490(c)(71)(i)(A)(1).
481.051 | Powers and duties of Director: Generally | 5/11/07 | 73 FR 38124 (7/3/08) | Nevada Revised Statutes (2005). See 40 CFR 52.1490(c)(71)(i)(A)(1).
481.0515 | Powers and duties of Director: References to names of persons in documents and records | 5/11/07 | 73 FR 38124 (7/3/08) | Nevada Revised Statutes (2005). See 40 CFR 52.1490(c)(71)(i)(A)(1).
481.052 | Powers and duties of Director: Adoption of definition of `seasonal resident' by regulation | 5/11/07 | 73 FR 38124 (7/3/08) | Nevada Revised Statutes (2005). See 40 CFR 52.1490(c)(71)(i)(A)(1).
481.0535 | Powers and duties of Director: Expenditure of appropriations to assist certain entities to purchase and obtain evidence; receipt and safekeeping of money | 5/11/07 | 73 FR 38124 (7/3/08) | Nevada Revised Statutes (2005). See 40 CFR 52.1490(c)(71)(i)(A)(1).
481.055 | Department to keep main office in Carson City; maintenance of branch offices | 5/11/07 | 73 FR 38124 (7/3/08) | Nevada Revised Statutes (2005). See 40 CFR 52.1490(c)(71)(i)(A)(1).
481.057 | Offices of Department: Extended hours of operation | 5/11/07 | 73 FR 38124 (7/3/08) | Nevada Revised Statutes (2005). See 40 CFR 52.1490(c)(71)(i)(A)(1).
481.063 | Collection and deposit of fees for publications of Department and private use of files and records of Department; limitations on release and use of files and records; regulations | 5/11/07 | 73 FR 38124 (7/3/08) | Nevada Revised Statutes (2005). See 40 CFR 52.1490(c)(71)(i)(A)(1).
481.065 | Acceptance of donations for programs for traffic safety | 5/11/07 | 73 FR 38124 (7/3/08) | Nevada Revised Statutes (2005). See 40 CFR 52.1490(c)(71)(i)(A)(1).
481.079 | Money collected to be deposited in Motor Vehicle Fund; exception; dishonored payments; adjustment of deposits | 5/11/07 | 73 FR 38124 (7/3/08) | Nevada Revised Statutes (2005). See 40 CFR 52.1490(c)(71)(i)(A)(1).
481.081 | Arrearage in tax, fee or assessment administered by Department: Department authorized to file certificate; certificate as lien; extension of lien | 5/11/07 | 73 FR 38124 (7/3/08) | Nevada Revised Statutes (2005). See 40 CFR 52.1490(c)(71)(i)(A)(1).
481.082 | Arrearage in tax, fee or assessment administered by Department: Release or subordination of lien; certificate issued by Department as conclusive evidence | 5/11/07 | 73 FR 38124 (7/3/08) | Nevada Revised Statutes (2005). See 40 CFR 52.1490(c)(71)(i)(A)(1).
481.083 | Money for administration of chapter; claims | 5/11/07 | 73 FR 38124 (7/3/08) | Nevada Revised Statutes (2005). See 40 CFR 52.1490(c)(71)(i)(A)(1).
481.087 | Administrative expenses deemed cost of administration of operation of motor vehicles on public highways | 5/11/07 | 73 FR 38124 (7/3/08) | Nevada Revised Statutes (2005). See 40 CFR 52.1490(c)(71)(i)(A)(1).
Nevada Revised Statutes, Title 43, Public Safety; Vehicles; Watercraft; Chapter 482, Motor Vehicles and Trailers: Licensing, Registration, Sales and Leases
482.029 | Electric personal assistive mobility device defined | 5/11/07 | 73 FR 38124 (7/3/08) | Nevada Revised Statutes (2005). See 40 CFR 52.1490(c)(71)(i)(A)(1).
Nevada Revised Statutes, Title 43, Public Safety; Vehicles; Watercraft; Chapter 482, Motor Vehicles and Trailers: Licensing, Registration, Sales and Leases—Administration
482.155 | Enforcement of provisions of chapter by Department, its officers and peace officers | 5/11/07 | 73 FR 38124 (7/3/08) | Nevada Revised Statutes (2005). See 40 CFR 52.1490(c)(71)(i)(A)(1).
482.160 | Administrative regulations; branch offices; appointment of agents and designation of county assessor as agent; compensation of certain agents | 5/11/07 | 73 FR 38124 (7/3/08) | Nevada Revised Statutes (2005). See 40 CFR 52.1490(c)(71)(i)(A)(1).
482.162 | Department to adopt regulations setting forth criteria for determination of whether person is farmer or rancher; presentation of evidence to Department | 5/11/07 | 73 FR 38124 (7/3/08) | Nevada Revised Statutes (2005). See 40 CFR 52.1490(c)(71)(i)(A)(1).
482.165 | Director to provide forms | 5/11/07 | 73 FR 38124 (7/3/08) | Nevada Revised Statutes (2005). See 40 CFR 52.1490(c)(71)(i)(A)(1).
482.170 | Records of Department concerning registration and licensing | 5/11/07 | 73 FR 38124 (7/3/08) | Nevada Revised Statutes (2005). See 40 CFR 52.1490(c)(71)(i)(A)(1).
482.171 | List of registered owners to be provided for selection of jury; reimbursement of Department | 5/11/07 | 73 FR 38124 (7/3/08) | Nevada Revised Statutes (2005). See 40 CFR 52.1490(c)(71)(i)(A)(1).
482.173 | Schedule for retention and disposition of certain records of Department | 5/11/07 | 73 FR 38124 (7/3/08) | Nevada Revised Statutes (2005). See 40 CFR 52.1490(c)(71)(i)(A)(1).
482.175 | Validity of registration: Powers and duties of Department and registered dealers | 5/11/07 | 73 FR 38124 (7/3/08) | Nevada Revised Statutes (2005). See 40 CFR 52.1490(c)(71)(i)(A)(1).
482.180 | Motor Vehicle Fund: Creation: deposits; interest and income; dishonored payments; distribution of money collected for basic governmental services tax; transfers | 5/11/07 | 73 FR 38124 (7/3/08) | Nevada Revised Statutes (2005). See 40 CFR 52.1490(c)(71)(i)(A)(1).
482.1805 | Revolving Account for Issuance of Special License Plates: Creation; deposit of certain fees; use of money in Account; transfer of excess balance to State Highway Fund | 5/11/07 | 73 FR 38124 (7/3/08) | Nevada Revised Statutes (2005). See 40 CFR 52.1490(c)(71)(i)(A)(1).
482.181 | Governmental services taxes: Certification of amount collected each month; distribution | 5/11/07 | 73 FR 38124 (7/3/08) | Nevada Revised Statutes (2005). See 40 CFR 52.1490(c)(71)(i)(A)(1).
482.183 | Motor Vehicle Revolving Account: Creation; use; deposits | 5/11/07 | 73 FR 38124 (7/3/08) | Nevada Revised Statutes (2005). See 40 CFR 52.1490(c)(71)(i)(A)(1).
482.186 | Certain odometers deemed to register mileage reflected on odometer plus 100,000 miles | 5/11/07 | 73 FR 38124 (7/3/08) | Nevada Revised Statutes (2005). See 40 CFR 52.1490(c)(71)(i)(A)(1).
482.187 | Department authorized to enter into written agreements for periodic payment of delinquent taxes or fees; regulations | 5/11/07 | 73 FR 38124 (7/3/08) | Nevada Revised Statutes (2005). See 40 CFR 52.1490(c)(71)(i)(A)(1).
482.188 | Waiver of penalty or interest for failure timely to file return or pay tax, penalty or fee in certain circumstances | 5/11/07 | 73 FR 38124 (7/3/08) | Nevada Revised Statutes (2005). See 40 CFR 52.1490(c)(71)(i)(A)(1).
Nevada Revised Statutes, Title 43, Public Safety; Vehicles; Watercraft; Chapter 482, Motor Vehicles and Trailers: Licensing, Registration, Sales and Leases—Original and Renewal of Registration
482.205 | Registration required for certain vehicles | 5/11/07 | 73 FR 38124 (7/3/08) | Nevada Revised Statutes (2005). See 40 CFR 52.1490(c)(71)(i)(A)(1).
482.206 | Periods of registration for motor vehicles; exceptions | 5/11/07 | 73 FR 38124 (7/3/08) | Nevada Revised Statutes (2005). See 40 CFR 52.1490(c)(71)(i)(A)(1).
482.208 | Registration of leased vehicles by long-term lessor or long-term lessee | 5/11/07 | 73 FR 38124 (7/3/08) | Nevada Revised Statutes (2005). See 40 CFR 52.1490(c)(71)(i)(A)(1).
482.210 | Exemptions from registration | 5/11/07 | 73 FR 38124 (7/3/08) | Nevada Revised Statutes (2005). See 40 CFR 52.1490(c)(71)(i)(A)(1).
482.215 | Application for registration | 5/11/07 | 73 FR 38124 (7/3/08) | Nevada Revised Statutes (2005). See 40 CFR 52.1490(c)(71)(i)(A)(1).
482.216 | Department may authorize new vehicle dealer to accept applications for registration and transfer of registration of new motor vehicles and to issue certificates of registration; duties of dealer; prohibited acts; regulations | 5/11/07 | 73 FR 38124 (7/3/08) | Nevada Revised Statutes (2005). See 40 CFR 52.1490(c)(71)(i)(A)(1).
482.220 | Application for specially constructed, reconstructed, rebuilt or foreign vehicle; certificate of inspection; charge for inspection | 5/11/07 | 73 FR 38124 (7/3/08) | Nevada Revised Statutes (2005). See 40 CFR 52.1490(c)(71)(i)(A)(1).
482.225 | Collection of sales or use tax upon application for registration of certain vehicles purchased outside this State; payment of all applicable taxes and fees required for registration; refund of tax erroneously or illegally collected | 5/11/07 | 73 FR 38124 (7/3/08) | Nevada Revised Statutes (2005). See 40 CFR 52.1490(c)(71)(i)(A)(1).
482.230 | Grounds requiring refusal of registration | 5/11/07 | 73 FR 38124 (7/3/08) | Nevada Revised Statutes (2005). See 40 CFR 52.1490(c)(71)(i)(A)(1).
482.235 | Registration indexes and records; assignment of registration number by registered dealer | 5/11/07 | 73 FR 38124 (7/3/08) | Nevada Revised Statutes (2005). See 40 CFR 52.1490(c)(71)(i)(A)(1).
482.240 | Issuance of certificates of registration and title by Department or registered dealer; period of validity of certificate | 5/11/07 | 73 FR 38124 (7/3/08) | Nevada Revised Statutes (2005). See 40 CFR 52.1490(c)(71)(i)(A)(1).
482.245 | Contents of certificates of registration and title | 5/11/07 | 73 FR 38124 (7/3/08) | Nevada Revised Statutes (2005). See 40 CFR 52.1490(c)(71)(i)(A)(1).
482.255 | Placement of certificate of registration; surrender upon demand of peace officer, justice of the peace or deputy of Department; limitation on conviction | 5/11/07 | 73 FR 38124 (7/3/08) | Nevada Revised Statutes (2005). See 40 CFR 52.1490(c)(71)(i)(A)(1).
482.260 | Duties of Department of Motor Vehicles and its agents relative to registration of vehicle; issuance of certificate of title; fees and taxes | 5/11/07 | 73 FR 38124 (7/3/08) | Nevada Revised Statutes (2005). See 40 CFR 52.1490(c)(71)(i)(A)(1).
482.265 | License plates issued upon registration; stickers, tabs or other devices issued upon renewal of registration; return of plates; fee for and limitations on issuance of special license plates | 5/11/07 | 73 FR 38124 (7/3/08) | Nevada Revised Statutes (2005). See 40 CFR 52.1490(c)(71)(i)(A)(1).
482.266 | Manufacture of license plates substantially similar to license plates issued before January 1, 1982: Written request; fee; delivery; duties of Department; retention of old plates authorized if requested plates contain same letters and numbers | 5/11/07 | 73 FR 38124 (7/3/08) | Nevada Revised Statutes (2005). See 40 CFR 52.1490(c)(71)(i)(A)(1).
482.267 | License plates: Production at facility of Department of Corrections | 5/11/07 | 73 FR 38124 (7/3/08) | Nevada Revised Statutes (2005). See 40 CFR 52.1490(c)(71)(i)(A)(1).
482.268 | License plates: Additional fee for issuance; deposit of fee | 5/11/07 | 73 FR 38124 (7/3/08) | Nevada Revised Statutes (2005). See 40 CFR 52.1490(c)(71)(i)(A)(1).
482.270 | License plates: General specifications; redesign; configuration of special license plates designed, prepared and issued pursuant to process of direct application and petition | 5/11/07 | 73 FR 38124 (7/3/08) | Nevada Revised Statutes (2005). See 40 CFR 52.1490(c)(71)(i)(A)(1).
482.2703 | License plates: Samples; form; fee; penalty | 5/11/07 | 73 FR 38124 (7/3/08) | Nevada Revised Statutes (2005). See 40 CFR 52.1490(c)(71)(i)(A)(1).
482.2705 | License plates: Passenger cars and trucks | 5/11/07 | 73 FR 38124 (7/3/08) | Nevada Revised Statutes (2005). See 40 CFR 52.1490(c)(71)(i)(A)(1).
482.271 | License plates: Decals; fees | 5/11/07 | 73 FR 38124 (7/3/08) | Nevada Revised Statutes (2005). See 40 CFR 52.1490(c)(71)(i)(A)(1).
482.2715 | License plates: Registrant entitled to maintain code if continuously renewed; exceptions; issuance of replacement plates with same code after expiration of registration; fee | 5/11/07 | 73 FR 38124 (7/3/08) | Nevada Revised Statutes (2005). See 40 CFR 52.1490(c)(71)(i)(A)(1).
482.2717 | License plates to be issued to automobile wreckers and operators of salvage pools | 5/11/07 | 73 FR 38124 (7/3/08) | Nevada Revised Statutes (2005). See 40 CFR 52.1490(c)(71)(i)(A)(1).
482.272 | License plates: Motorcycles | 5/11/07 | 73 FR 38124 (7/3/08) | Nevada Revised Statutes (2005). See 40 CFR 52.1490(c)(71)(i)(A)(1).
482.274 | License plates: Trailers | 5/11/07 | 73 FR 38124 (7/3/08) | Nevada Revised Statutes (2005). See 40 CFR 52.1490(c)(71)(i)(A)(1).
482.275 | License plates: Display | 5/11/07 | 73 FR 38124 (7/3/08) | Nevada Revised Statutes (2005). See 40 CFR 52.1490(c)(71)(i)(A)(1).
482.280 | Expiration and renewal of registration | 5/11/07 | 73 FR 38124 (7/3/08) | Nevada Revised Statutes (2005). See 40 CFR 52.1490(c)(71)(i)(A)(1).
482.2805 | Department not to renew registration if local authority has filed notice of nonpayment pursuant to NRS 484.444; fee for service performed by Department | 5/11/07 | 73 FR 38124 (7/3/08) | Nevada Revised Statutes (2005). See 40 CFR 52.1490(c)(71)(i)(A)(1).
482.2807 | Requirements for registration if local government has filed notice of nonpayment pursuant to NRS 484.444 | 5/11/07 | 73 FR 38124 (7/3/08) | Nevada Revised Statutes (2005). See 40 CFR 52.1490(c)(71)(i)(A)(1).
482.281 | Authority of Department of Motor Vehicles to allow authorized inspection station or authorized station to renew certificates of registration; adoption of regulations | 5/11/07 | 73 FR 38124 (7/3/08) | Nevada Revised Statutes (2005). See 40 CFR 52.1490(c)(71)(i)(A)(1).
482.283 | Change of name or place of residence: Notice to Department required; timing and contents of notice | 5/11/07 | 73 FR 38124 (7/3/08) | Nevada Revised Statutes (2005). See 40 CFR 52.1490(c)(71)(i)(A)(1).
482.285 | Certificates, decals and number plates: Illegibility, loss, mutilation or theft; obtaining of duplicates or substitutes; fees and taxes | 5/11/07 | 73 FR 38124 (7/3/08) | Nevada Revised Statutes (2005). See 40 CFR 52.1490(c)(71)(i)(A)(1).
482.290 | Assignment and recording of new number for identification of vehicle if old number destroyed or obliterated; fee; penalty for willful defacement, alteration, substitution or removal of number with intent to defraud | 5/11/07 | 73 FR 38124 (7/3/08) | Nevada Revised Statutes (2005). See 40 CFR 52.1490(c)(71)(i)(A)(1).
Nevada Revised Statutes, Title 43, Public Safety; Vehicles; Watercraft; Chapter 482, Motor Vehicles and Trailers: Licensing, Registration, Sales and Leases—Permits for Unregistered Motor Vehicles
482.385 | Registration of vehicle of nonresident owner not required; exceptions; registration of vehicle by person upon becoming resident of this State; penalty; taxes and fees; surrender or nonresident license plates and registration certificate; citation for violation | 5/11/07 | 73 FR 38124 (7/3/08) | Nevada Revised Statutes (2005). See 40 CFR 52.1490(c)(71)(i)(A)(1).
Nevada Revised Statutes, Title 43, Public Safety; Vehicles; Watercraft; Chapter 482, Motor Vehicles and Trailers: Licensing, Registration, Sales and Leases—Cancellation of Registration
482.461 | Failure of mandatory test of emissions from engines; notification; cost of inspection | 5/11/07 | 73 FR 38124 (7/3/08) | Nevada Revised Statutes (2005). See 40 CFR 52.1490(c)(71)(i)(A)(1).
Nevada Revised Statutes, Title 43, Public Safety; Vehicles; Watercraft; Chapter 482, Motor Vehicles and Trailers: Licensing, Registration, Sales and Leases—Penalties
482.565 | Administrative fines for violations other than deceptive trade practices; injunction or other appropriate remedy; enforcement proceedings | 5/11/07 | 73 FR 38124 (7/3/08) | Nevada Revised Statutes (2005). See 40 CFR 52.1490(c)(71)(i)(A)(1).
Nevada Revised Statutes (2005), Title 43, Public Safety; Vehicles; Watercraft; Chapter 484, Traffic Laws—Other Equipment
484.101 | Passenger car defined | 5/11/07 | 73 FR 38124 (7/3/08) | Nevada Revised Statutes (2005). See 40 CFR 52.1490(c)(71)(i)(A)(1).
484.644 | Device for control of pollution: Use required; disconnection or alteration prohibited; exceptions | 5/11/07 | 73 FR 38124 (7/3/08) | Nevada Revised Statutes (2005). See 40 CFR 52.1490(c)(71)(i)(A)(1).
484.6441 | Device for control of pollution: Penalty; proof of conformity may be required | 5/11/07 | 73 FR 38124 (7/3/08) | Nevada Revised Statutes (2005). See 40 CFR 52.1490(c)(71)(i)(A)(1).
* Not applicable.
¹ The organization of this table generally follows from the organization of the State of Nevada's original 1972 SIP, which was divided into 12 sections. Nonattainment and maintenance plans, among other types of plans, are listed under Section 5 (Control Strategy). Lead SIPs and Small Business Stationary Source Technical and Environmental Compliance Assistance SIPs are listed after Section 12 followed by nonregulatory or quasi-regulatory statutory provisions approved into the SIP. Regulatory statutory provisions are listed in 40 CFR 52.1470(c).

4. In newly redesignated § 52.1490, the section heading and paragraph (a) are revised to read as follows:

§ 52.1490 Original identification of plan.

(a) This section identified the original “Air Quality Implementation Plan for the State of Nevada” and all revisions submitted by the State of Nevada that were federally approved prior to September 28, 2010.

* * * * *

[FR Doc. 2012-5554 Filed 3-12-12; 8:45 am]

BILLING CODE 6560-50-P